ENVIRONMENTAL PROTECTION AGENCY

40 CFR Part 81

[EPA-HQ-OAR-2011-0572; FRL-9624-3]

RIN-2060-AR06

Air Quality Designations for the 2010 Primary Nitrogen Dioxide (NO2) National Ambient Air Quality Standards

AGENCY: Environmental Protection Agency (EPA).

ACTION: Final rule.

SUMMARY: This rule establishes air quality designations for all areas in the United States for the 2010 Primary Nitrogen Dioxide (NO2) National Ambient Air Quality Standards (NAAQS). Based on air quality monitoring data, the EPA is issuing this rule to designate all areas of the country as “unclassifiable/attainment” for the 2010 NO2 NAAQS. The EPA is designating areas as “unclassifiable/attainment” to mean that available information does not indicate that the air quality in these areas exceeds the 2010 NO2 NAAQS.

DATES: The effective date of this rule is February 29, 2012.

ADDRESSES: The EPA has established a docket for this action under Docket ID No. EPA-HQ-OAR-2011-0572. All documents in the docket are listed in the index at http://www.regulations.gov. Although listed in the index, some information is not publicly available, i.e., Confidential Business Information (CBI) or other information whose disclosure is restricted by statute. Certain other material, such as copyrighted material, is not placed on the Internet and will be publicly available only in hard copy form. Publicly available docket materials are available either electronically in the docket or in hard copy at the Docket, EPA/DC, EPA West, Room 3334, 1301 Constitution Ave. NW., Washington, DC. The Public Reading Room is open from 8:30 a.m. to 4:30 p.m. Monday through Friday, excluding legal holidays. The telephone number for the Public Reading Room is (202) 566-1744, and the telephone number for the Office of Air and Radiation Docket and Information Center is (202) 566-1742.

In addition, the EPA has established a Web site for this rulemaking at: http://www.epa.gov/air/nitrogenoxides/designations. The Web site includes the EPA's final state and tribal designations, as well as state initial recommendation letters, the EPA modification letters, technical support documents, responses to comments and other related technical information.

FOR FURTHER INFORMATION CONTACT: Doug Solomon, Office of Air Quality Planning and Standards, U.S. Environmental Protection Agency, Mail Code C539-04, Research Triangle Park, NC 27711, phone number (919) 541-4132 or by email at: solomon.douglas@epa.gov; or Rhea Jones, Office of Air Quality Planning and Standards, U.S. Environmental Protection Agency, Mail Code C539-04, Research Triangle Park, NC 27711, phone number (919) 541-2940 or by email at: jones.rhea@epa.gov.

SUPPLEMENTARY INFORMATION:

Regional Office Contacts

Region I—Alison Simcox (617) 918-1684,

Region II—Kenneth Fradkin (212) 637-3702,

Region III—Maria Pino (215) 814-2181,

Region IV—Steve Scofield (404) 562-9034,

Region V—John Summerhays (312) 886-6067,

Region VI—Joe Kordzi (214) 665-7186,

Region VII—Amy Algoe-Eakin (913) 551-7942,

Region VIII—Catherine Roberts (303) 312-6025,

Region IX—Eleanor Kaplan (415) 972-4147,

Region X—Krishna Viswanathan (206) 553-2684.

The public may inspect the rule and state-specific technical support information at the following locations:

Regional offices | States
Dave Conroy, Chief, Air Programs Branch, EPA New England, 1 Congress Street, Suite 1100, Boston, MA 02114-2023, (617) 918-1661 | Connecticut, Maine, Massachusetts, New Hampshire, Rhode Island, and Vermont.
Raymond Werner, Chief, Air Programs Branch, EPA Region 2, 290 Broadway, 25th Floor, New York, NY 10007-1866, (212) 637-3706 | New Jersey, New York, Puerto Rico, and Virgin Islands.
Cristina Fernandez, Branch Chief, Air Quality Planning Branch, EPA Region 3, 1650 Arch Street, Philadelphia, PA 19103-2187, (215) 814-2178 | Delaware, District of Columbia, Maryland, Pennsylvania, Virginia, and West Virginia.
R. Scott Davis, Branch Chief, Air Planning Branch, EPA Region 4, Sam Nunn Atlanta Federal Center, 61 Forsyth Street SW., 12th Floor, Atlanta, GA 30303, (404) 562-9127 | Alabama, Florida, Georgia, Kentucky, Mississippi, North Carolina, South Carolina, and Tennessee.
John Mooney, Chief, Air Programs Branch, EPA Region 5, 77 West Jackson Street, Chicago, IL 60604, (312) 886-6043 | Illinois, Indiana, Michigan, Minnesota, Ohio, and Wisconsin.
Guy Donaldson, Chief, Air Planning Section, EPA Region 6, 1445 Ross Avenue, Dallas, TX 75202, (214) 665-7242 | Arkansas, Louisiana, New Mexico, Oklahoma, and Texas.
Joshua A. Tapp, Chief, Air Programs Branch, EPA Region 7, 901 North 5th Street, Kansas City, Kansas 66101-2907, (913) 551-7606 | Iowa, Kansas, Missouri, and Nebraska.
Monica Morales, Leader, Air Quality Planning Unit, EPA Region 8, 1595 Wynkoop Street, Denver, CO 80202-1129, (303) 312-6936 | Colorado, Montana, North Dakota, South Dakota, Utah, and Wyoming.
Lisa Hanf, Air Planning Office, EPA Region 9, 75 Hawthorne Street, San Francisco, CA 94105, (415) 972-3854 | American Samoa, Arizona, California, Guam, Hawaii, Nevada, and Northern Mariana Islands.
Krishna Viswanathan, Manager, State and Tribal Air Programs, EPA Region 10, Office of Air, Waste, and Toxics, Mail Code OAQ-107, 1200 Sixth Avenue, Seattle, WA 98101, (206) 553-2684 | Alaska, Idaho, Oregon, and Washington.

Table of Contents

The following is an outline of the Preamble.

I. Preamble Glossary of Terms and Acronyms

II. What is the purpose of this action?

III. What is nitrogen dioxide?

IV. What are the health concerns addressed by the NO2 standards?

V. What are the CAA requirements for air quality designations and what action has EPA taken to meet these requirements?

VI. What guidance did the EPA issue and how did the EPA apply the statutory requirements and applicable guidance to determine area designations and boundaries?

VII. Comments

VIII. Implications of Designations for Compliance With PSD Increments for NO2

IX. What air quality data has EPA used?

X. How do designations affect Indian country?

XI. Where can I find information forming the basis for this rule and exchanges between EPA, states, and tribes related to this rule?

XII. Statutory and Executive Order Reviews

A. Executive Order 12866: Regulatory Planning and Review and Executive Order 13563: Improving Regulations and Regulatory Review

B. Paperwork Reduction Act

C. Regulatory Flexibility Act

D. Unfunded Mandates Reform Act

E. Executive Order 13132: Federalism

F. Executive Order 13175: Consultation and Coordination With Indian Tribal Governments

G. Executive Order 13045: Protection of Children From Environmental Health and Safety Risks

H. Executive Order 13211: Actions That Significantly Affect Energy Supply, Distribution, or Use

I. National Technology Transfer and Advancement Act (NTTAA)

J. Executive Order 12898: Federal Actions To Address Environmental Justice in Minority Populations and Low-Income Populations

K. Congressional Review Act

L. Judicial Review

I. Preamble Glossary of Terms and Acronyms

The following are abbreviations of terms used in the preamble.

APA Administrative Procedure Act

AQS Air Quality System

CAA Clean Air Act

CBI Confidential Business Information

CFR Code of Federal Regulations

DC District of Columbia

EPA Environmental Protection Agency

FR Federal Register

FRM Federal Reference Method

NAAQS National Ambient Air Quality Standards

NO2 Nitrogen Dioxide

NTTAA National Technology Transfer and Advancement Act

OMB Office of Management and Budget

PSD Prevention of Significant Deterioration

RFA Regulatory Flexibility Act

RIA Regulatory Impact Analysis

SBA Small Business Administration

SIP State Implementation Plan

UMRA Unfunded Mandates Reform Act of 1995

TAR Tribal Authority Rule

TSD Technical Support Document

TPY Tons Per Year

U.S. United States

VCS Voluntary Consensus Standards

II. What is the purpose of this action?

The purpose of this action is to promulgate and announce initial area designations for all areas of the country for the 2010 NO2 NAAQS based on available information, in accordance with the requirements of the Clean Air Act (CAA). The list of all areas being designated in each state, and the boundaries of each area, appear in the tables at the end of this final rule. The EPA has been working closely with the states involved in these designations and several steps have been taken to announce that this rule is available. The EPA has posted the notice on several EPA Web sites.

This notice identifies all areas of the United States (U.S.) as being designated as “unclassifiable/attainment” for the 2010 NO2 NAAQS. The basis for designating these areas as “unclassifiable/attainment” is monitored air quality data from calendar years 2008-2010 indicating no violations of the NAAQS.

The EPA and state agencies are currently working to establish an expanded network of NO2 monitors, expected to be deployed in 2013. Once 3 years of air quality data have been collected from the expanded network, the EPA will be able to evaluate NO2 air quality in additional locations.

III. What is nitrogen dioxide?

NO2 is a reddish-brown, highly reactive gas that is formed in the ambient air through the oxidation of nitric oxide (NO). Nitrogen oxides (NOX) is the term used to describe the sum of NO, NO2, and other oxides of nitrogen. A variety of NOX compounds and their transformation products occur both naturally and as a result of human activities. Anthropogenic (i.e., manmade) emissions of NOX account for a large majority of all nitrogen inputs to the environment. The major sources of anthropogenic NOX emissions are high-temperature combustion processes, such as those occurring in automobiles and power plants. Most NOX from combustion sources (about 95 percent) are emitted as NO, which is readily converted to NO2 in the environment; the remainder is emitted largely as NO2. Natural sources of NOX are lightning, biological and abiological processes in soil, and stratospheric intrusion.

IV. What are the health concerns addressed by the NO2 standards?

Current scientific evidence links short-term NO2 exposures, ranging from 30 minutes to 24 hours, with an array of adverse respiratory effects including increased asthma symptoms, more difficulty controlling asthma, and an increase in respiratory illnesses and symptoms. Studies also show a connection between short-term exposure and increased visits to emergency departments and hospital admissions for respiratory illnesses, particularly in populations including children, the elderly, and asthmatics.

The EPA's NAAQS for NO2 is designed to protect against exposure to the entire group of NOX. NO2 is the component of greatest concern and is used as the indicator for the larger group of NOX. (See 75 FR 6474.)

V. What are the CAA requirements for air quality designations and what action has the EPA taken to meet these requirements?

After the promulgation of a new or revised NAAQS, the EPA is required to designate areas as nonattainment, attainment, or unclassifiable, pursuant to section 107(d)(1) of the CAA. The Administrator signed a final rule revising the NO2 NAAQS on January 22, 2010, which was published in the Federal Register on February 9, 2010, and became effective April 12, 2010. Based on the Administrator's review of the scientific evidence, including numerous studies published since the last review of the NO2 NAAQS, and taking into consideration the comments expressed by the Clean Air Scientific Advisory Committee and the public, the Administrator set a new 1-hour NO2 standard at the level of 100 parts per billion (ppb). In addition to establishing an averaging time and level, the Administrator also set a new form for the standard. The form for the 1-hour NO2 standard is the 3-year average of the 98th percentile of the annual distribution of daily maximum 1-hour average concentrations. The rule also retained, with no change, the current annual average NO2 standard of 53 ppb.

The rule also set new requirements for the placement of NO2 monitors. The EPA and state agencies are currently working to establish an expanded network of NO2 monitors, expected to be deployed in 2013. NO2 concentrations near major roads are appreciably higher than those measured at monitors in the current network. Monitoring studies indicate that near-road (within about 50 meters) concentrations of NO2 can be 30 to 100 percent higher than concentrations away from major roads.

The CAA requires the EPA to complete the initial area designation process within 2 years of promulgating a new or revised NAAQS. However, if the Administrator has insufficient information to make these designations within that time frame, the EPA has the authority to extend the designation process by up to 1 additional year.

By not later than 1 year after the promulgation of a new or revised NAAQS, each state governor is required to recommend air quality designations, including the appropriate boundaries for areas, to the EPA. The EPA reviews those state recommendations and is authorized to make any modifications the Administrator deems necessary. The statute does not define the term “necessary,” but the EPA interprets this to authorize the Administrator to modify designations that did not meet the statutory requirements or were otherwise inconsistent with the facts or analysis deemed appropriate by the EPA. If the EPA is considering modifications to a state's initial recommendation, the EPA is required to notify the state of any such intended modifications to its recommendation not less than 120 days prior to the EPA's promulgation of the final designation. If the state does not agree with the EPA's intended modification, it then has an opportunity to respond to the EPA and to demonstrate why it believes the modification proposed by the EPA is inappropriate. Even if a state fails to provide any recommendation for an area, in whole or in part, the EPA still must promulgate a designation that the Administrator deems appropriate.

Section 107(d)(1)(A)(i) of the CAA defines a nonattainment area as any area that does not meet an ambient air quality standard or that is contributing to ambient air quality in a nearby area that does not meet the standard. If an area meets either prong of this definition, then the EPA is obligated to designate the area as “nonattainment.” Section 107(d)(1)(A)(iii) provides that any area that the EPA cannot designate on the basis of available information as meeting or not meeting the standards should be designated as “unclassifiable.”

The EPA believes that section 107(d) provides the agency with discretion to determine how best to interpret the terms in the definition of a nonattainment area (e.g., “contributes to” and “nearby”) for a new or revised NAAQS, given considerations such as the nature of a specific pollutant, the types of sources that may contribute to violations, the form of the standards for the pollutant, and other relevant information. In particular, the EPA believes that the statute does not require the agency to establish bright line tests or thresholds for what constitutes “contribution” or “nearby” for purposes of designations.¹

¹ This view was confirmed in Catawba County v. EPA, 571 F.3d 20 (DC Cir. 2009).

Similarly, the EPA believes that the statute permits the EPA to evaluate the appropriate application of the term “area” to include geographic areas based upon full or partial county boundaries, and contiguous or non-contiguous areas, as may be appropriate for a particular NAAQS. For example, section 107(d)(1)(B)(ii) explicitly provides that the EPA can make modifications to designation recommendations for an area “or portions thereof,” and, under section 107(d)(1)(B)(iv), a designation remains in effect for an area “or portion thereof” until the EPA redesignates it.

Designation activities for federally-recognized tribes are covered under the authority of section 301(d) of the CAA. This provision of the CAA authorizes the EPA to treat eligible tribes in a similar manner as states. Pursuant to section 301(d)(2), we promulgated regulations, known as the Tribal Authority Rule (TAR), on February 12, 1999. See 63 FR 7254, codified at 40 CFR 49 (1999). That rule specifies those provisions of the CAA for which it is appropriate to treat tribes in a similar manner as states. Under the TAR, tribes may choose to develop and implement their own CAA programs, but are not required to do so. The TAR also establishes procedures and criteria by which tribes may request from the EPA a determination of eligibility for such treatment. The designations process contained in section 107(d) of the CAA is included among those provisions determined to be appropriate by the EPA for treatment of tribes in the same manner as states. Under the TAR, tribes generally are not subject to the same submission schedules imposed by the CAA on states. As authorized by the TAR, tribes may seek eligibility to submit designation recommendations to the EPA. In addition, CAA section 301(d)(4) gives the EPA discretionary authority, in cases where it determines that treatment of tribes as identical to states is “inappropriate or administratively infeasible,” to provide for direct administration by regulation to achieve the appropriate purpose.

Designation recommendations and supporting documentation for the NO2 NAAQS were submitted by most states and a few tribes to the EPA by January 22, 2011. After receiving recommendations from states and tribes, and after reviewing and evaluating each recommendation, the EPA provided a response to the states and tribes on June 29, 2011. In these letter responses, we indicated whether the EPA intended to make modifications to the initial state or tribal recommendations and explained the EPA's reasons for making any such modifications. The EPA requested that states and tribes respond to any proposed EPA modifications by August 29, 2011. We received comments from some states suggesting changes to the EPA's proposed modifications and providing additional information. The EPA evaluated these comments, and, as a result, some of the final designations reflect further modifications to the initial state and tribal recommendations. The state and tribal letters, including the initial recommendations, the EPA's June 2011 responses to those letters, including any modifications, and the subsequent state and tribal comment letters are in the docket for this action.

Although not required by section 107(d) of the CAA, the EPA also provided an opportunity for members of the public to comment on the EPA's June 2011 response letters. In order to gather additional information for the EPA to consider before making final designations, EPA published a notice on July 7, 2011, (76 FR 39798) which invited the public to comment on the EPA's intended designations. In that notice, the EPA provided the opportunity to all interested parties other than states and tribes to submit comments by August 8, 2011. State and tribal initial recommendations and EPA's responses, including modifications, were posted on a publically accessible Web site (http://www.epa.gov/airquality/nitrogenoxides/designations/index.html). Comments from the public and EPA's responses to comments are in the docket for this action.

VI. What guidance did the EPA issue and how did the EPA apply the statutory requirements and applicable guidance to determine area designations and boundaries?

In the notice of proposed rulemaking for the revised NO2 NAAQS (73 FR 29184), the EPA issued proposed guidance, on its approach to implementing the standard, including its approach to initial area designations. The EPA solicited comment on that guidance and, in the notice of final rulemaking (75 FR 6475), adopted guidance concerning how to designate areas for the NO2 NAAQS. In that guidance the EPA recommended that monitoring data using the 3 most recent years of quality-assured air quality data from the current monitoring network, which would be for the years 2008-2010, be used to identify violations of the NO2 NAAQS. The EPA is basing these final designations on monitored NO2 concentrations from Federal Reference Method (FRM) monitors from calendar years 2008-2010.

In the guidance, the EPA stated that in the event that a current NO2 monitor indicates a violation of the revised standards, the EPA intends to designate such areas “nonattainment” no later than 2 years following promulgation of the revised standards. The EPA also stated that it intends to designate the rest of the country as “unclassifiable” for the revised NO2 NAAQS until sufficient air quality data is collected from a near-roadway monitoring network. Once the near-roadway network is fully deployed and 3 years of air quality data are available, the EPA has authority under the CAA to redesignate areas as appropriate from “unclassifiable” to “attainment” or “nonattainment.” The EPA anticipates that sufficient data to conduct redesignations would be available after 2015.

In the EPA's June 2011 response letters to state and tribal recommendations, the EPA stated that in response to recommendations and review of the 2008-2010 monitored NO2 concentrations, it intended to designate all areas of the U.S. as “unclassifiable/attainment.” The EPA uses this designation in practice for initial designations to mean that available information does not indicate that the air quality in these areas exceeds the 2010 NO2 NAAQS.

VII. Comments

In the EPA's June 2011 response letters to state and tribal recommendations, the EPA recommended that states and tribes consider implications for the prevention of significant deterioration of air quality (PSD) program when proposing their boundaries. Several states responded by providing suggested changes to their recommended boundaries. The EPA has accepted these changes and has applied them in these final designations.

The EPA received comments from one state and one trade association, both indicating that the EPA should designate areas as “attainment” rather than “unclassifiable/attainment.”

The trade association commenter stated that a designation of “attainment” signifies the air is healthy while a designation of “unclassifiable” does not. The commenter acknowledges the concern that the current monitoring network is inadequate in many instances to determine if an area meets the 2010 NO2 NAAQS. Nonetheless, the commenter believes a designation of “attainment” is appropriate where current monitoring shows no violations. The commenter acknowledges that redesignation to “nonattainment” would be appropriate if new monitors show violations of the 2010 NO2 NAAQS.

The second comment, from a state, restated their recommendation that their entire state should be designated as “attainment.” In their comment, they provide 2007-2010 data from seven NO2 monitors operated in the state. The commenter points out that no single year 98th percentile has exceeded 44 percent of the 2010 NO2 NAAQS and design values have not exceeded 42 percent of the 2010 NO2 NAAQS.

After considering state and public comments on the EPA's June 2011 response letters to state and tribal recommendations, the EPA is finalizing designations for all areas of the U.S. as “unclassifiable/attainment.” This designation is intended to indicate that for the purposes of initial area designations, available information does not indicate that air quality in these areas exceeds the NAAQS.

Although all existing community-based monitoring sites indicate attainment with the NO2 NAAQS, the existing NO2 monitoring network does not fully portray or represent the NO2 concentrations near roadways. Until more complete information on NAAQS compliance is available, the EPA does not believe a designation of “attainment” is appropriate.

VIII. Implications of Designations for Compliance With PSD Increments for NO2

The CAA's PSD requirements are designed to ensure that economic growth will occur in a manner consistent with preserving clean air in areas not currently violating the NAAQS (see CAA sections 160-169). In such areas, new or modified major sources of NO2 must comply with maximum allowable increases (increments) in concentrations of NO2. In some parts of the U.S., “baseline areas” have already been established for NO2 increment analysis under the designations associated with the existing NO2 annual NAAQS.² The boundaries for such areas are not affected by the newly designated areas listed as “unclassifiable/attainment” for the 1-hour NO2 NAAQS. In addition, any increment baseline areas created in the future for the annual NO2 standard should be based on the existing designations that are associated with (and continue to apply to) the NO2 annual NAAQS.

² The concept of “baseline areas” and their relationship to the area designations is described in 40 CFR 81.300(b). The definition of baseline area appears in PSD regulations at 40 CFR 52.21(b)(15)(i).

IX. What air quality data has the EPA used?

The final NO2 designations contained in this action are based upon air quality monitoring data from calendar years 2008-2010.

X. How do designations affect Indian country?

All counties, partial counties or Air Quality Control Regions listed in the table at the end of this document are designated as indicated. There are no areas of Indian country being designated nonattainment at this time.

XI. Where can I find information forming the basis for this rule and exchanges between the EPA, states, and tribes related to this rule?

Information providing the basis for this action and related decisions are provided in the docket for this rulemaking. The applicable EPA guidance memoranda, and copies of correspondence regarding this process between the EPA and the states, tribes, and other parties are available for review at the EPA Docket Center listed above in the addresses section of this document and on our designation Web site at http://www.epa.gov/airquality/nitrogenoxides/designations/index.html. State-specific information is available from the EPA Regional Offices.

XII. Statutory and Executive Order Reviews

Upon promulgation of a new or revised NAAQS, the CAA requires the EPA to designate areas as attaining or not attaining the NAAQS. The CAA then specifies requirements for areas based on whether such areas are attaining or not attaining the NAAQS. In this final rule, the EPA assigns designations to areas as required.

A. Executive Order 12866: Regulatory Planning and Review and Executive Order 13563: Improving Regulation and Regulatory Review

This action will respond to the requirement to promulgate air quality designations after promulgation of a NAAQS. This type of action is exempt from review under Executive Orders 12866 (58 FR 51735, October 4, 1993) and 13563 (76 FR 3821, January 21, 2011).

B. Paperwork Reduction Act

This action does not impose an information collection burden under the provisions of the Paperwork Reduction Act, 44 U.S.C. 3501 et seq. Burden is defined at 5 CFR 1320.3(b). This rule responds to the requirement to promulgate air quality designations after promulgation of a new or revised NAAQS. This requirement is prescribed in the CAA section 107. The present final rule does not establish any new information collection requirements.

C. Regulatory Flexibility Act

This final rule is not subject to the Regulatory Flexibility Act (RFA), which generally requires an agency to prepare a regulatory flexibility analysis for any rule that will have a significant economic impact on a substantial number of small entities. The RFA applies only to rules subject to notice-and-comment rulemaking requirements under the Administrative Procedure Act (APA) or any other statute. This rule is not subject to notice-and-comment requirements under the APA or any other statute because the rule is subject to CAA section 107(d)(2)(B), which does not require that the agency issue a notice of proposed rulemaking before issuing this rule.

D. Unfunded Mandates Reform Act

This action contains no federal mandate under the provisions of Title II of the Unfunded Mandates Reform Act of 1995 (UMRA), 2 U.S.C. 1531-1538 for state, local, or tribal governments or the private sector. The action imposes no enforceable duty on any state, local or tribal governments or the private sector. Therefore, this action is not subject to the requirements of sections 202 and 205 of the UMRA.

This action is also not subject to the requirements of section 203 of UMRA because it contains no regulatory requirements that might significantly or uniquely affect small governments. It does not create any additional requirements beyond those of the CAA and NO2 NAAQS (40 CFR 50.11). The CAA establishes the process whereby states take primary responsibility in developing plans to meet the NO2 NAAQS.

E. Executive Order 13132: Federalism

This final rule does not have federalism implications. It will not have substantial direct effects on the states, on the relationship between the national government and the states, or on the distribution of power and responsibilities among the various levels of government, as specified in Executive Order 13132. The CAA establishes the process whereby states take primary responsibility in developing plans to meet the NO2 NAAQS. This rule will not modify the relationship of the states and the EPA for purposes of developing programs to implement the NO2 NAAQS. Thus, Executive Order 13132 does not apply to this rule.

F. Executive Order 13175: Consultation and Coordination With Indian Tribal Governments

This action does not have tribal implications, as specified in Executive Order 13175 (65 FR 67249, November 9, 2000). This rule concerns the designation of areas for the 1-hour NO2 NAAQS. The CAA provides for states and eligible tribes to develop plans to regulate emissions of air pollutants within their areas, as necessary, based on the designations. The TAR provides tribes the opportunity to apply for eligibility to develop and implement CAA programs such as programs to attain and maintain the NO2 NAAQS, but it leaves to the discretion of the tribe the decision of whether to apply to develop these programs and which programs, or appropriate elements of a program, the tribe will seek to adopt. This rule does not have a substantial direct effect on one or more Indian tribes. It does not create any additional requirements beyond those of the NO2 NAAQS (40 CFR section 50.11). This rule establishes the designation for certain areas of the country for the NO2 NAAQS but no areas in Indian country are being designated nonattainment under this rule. Consequently, no tribe has any immediate requirement to implement a CAA program to attain the 1-hour NO2 NAAQS in Indian Country at this time. Furthermore, this rule does not affect the relationship or distribution of power and responsibilities between the federal government and Indian tribes. The CAA and the TAR establish the relationship of the federal government and tribes in developing plans to attain the NAAQS, and this rule does nothing to modify that relationship. Thus, Executive Order 13175 does not apply to this action.

Although Executive Order 13175 does not apply to this action, the EPA communicated with tribal leaders and environmental staff regarding the designations process. The EPA also sent individualized letters to all federally recognized tribes to explain the designation process for the 2010 NO2 NAAQS, to provide the EPA designations guidance, and to offer consultation with the EPA. The EPA provided further information to tribes through presentations at the National Tribal Forum and through participation in National Tribal Air Association conference calls. The EPA also sent individualized letters to all federally recognized tribes that submitted recommendations to the EPA about the EPA's intended designations for the NO2 standards and offered tribal leaders the opportunity for consultation. These communications provided opportunities for tribes to voice concerns to the EPA about the general designations process for the NO2 NAAQS, as well as concerns specific to a tribe, and informed the EPA about key tribal concerns regarding designations as the rule was under development.

G. Executive Order 13045: Protection of Children From Environmental Health and Safety Risks

The EPA interprets Executive Order 13045 (62 FR 19885, April 23, 1997) as applying only to those regulatory actions that concern health or safety risks, such that the analysis required under section 5-501 of the Executive Order has the potential to influence the regulation. This action is not subject to Executive Order 13045 because it does not establish an environmental standard intended to mitigate health or safety risks.

H. Executive Order 13211: Actions That Significantly Affect Energy Supply, Distribution, or Use

This action is not subject to Executive Order 13211 (66 FR 28355 (May 22, 2001)), because it is not a significant regulatory action under Executive Order 12866.

I. National Technology Transfer and Advancement Act (NTTAA)

Section 12(d) of the NTTAA of 1995, Public Law 104-113, section 12(d) (15 U.S.C. 272 note) directs the EPA to use voluntary consensus standards (VCS) in its regulatory activities unless to do so would be inconsistent with applicable law or otherwise impracticable. Voluntary consensus standards are technical standards (e.g., materials specifications, test methods, sampling procedures, and business practices) that are developed or adopted by VCS bodies. The NTTAA directs the EPA to provide Congress, through OMB, explanations when the Agency decides not to use available and applicable VCS.

This action does not involve technical standards. Therefore, the EPA did not consider the use of any VCS.

J. Executive Order 12898: Federal Actions To Address Environmental Justice in Minority Populations and Low-Income Populations

Executive Order 12898 (59 FR 7629 (Feb. 16, 1994)) establishes federal executive policy on environmental justice. Its main provision directs federal agencies, to the greatest extent practicable and permitted by law, to make environmental justice part of their mission by identifying and addressing, as appropriate, disproportionately high and adverse human health or environmental effects of their programs, policies, and activities on minority populations and low-income populations in the U.S.

The CAA requires that the EPA designate as nonattainment “any area that does not meet (or that contributes to ambient air quality in a nearby area that does not meet) the national primary or secondary ambient air quality standard for the pollutant.” By designating as nonattainment all areas where available information indicates a violation of the NO2 NAAQS, this action protects all those residing, working, attending school, or otherwise present in those areas regardless of minority or economic status.

EPA has determined that this final rule will not have disproportionately high and adverse human health or environmental effects on minority or low-income populations because it increases the level of environmental protection for all affected populations without having any disproportionately high and adverse human health or environmental effects on any population, including any minority or low-income population

K. Congressional Review Act

The Congressional Review Act, 5 U.S.C. 801 et seq., as added by the Small Business Regulatory Enforcement Fairness Act of 1996, generally provides that before a rule may take effect, the agency promulgating the rule must submit a rule report, which includes a copy of the rule, to each House of the Congress and to the Comptroller General of the U.S. The EPA will submit a report containing this rule and other required information to the U.S. Senate, the U.S. House of Representatives, and the Comptroller General of the U.S. prior to publication of the rule in the Federal Register. A major rule cannot take effect until 60 days after it is published in the Federal Register. This action is not a “major rule” as defined by 5 U.S.C. 804(2). This rule will be effective February 29, 2012.

L. Judicial Review

Section 307(b)(1) of the CAA indicates which Federal Courts of Appeal have venue for petitions of review of final actions by EPA. This section provides, in part, that petitions for review must be filed in the Court of Appeals for the District of Columbia Circuit: (i) When the agency action consists of “nationally applicable regulations promulgated, or final actions taken, by the Administrator,” or (ii) when such action is locally or regionally applicable, if “such action is based on a determination of nationwide scope or effect and if in taking such action the Administrator finds and publishes that such action is based on such a determination.”

This rule designating areas for the 2010 NO2 NAAQS is “nationally applicable” within the meaning of section 307(b)(1). This rule establishes designations for areas across the U.S. for the 2010 NO2 NAAQS. At the core of this rulemaking is EPA's interpretation of the definition of nonattainment under section 107(d)(1) of the CAA, and its application of that interpretation to areas across the country.

For the same reasons, the Administrator also is determining that the final designations are of nationwide scope and effect for the purposes of section 307(b)(1). This is particularly appropriate because, in the report on the 1977 Amendments that revised section 307(b)(1) of the CAA, Congress noted that the Administrator's determination that an action is of “nationwide scope or effect” would be appropriate for any action that has a scope or effect beyond a single judicial circuit. H.R. Rep. No. 95-294 at 323, 324, reprinted in 1977 U.S.C.C.A.N. 1402-03. Here, the scope and effect of this rulemaking extends to numerous judicial circuits since the designations apply to areas across the country. In these circumstances, section 307(b)(1) and its legislative history calls for the Administrator to find the rule to be of “nationwide scope or effect” and for venue to be in the D.C. Circuit.

Thus, any petitions for review of final designations must be filed in the Court of Appeals for the District of Columbia Circuit within 60 days from the date final action is published in the Federal Register.

List of Subjects in 40 CFR Part 81

Environmental protection, Air pollution control, National parks, Wilderness areas.

Dated: January 20, 2012.
Lisa P. Jackson,
Administrator.

For the reasons set forth in the preamble, 40 CFR Part 81, is amended as follows:

PART 81—DESIGNATIONS OF AREAS FOR AIR QUALITY PLANNING PURPOSES

1. The authority citation for part 81 continues to read as follows:

Authority: 42 U.S.C. 7401, et seq.

Subpart C—Section 107 Attainment Status Designations

* * * * *

2. Section 81.301 is amended as follows:

a. By revising the table heading “Alabama—NO2” to read “Alabama—NO2 (1971 Annual Standard).”

b. By adding a table entitled “Alabama—NO2 (2010 1-Hour Standard)” in alphabetical order to read as follows:

§ 81.301 Alabama.

* * * * *

Alabama—NO² (2010 1-Hour Standard)
Designated area | Designation ᵃ: Date ¹ | Designation ᵃ: Type
Autauga County |  | Unclassifiable/Attainment.
Baldwin County |  | Unclassifiable/Attainment.
Barbour County |  | Unclassifiable/Attainment.
Bibb County |  | Unclassifiable/Attainment.
Blount County |  | Unclassifiable/Attainment.
Bullock County |  | Unclassifiable/Attainment.
Butler County |  | Unclassifiable/Attainment.
Calhoun County |  | Unclassifiable/Attainment.
Chambers County |  | Unclassifiable/Attainment.
Cherokee County |  | Unclassifiable/Attainment.
Chilton County |  | Unclassifiable/Attainment.
Choctaw County |  | Unclassifiable/Attainment.
Clarke County |  | Unclassifiable/Attainment.
Clay County |  | Unclassifiable/Attainment.
Cleburne County |  | Unclassifiable/Attainment.
Coffee County |  | Unclassifiable/Attainment.
Colbert County |  | Unclassifiable/Attainment.
Conecuh County |  | Unclassifiable/Attainment.
Coosa County |  | Unclassifiable/Attainment.
Covington County |  | Unclassifiable/Attainment.
Crenshaw County |  | Unclassifiable/Attainment.
Cullman County |  | Unclassifiable/Attainment.
Dale County |  | Unclassifiable/Attainment.
Dallas County |  | Unclassifiable/Attainment.
De Kalb County |  | Unclassifiable/Attainment.
Elmore County |  | Unclassifiable/Attainment.
Escambia County |  | Unclassifiable/Attainment.
Fayette County |  | Unclassifiable/Attainment.
Franklin County |  | Unclassifiable/Attainment.
Geneva County |  | Unclassifiable/Attainment.
Greene County |  | Unclassifiable/Attainment.
Hale County |  | Unclassifiable/Attainment.
Henry County |  | Unclassifiable/Attainment.
Houston County |  | Unclassifiable/Attainment.
Jackson County |  | Unclassifiable/Attainment.
Jefferson County |  | Unclassifiable/Attainment.
Lamar County |  | Unclassifiable/Attainment.
Lauderdale County |  | Unclassifiable/Attainment.
Lawrence County |  | Unclassifiable/Attainment.
Lee County |  | Unclassifiable/Attainment.
Limestone County |  | Unclassifiable/Attainment.
Lowndes County |  | Unclassifiable/Attainment.
Macon County |  | Unclassifiable/Attainment.
Madison County |  | Unclassifiable/Attainment.
Marengo County |  | Unclassifiable/Attainment.
Marion County |  | Unclassifiable/Attainment.
Marshall County |  | Unclassifiable/Attainment.
Mobile County |  | Unclassifiable/Attainment.
Monroe County |  | Unclassifiable/Attainment.
Montgomery County |  | Unclassifiable/Attainment.
Morgan County |  | Unclassifiable/Attainment.
Perry County |  | Unclassifiable/Attainment.
Pickens County |  | Unclassifiable/Attainment.
Pike County |  | Unclassifiable/Attainment.
Randolph County |  | Unclassifiable/Attainment.
Russell County |  | Unclassifiable/Attainment.
Shelby County |  | Unclassifiable/Attainment.
St. Clair County |  | Unclassifiable/Attainment.
Sumter County |  | Unclassifiable/Attainment.
Talladega County |  | Unclassifiable/Attainment.
Tallapoosa County |  | Unclassifiable/Attainment.
Tuscaloosa County |  | Unclassifiable/Attainment.
Walker County |  | Unclassifiable/Attainment.
Washington County |  | Unclassifiable/Attainment.
Wilcox County |  | Unclassifiable/Attainment.
Winston County |  | Unclassifiable/Attainment.
ᵃ Includes Indian Country located in each county or area, except as otherwise specified.
¹ This date is 90 days after October 31, 2011, unless otherwise noted.

3. Section 81.302 is amended as follows:

a. By revising the table heading “Alaska—NO2” to read “Alaska—NO2 (1971 Annual Standard).”

b. By adding a table entitled “Alaska—NO2 (2010 1-Hour Standard)” in alphabetical order to read as follows:

§ 81.302 Alaska.

* * * * *

Alaska—NO2 (2010 1-Hour Standard)
Designated area | Designation ᵃ: Date ¹ | Designation ᵃ: Type
State of Alaska |  | Unclassifiable/Attainment.
ᵃ Includes Indian Country located in each county or area, except as otherwise specified.
¹ This date is 90 days after October 31, 2011, unless otherwise noted.

4. Section 81.303 is amended as follows:

a. By revising the table heading “Arizona—NO2” to read “Arizona—NO2 (1971 Annual Standard).”

b. By adding a table entitled “Arizona—NO2 (2010 1-Hour Standard)” in alphabetical order to read as follows:

§ 81.303 Arizona.

* * * * *

Arizona—NO2 (2010 1-Hour Standard)
Designated area | Designation ᵃ: Date ¹ | Designation ᵃ: Type
Apache County |  | Unclassifiable/Attainment.
Cochise County |  | Unclassifiable/Attainment.
Coconino County |  | Unclassifiable/Attainment.
Gila County |  | Unclassifiable/Attainment.
Graham County |  | Unclassifiable/Attainment.
Greenlee County |  | Unclassifiable/Attainment.
La Paz County |  | Unclassifiable/Attainment.
Maricopa County |  | Unclassifiable/Attainment.
Mohave County |  | Unclassifiable/Attainment.
Navajo County |  | Unclassifiable/Attainment.
Pima County |  | Unclassifiable/Attainment.
Pinal County |  | Unclassifiable/Attainment.
Santa Cruz County |  | Unclassifiable/Attainment.
Yavapai County |  | Unclassifiable/Attainment.
Yuma County |  | Unclassifiable/Attainment.
ᵃ Includes Indian Country located in each county or area, except as otherwise specified.
¹ This date is 90 days after October 31, 2011, unless otherwise noted.

5. Section 81.304 is amended as follows:

a. By revising the table heading “Arkansas—NO2” to read “Arkansas—NO2 (1971 Annual Standard).”

b. By adding a table entitled “Arkansas—NO2 (2010 1-Hour Standard)” in alphabetical order to read as follows:

§ 81.304 Arkansas.

* * * * *

Arkansas—NO2 (2010 1-Hour Standard)
Designated area | Designation ᵃ: Date ¹ | Designation ᵃ: Type
Ashley County |  | Unclassifiable/Attainment.
Arkansas County |  | Unclassifiable/Attainment.
Baxter County |  | Unclassifiable/Attainment.
Benton County |  | Unclassifiable/Attainment.
Boone County |  | Unclassifiable/Attainment.
Bradley County |  | Unclassifiable/Attainment.
Calhoun County |  | Unclassifiable/Attainment.
Carroll County |  | Unclassifiable/Attainment.
Chicot County |  | Unclassifiable/Attainment.
Clark County |  | Unclassifiable/Attainment.
Clay County |  | Unclassifiable/Attainment.
Cleburne County |  | Unclassifiable/Attainment.
Cleveland County |  | Unclassifiable/Attainment.
Columbia County |  | Unclassifiable/Attainment.
Conway County |  | Unclassifiable/Attainment.
Craighead County |  | Unclassifiable/Attainment.
Crawford County |  | Unclassifiable/Attainment.
Crittenden County |  | Unclassifiable/Attainment.
Cross County |  | Unclassifiable/Attainment.
Dallas County |  | Unclassifiable/Attainment.
Desha County |  | Unclassifiable/Attainment.
Drew County |  | Unclassifiable/Attainment.
Faulkner County |  | Unclassifiable/Attainment.
Franklin County |  | Unclassifiable/Attainment.
Fulton County |  | Unclassifiable/Attainment.
Garland County. |  | Unclassifiable/Attainment.
Grant County |  | Unclassifiable/Attainment.
Greene County |  | Unclassifiable/Attainment.
Hempstead County |  | Unclassifiable/Attainment.
Hot Spring County |  | Unclassifiable/Attainment.
Howard County. |  | Unclassifiable/Attainment.
Independence County |  | Unclassifiable/Attainment.
Izard Count |  | Unclassifiable/Attainment.
Jackson County |  | Unclassifiable/Attainment.
Jefferson County. |  | Unclassifiable/Attainment.
Johnson County |  | Unclassifiable/Attainment.
Lafayette County |  | Unclassifiable/Attainment.
Lawrence County |  | Unclassifiable/Attainment.
Lee County |  | Unclassifiable/Attainment.
Lincoln County |  | Unclassifiable/Attainment.
Little River County |  | Unclassifiable/Attainment.
Logan County |  | Unclassifiable/Attainment.
Lonoke County |  | Unclassifiable/Attainment.
Madison County |  | Unclassifiable/Attainment.
Marion County |  | Unclassifiable/Attainment.
Miller County |  | Unclassifiable/Attainment.
Mississippi County |  | Unclassifiable/Attainment.
Monroe County |  | Unclassifiable/Attainment.
Montgomery County |  | Unclassifiable/Attainment.
Nevada County |  | Unclassifiable/Attainment.
Newton County |  | Unclassifiable/Attainment.
Ouachita County |  | Unclassifiable/Attainment.
Perry County |  | Unclassifiable/Attainment.
Phillips County |  | Unclassifiable/Attainment.
Pike County |  | Unclassifiable/Attainment.
Poinsett County |  | Unclassifiable/Attainment.
Polk County |  | Unclassifiable/Attainment.
Pope County |  | Unclassifiable/Attainment.
Prairie County |  | Unclassifiable/Attainment.
Pulaski County |  | Unclassifiable/Attainment.
Randolph County |  | Unclassifiable/Attainment.
St. Francis County |  | Unclassifiable/Attainment.
Saline County |  | Unclassifiable/Attainment.
Scott County |  | Unclassifiable/Attainment.
Searcy County |  | Unclassifiable/Attainment.
Sebastian County |  | Unclassifiable/Attainment
Sevier County |  | Unclassifiable/Attainment.
Sharp County |  | Unclassifiable/Attainment.
Stone County |  | Unclassifiable/Attainment.
Union County |  | Unclassifiable/Attainment.
Van Buren County |  | Unclassifiable/Attainment.
Washington County |  | Unclassifiable/Attainment.
White County |  | Unclassifiable/Attainment.
Woodruff County |  | Unclassifiable/Attainment.
Yell County |  | Unclassifiable/Attainment.
ᵃ Includes Indian Country located in each county or area, except as otherwise specified.
¹ This date is 90 days after October 31, 2011, unless otherwise noted.

6. Section 81.305 is amended as follows:

a. By revising the table heading “California—NO2” to read “California—NO2 (1971 Annual Standard).”

b. By adding a table entitled “California—NO2 (2010 1-Hour Standard)” in alphabetical order to read as follows:

§ 81.305 California.

* * * * *

California—NO2 (2010 1-Hour Standard)
Designated area | Designation ᵃ: Date ¹ | Designation ᵃ: Type
Amador County APCD:
Amador County |  | Unclassifiable/Attainment.
Antelope Valley AQMD:
Los Angeles County (part) |  | Unclassifiable/Attainment.
That portion of Los Angeles County which lies north and east of a line described as follows: Beginning at the Los Angeles-San Bernardino County boundary and running west along the township line common to T. 3 N and T. 2 N, San Bernardino Base and Meridian; then north along the range line common to R. 8 W and R. 9 W; then west along the township line common to T. 4 N and T. 3 N; then north along the range Line Common to R. 12 W and R. 13 W to the southeast corner of Section 12, T. 5 N, R. 13 W; then west along the south boundaries of Sections 12, 11, 10, 9, 8, 7, T. 5 N, R. 13 W to the boundary of the Angeles National Forest which is collinear with the range line common to R. 13 W and R. 14 W; then north and west along the Angeles National Forest boundary to the point of intersection with the township line common to T. 7 N and T. 6 N (point is at the northwest corner of Section 4 in T. 6 N, R. 14 W); then west along the township line common to T. 7 N and T. 6 N; then north along the range line common to R. 15 W and R. 16 W to the southeast corner of Section 13, T. 7 N, R. 16 W; then along the south boundaries of Sections 13, 14, 15, 16, 17, 18, T. 7 N, R. 16 W; then north along the range line common to R. 16 W and R. 17 W to the north boundary of the Angeles National Forest (collinear with township line common to T. 8 N and T. 7 N) then west and north along the Angeles National Forest boundary to the point of intersection with the south boundary of the Rancho La Liebre Land Grant; then west and north along this land grant boundary to the Los Angeles-Kern County boundary
Bay Area AQMD:
Alameda County |  | Unclassifiable/Attainment.
Contra Costa County |  | Unclassifiable/Attainment.
Marin County |  | Unclassifiable/Attainment.
Napa County |  | Unclassifiable/Attainment.
San Francisco County |  | Unclassifiable/Attainment.
San Mateo County |  | Unclassifiable/Attainment.
Santa Clara County |  | Unclassifiable/Attainment.
Solano County (part) |  | Unclassifiable/Attainment.
That portion of Solano County which lies south and west of a line described as follows: Beginning at the intersection of the westerly boundary of Solano County and the ¼ section line running east and west through the center of Section 34, T. 6 N, R. 2.W, Mount Diablo Base and Meridian, thence east along said ¼ section line to the east boundary of Section 36, T. 6 N, R. 2 W, thence south ½ mile and east 2.0 miles, more or less, along the west and south boundary of Los Putos Rancho to the northwest corner of Section 4, T. 5 N, R. 1 W, thence east along a line common to T. 5 N and T. 6 N to the northeast corner of Section 3, T. 5 N, R. 1 E, thence south along section lines to the southeast corner of Section 10, T. 3 N, R. 1 E, thence east along section lines to the south ¼ corner of Section 8, T. 3 N, R. 2 E, thence east to the boundary between Solano and Sacramento Counties
Sonoma County (part) |  | Unclassifiable/Attainment.
That portion of Sonoma County which lies south and east of a line described as follows: Beginning at the southeasterly corner of the Rancho Estero Americano, being on the boundary line between Marin and Sonoma Counties, California; thence running northerly along the easterly boundary line of said Rancho Estero Americano to the northeasterly corner thereof, being an angle corner in the westerly boundary line of Rancho Canada de Jonive; thence running along said boundary of Rancho Canada de Jonive westerly, northerly and easterly to its intersection with the easterly line of Graton Road; thence running along the easterly and southerly line of Graton Road, northerly and easterly to its intersection with the easterly line of Sullivan Road; thence running northerly along said easterly line of Sullivan Road to the southerly line of Green Valley Road; thence running easterly along the said southerly line of Green Valley Road and easterly along the southerly line of State Highway 116, to the westerly line of Vine Hill Road; thence running along the westerly and northerly line of Vine Hill Road, northerly and easterly to its intersection with the westerly line of Laguna Road; thence running northerly along the westerly line of Laguna Road and the northerly projection thereof to the northerly line of Trenton Road; thence running westerly along the northerly line of said Trenton Road to the easterly line of Trenton-Healdsburg Road; thence running northerly along said easterly line of Trenton-Healdsburg Road to the easterly line of Eastside Road; thence running northerly along said easterly line of Eastside Road to its intersection with the southerly line of Rancho Sotoyome; thence running easterly along said southerly line of Rancho Sotoyome to its intersection with the Township line common to Townships 8 and 9 North, Mount Diablo Meridian; thence running easterly along said township line to its intersection with the boundary line between Sonoma and Napa Counties
Butte County AQMD:
Butte County |  | Unclassifiable/Attainment.
Calaveras County AQMD:
Calaveras County |  | Unclassifiable/Attainment.
Colusa County AQMD:
Colusa County |  | Unclassifiable/Attainment.
Eastern Kern APCD:
Kern County (part) |  | Unclassifiable/Attainment.
That portion of Kern County east and south of a line described as follows: Beginning at the Kern-Los Angeles County boundary and running north and east along the northwest boundary of the Rancho La Libre Land Grant to the point of intersection with the range line common to R. 16 W and R. 17 W, San Bernardino Base and Meridian; north along the range line to the point of intersection with the Rancho El Tejon Land Grant boundary; then southeast, northeast, and northwest along the boundary of the Rancho El Tejon Land Grant to the northwest corner of Section 3, T. 11 N, R. 17 W; then west 1.2 miles; then north to the Rancho El Tejon Land Grant boundary; then northwest along the Rancho El Tejon line to the southeast corner of Section 34, T. 32 S, R. 30 E, Mount Diablo Base and Meridian; then north to the northwest corner of Section 35, T. 31 S, R. 30 E; then northeast along the boundary of the Rancho El Tejon Land Grant to the southwest corner of Section 18, T. 31 S, R. 31 E; then east to the southeast corner of Section 13, T. 31 S, R. 31 E; then north along the range line common to R. 31 E and R. 32 E, Mount Diablo Base and Meridian, to the northwest corner of Section 6, T. 29 S, R. 32 E; then east to the southwest corner of Section 31 T. 28 S, R. 32 E; then north along the range line common to R. 31 E and R. 32 E to the northwest corner of Section 6, T. 28 S, R. 32 E, then west to the southeast corner of Section 36, T. 27 S, R. 31 E, then north along the range line common to R. 31 E and R. 32 E to the Kern-Tulare County boundary
El Dorado County AQMD:
El Dorado County |  | Unclassifiable/Attainment.
Feather River AQMD:
Sutter County |  | Unclassifiable/Attainment.
Yuba County |  | Unclassifiable/Attainment.
Glenn County APCD:
Glenn County |  | Unclassifiable/Attainment.
Great Basin Unified APCD:
Alpine County |  | Unclassifiable/Attainment.
Inyo County |  | Unclassifiable/Attainment.
Mono County |  | Unclassifiable/Attainment.
Imperial County APCD:
Imperial County |  | Unclassifiable/Attainment.
Lake County AQMD:
Lake County |  | Unclassifiable/Attainment.
Lassen County APCD:
Lassen County |  | Unclassifiable/Attainment.
Mariposa County APCD:
Mariposa County |  | Unclassifiable/Attainment.
Mendocino County AQMD:
Mendocino County |  | Unclassifiable/Attainment.
Modoc County APCD:
Modoc County |  | Unclassifiable/Attainment.
Mojave Desert AQMD:
Riverside County (part) |  | Unclassifiable/Attainment.
That portion of Riverside County which lies east of a line described as follows: Beginning at the southwest corner of Section 32, T. 8 S, R. 20 E, San Bernardino Base and Meridian, on the Riverside-Imperial County Boundary; then northerly along section lines to the northwest corner of Section 5, T. 7 S, R. 20 E; then westerly along the township line to the southwest corner of Section 31, T. 6 S, R. 19 E; then northerly along the range line to the northwest corner of Section 6, T. 5 S, R. 19 E; then easterly along the township line to the southwest corner of Section 33, T. 4 S, R. 19 E; then northerly along section lines to the northwest corner of Section 4, T. 4 S, R. 19 E; then westerly along the township lines to the southwest corner of Section 32, T. 3 S, R. 19 E; then northerly along section lines to the northwest corner of Section 17, T. 3 S, R. 19 E; then westerly along the township line to the southwest corner of Section 7, T. 3 S, R. 19 E; then northerly along section lines to the northwest corner of Section 30, T. 2 S, R. 19 E; then westerly along the southerly line of Section 24, T. 2 S, R. 18 E, to the southwest corner thereof; then northerly along section lines to the northwest corner of Section 13, T. 2 S, R. 18 E; then westerly along section lines to the southwest corner of Section 10, T. 2 S, R. 18 E; then northerly along section lines to the Riverside-San Bernardino County boundary
San Bernardino County (part) |  | Unclassifiable/Attainment.
That portion of San Bernardino County east and north of a line described as follows: Beginning at the San Bernardino-Riverside County boundary and running north along the range line common to R. 3 E and R. 2 E, San Bernardino Base and Meridian; then west along the township line common to T. 3 N and T. 2 N to the San Bernardino-Los Angeles County boundary
Monterey Bay Unified APCD:
Monterey County |  | Unclassifiable/Attainment.
San Benito County |  | Unclassifiable/Attainment.
Santa Cruz County |  | Unclassifiable/Attainment.
North Coast Unified AQMD:
Del Norte County |  | Unclassifiable/Attainment.
Humboldt Count |  | Unclassifiable/Attainment.
Trinity County |  | Unclassifiable/Attainment.
Northern Sierra AQMD:
Nevada County |  | Unclassifiable/Attainment.
Plumas County |  | Unclassifiable/Attainment.
Sierra County |  | Unclassifiable/Attainment.
Northern Sonoma County APCD:
Sonoma County (part) |  | Unclassifiable/Attainment.
That portion of Sonoma County which lies north and west of a line described as follows: Beginning at the southeasterly corner of the Rancho Estero Americano, being on the boundary line between Marin and Sonoma Counties, California; thence running northerly along the easterly boundary line of said Rancho Estero Americano to the northeasterly corner thereof, being an angle corner in the westerly boundary line of Rancho Canada de Jonive; thence running along said boundary of Rancho Canada de Jonive westerly, northerly and easterly to its intersection with the easterly line of Graton Road; thence running along the easterly and southerly line of Graton Road, northerly and easterly to its intersection with the easterly line of Sullivan Road; thence running northerly along said easterly line of Sullivan Road to the southerly line of Green Valley Road; thence running easterly along the said southerly line of Green Valley Road and easterly along the southerly line of State Highway 116, to the westerly line of Vine Hill Road; thence running along the westerly and northerly line of Vine Hill Road, northerly and easterly to its intersection with the westerly line of Laguna Road; thence running northerly along the westerly line of Laguna Road and the northerly projection thereof to the northerly line of Trenton Road; thence running westerly along the northerly line of said Trenton Road to the easterly line of Trenton-Healdsburg Road; thence running northerly along said easterly line of Trenton-Healdsburg Road to the easterly line of Eastside Road; thence running northerly along said easterly line of Eastside Road to its intersection with the southerly line of Rancho Sotoyome; thence running easterly along said southerly line of Rancho Sotoyome to its intersection with the Township line common to Townships 8 and 9 North, Mount Diablo Meridian; thence running easterly along said township line to its intersection with the boundary line between Sonoma and Napa Counties.
Placer County APCD:
Placer County |  | Unclassifiable/Attainment.
Sacramento Metropolitan AQMD:
Sacramento County |  | Unclassifiable/Attainment.
San Diego County APCD:
San Diego County |  | Unclassifiable/Attainment.
San Joaquin Valley Unified APCD:
Fresno County |  | Unclassifiable/Attainment.
Kern County (part) |  | Unclassifiable/Attainment.
That portion of Kern County which lies west and north of a line described as follows: Beginning at the Kern-Los Angeles County boundary and running north and east along the northwest boundary of the Rancho La Libre Land Grant to the point of intersection with the range line common to R. 16 W and R. 17 W, San Bernardino Base and Meridian; north along the range line to the point of intersection with the Rancho El Tejon Land Grant boundary; then southeast, northeast, and northwest along the boundary of the Rancho El Tejon Land Grant to the northwest corner of Section 3, T. 11 N, R. 17 W; then west 1.2 miles; then north to the Rancho El Tejon Land Grant boundary; then northwest along the Rancho El Tejon line to the southeast corner of Section 34, T. 32 S, R. 30 E, Mount Diablo Base and Meridian; then north to the northwest corner of Section 35, T. 31 S, R. 30 E; then northeast along the boundary of the Rancho El Tejon Land Grant to the southwest corner of Section 18, T. 31 S, R. 31 E; then east to the southeast corner of Section 13, T. 31 S, R. 31 E; then north along the range line common to R. 31 E and R. 32 E, Mount Diablo Base and Meridian, to the northwest corner of Section 6, T. 29 S, R. 32 E; then east to the southwest corner of Section 31, T. 28 S, R. 32 E; then north along the range line common to R. 31 E and R. 32 E to the northwest corner of Section 6, T. 28 S, R. 32 E, then west to the southeast corner of Section 36, T. 27 S, R. 31 E, then north along the range line common to R. 31 E and R. 32 E to the Kern-Tulare County boundary.
Kings County |  | Unclassifiable/Attainment.
Madera County |  | Unclassifiable/Attainment.
Merced County |  | Unclassifiable/Attainment.
San Joaquin County |  | Unclassifiable/Attainment.
Stanislaus County |  | Unclassifiable/Attainment.
Tulare County |  | Unclassifiable/Attainment.
San Luis Obispo County APCD:
San Luis Obispo County |  | Unclassifiable/Attainment.
Santa Barbara County APCD:
Santa Barbara County |  | Unclassifiable/Attainment.
Shasta County AQMD:
Shasta County |  | Unclassifiable/Attainment.
Siskiyou County APCD:
Siskiyou County |  | Unclassifiable/Attainment.
South Coast AQMD:
Los Angeles County (part) |  | Unclassifiable/Attainment.
That portion of Los Angeles County which lies south and west of a line described as follows: Beginning at the Los Angeles-San Bernardino County boundary and running west along the township line common to T.3 N and T.2 N, San Bernardino Base and Meridian; then north along the range line common to R.8 W and R.9 W; then west along the township line common to T.4 N and T.3 N; then north along the range line common to R.12 W and R.13 W to the southeast corner of Section 12, T.5 N, R. 13 W; then west along the south boundaries of Sections 12, 11, 10, 9, 8, 7, T.5 N, R. 13 W to the boundary of the Angeles National Forest which is collinear with the range line common to R. 13 W and R. 14 W; then north and west along the Angeles National Forest boundary to the point of intersection with the township line common to T.7 N and T. 6 N (point is at the northwest corner of Section 4 in T.6 N, R. 14 W); then west along the township line common to T.7 N and T.6 N; then north along the range line common to R. 15 W and R. 16 W to the southeast corner of Section 13, T.7 N, R. 16 W; then along the south boundaries of Sections 13, 14, 15, 16, 17, 18, T.7 N, R. 16 W; then north along the range line common to R.16 W and R. 17 W to the north boundary of the Angeles National Forest (collinear with township line common to T.8 N and T.7 N); then west and north along the Angeles National Forest boundary to the point of intersection with the south boundary of the Rancho La Liebre Land Grant; then west and north along this land grant boundary to the Los Angeles-Kern County boundary.
Orange County |  | Unclassifiable/Attainment.
Riverside County (part) |  | Unclassifiable/Attainment.
That portion of Riverside County which lies west of a line described as follows: Beginning at the southwest corner of Section 32, T. 8 S, R. 20 E, San Bernardino Base and Meridian, on the Riverside-Imperial County Boundary; then northerly along section lines to the northwest corner of Section 5, T. 7 S, R. 20 E; then westerly along the township line to the southwest corner of Section 31, T. 6 S, R. 19 E; then northerly along the range line to the northwest corner of Section 6, T. 5 S, R. 19 E; then easterly along the township line to the southwest corner of Section 33, T. 4 S, R. 19 E; then northerly along section lines to the northwest corner of Section 4, T. 4 S, R. 19 E; then westerly along the township lines to the southwest corner of Section 32, T. 3 S, R. 19 E; then northerly along section lines to the northwest corner of Section 17, T. 3 S, R. 19 E; then westerly along the township line to the southwest corner of Section 7, T. 3 S, R. 19 E; then northerly along section lines to the northwest corner of Section 30, T. 2 S, R. 19 E; then westerly along the southerly line of Section 24, T. 2 S, R. 18 E, to the southwest corner thereof; then northerly along section lines to the northwest corner of Section 13, T. 2 S, R. 18 E; then westerly along section lines to the southwest corner of Section 10, T. 2 S, R. 18 E; then northerly along section lines to the Riverside-San Bernardino County boundary.
San Bernardino County (part) |  | Unclassifiable/Attainment.
That portion of San Bernardino County west and south of a line described as follows: Beginning at the San Bernardino-Riverside County boundary and running north along the range line common to R. 3 E and R. 2 E; then west along the township line common to T. 3 N and T. 2 N to the San Bernardino-Los Angeles County boundary.
Tehama County APCD:
Tehama County |  | Unclassifiable/Attainment.
Tuolumne County APCD:
Tuolumne County |  | Unclassifiable/Attainment.
Ventura County APCD:
Ventura County |  | Unclassifiable/Attainment.
Yolo-Solano AQMD:
Solano County |  | Unclassifiable/Attainment.
That portion of Solano County which lies north and east of a line described as follows: Beginning at the intersection of the westerly boundary of Solano County and the ¼ section line running east and west through the center of Section 34, T. 6 N, R. 2 W, Mount Diablo Base and Meridian, thence east along said ¼ section line to the east boundary of Section 36, T. 6 N, R. 2 W, thence south ½ mile and east 2.0 miles, more or less, along the west and south boundary of Los Putos Rancho to the northwest corner of Section 4, T. 5 N, R. 1 W, thence east along a line common to T. 5 N and T. 6 N to the northeast corner of Section 3, T. 5 N, R. 1 E, thence south along section lines to the southeast corner of Section 10, T. 3 N, R. 1 E, thence east along section lines to the south ¼ corner of Section 8, T. 3 N, R. 2 E, thence east to the boundary between Solano and Sacramento Counties.
Yolo County |  | Unclassifiable/Attainment.
ᵃ Includes Indian Country located in each county or area, except as otherwise specified.
¹ This date is 90 days after October 31, 2011, unless otherwise noted.

7. Section 81.306 is amended as follows:

a. By revising the table heading “Colorado—NO2” to read “Colorado—NO2 (1971 Annual Standard).”

b. By adding a table entitled “Colorado—NO2 (2010 1-Hour Standard)” in alphabetical order to read as follows:

§ 81.306 Colorado.

* * * * *

Colorado—NO2 (2010 1-Hour Standard)
Designated area | Designation ᵃ: Date ¹ | Designation ᵃ: Type
State AQCR 01:
Logan County |  | Unclassifiable/Attainment.
Morgan County |  | Unclassifiable/Attainment.
Phillips County |  | Unclassifiable/Attainment.
Sedgwick County |  | Unclassifiable/Attainment.
Washington County |  | Unclassifiable/Attainment.
Yuma County |  | Unclassifiable/Attainment.
State AQCR 02:
Larimer County |  | Unclassifiable/Attainment.
Weld County |  | Unclassifiable/Attainment.
State AQCR 03:
Adams County |  | Unclassifiable/Attainment.
Arapahoe County |  | Unclassifiable/Attainment.
Boulder County |  | Unclassifiable/Attainment.
Broomfield County |  | Unclassifiable/Attainment.
Clear Creek County |  | Unclassifiable/Attainment.
Denver County |  | Unclassifiable/Attainment.
Douglas County |  | Unclassifiable/Attainment.
Jefferson County |  | Unclassifiable/Attainment.
Gilpin County |  | Unclassifiable/Attainment.
State AQCR 04:
El Paso County |  | Unclassifiable/Attainment.
Park County |  | Unclassifiable/Attainment.
Teller County |  | Unclassifiable/Attainment.
State AQCR 05:
Cheyenne County |  | Unclassifiable/Attainment.
Elbert County |  | Unclassifiable/Attainment.
Kit Carson County |  | Unclassifiable/Attainment.
Lincoln County |  | Unclassifiable/Attainment.
State AQCR 06:
Baca County |  | Unclassifiable/Attainment.
Bent County |  | Unclassifiable/Attainment.
Crowley County |  | Unclassifiable/Attainment.
Kiowa County |  | Unclassifiable/Attainment.
Otero County |  | Unclassifiable/Attainment.
Prowers County |  | Unclassifiable/Attainment.
State AQCR 07:
Huerfano County |  | Unclassifiable/Attainment.
Las Animas County |  | Unclassifiable/Attainment.
Pueblo County |  | Unclassifiable/Attainment.
State AQCR 08:
Alamosa County |  | Unclassifiable/Attainment.
Conejos County |  | Unclassifiable/Attainment.
Costilla County |  | Unclassifiable/Attainment.
Mineral County |  | Unclassifiable/Attainment.
Rio Grande County |  | Unclassifiable/Attainment.
Saguache County |  | Unclassifiable/Attainment.
State AQCR 09:
Archuleta County |  | Unclassifiable/Attainment.
Dolores County |  | Unclassifiable/Attainment.
La Plata County |  | Unclassifiable/Attainment.
Montezuma County |  | Unclassifiable/Attainment.
San Juan County |  | Unclassifiable/Attainment.
State AQCR 10:
Delta County |  | Unclassifiable/Attainment.
Gunnison County |  | Unclassifiable/Attainment.
Hinsdale County |  | Unclassifiable/Attainment.
Montrose County |  | Unclassifiable/Attainment.
Ouray County |  | Unclassifiable/Attainment.
San Miguel County |  | Unclassifiable/Attainment.
State AQCR 11:
Garfield County |  | Unclassifiable/Attainment.
Mesa County |  | Unclassifiable/Attainment.
Moffat County |  | Unclassifiable/Attainment.
Rio Blanco County |  | Unclassifiable/Attainment.
State AQCR 12:
Eagle County |  | Unclassifiable/Attainment.
Grand County |  | Unclassifiable/Attainment.
Jackson County |  | Unclassifiable/Attainment.
Pitkin County |  | Unclassifiable/Attainment.
Routt County |  | Unclassifiable/Attainment.
Summit County |  | Unclassifiable/Attainment.
State AQCR 13:
Chaffee County |  | Unclassifiable/Attainment.
Custer County |  | Unclassifiable/Attainment.
Fremont County |  | Unclassifiable/Attainment.
Lake County |  | Unclassifiable/Attainment.
ᵃ Includes Indian Country located in each county or area, except as otherwise specified.
¹ This date is 90 days after October 31, 2011, unless otherwise noted.

8. Section 81.307 is amended as follows:

a. By revising the table heading “Connecticut—NO2” to read “Connecticut—NO2 (1971 Annual Standard).”

b. By adding a table entitled “Connecticut—NO2 (2010 1-Hour Standard)” in alphabetical order to read as follows:

§ 81.307 Connecticut.

* * * * *

Connecticut—NO2 (2010 1-Hour Standard)
Designated area | Designation ᵃ: Date ¹ | Designation ᵃ: Type
State of Connecticut |  | Unclassifiable/Attainment.
ᵃ Includes Indian Country located in each county or area, except as otherwise specified.
¹ This date is 90 days after October 31, 2011, unless otherwise noted.

9. Section 81.308 is amended as follows:

a. By revising the table heading “Delaware—NO2” to read “Delaware—NO2 (1971 Annual Standard).”

b. By adding a table entitled “Delaware—NO2 (2010 1-Hour Standard)” in alphabetical order to read as follows:

§ 81.308 Delaware.

* * * * *

Delaware—NO2 (2010 1-Hour Standard)
Designated area | Designation ᵃ: Date ¹ | Designation ᵃ: Type
Kent County |  | Unclassifiable/Attainment.
New Castle County |  | Unclassifiable/Attainment.
Sussex County |  | Unclassifiable/Attainment.
ᵃ Includes Indian Country located in each county or area, except as otherwise specified.
¹ This date is 90 days after October 31, 2011, unless otherwise noted.

10. Section 81.309 is amended as follows:

a. By revising the table heading “District of Columbia—NO2” to read “District of Columbia—NO2 (1971 Annual Standard).”

b. By adding a table entitled “District of Columbia—NO2 (2010 1-Hour Standard)” in alphabetical order to read as follows:

§ 81.309 District of Columbia.

* * * * *

District of Columbia—NO2 (2010 1-Hour Standard)
Designated area | Designation ᵃ: Date ¹ | Designation ᵃ: Type
District of Columbia |  | Unclassifiable/Attainment.
ᵃ Includes Indian Country located in each county or area, except as otherwise specified.
¹ This date is 90 days after October 31, 2011, unless otherwise noted.

11. Section 81.310 is amended as follows:

a. By revising the table heading “Florida—NO2” to read “Florida—NO2 (1971 Annual Standard).”

b. By adding a table entitled “Florida—NO2 (2010 1-Hour Standard)” in alphabetical order to read as follows:

§ 81.310 Florida.

* * * * *

Florida—NO2 (2010 1-Hour Standard)
Designated area | Designation ᵃ: Date ¹ | Designation ᵃ: Type
State of Florida |  | Unclassifiable/Attainment.
ᵃ Includes Indian Country located in each county or area, except as otherwise specified.
¹ This date is 90 days after October 31, 2011, unless otherwise noted.

12. Section 81.311 is amended as follows:

a. By revising the table heading “Georgia—NO2” to read “Georgia—NO2 (1971 Annual Standard).”

b. By adding a table entitled “Georgia—NO2 (2010 1-Hour Standard)” in alphabetical order to read as follows:

§ 81.311 Georgia.

* * * * *

Georgia—NO2 (2010 1-Hour Standard)
Designated area | Designation ᵃ: Date ¹ | Designation ᵃ: Type
Appling County |  | Unclassifiable/Attainment.
Atkinson County |  | Unclassifiable/Attainment.
Bacon County |  | Unclassifiable/Attainment.
Baker County |  | Unclassifiable/Attainment.
Baldwin County |  | Unclassifiable/Attainment.
Banks County |  | Unclassifiable/Attainment.
Barrow County |  | Unclassifiable/Attainment.
Bartow County |  | Unclassifiable/Attainment.
Ben Hill County |  | Unclassifiable/Attainment.
Berrien County |  | Unclassifiable/Attainment.
Bibb County |  | Unclassifiable/Attainment.
Bleckley County |  | Unclassifiable/Attainment.
Brantley County |  | Unclassifiable/Attainment.
Brooks County |  | Unclassifiable/Attainment.
Bryan County |  | Unclassifiable/Attainment.
Bulloch County |  | Unclassifiable/Attainment.
Burke County |  | Unclassifiable/Attainment.
Butts County |  | Unclassifiable/Attainment.
Calhoun County |  | Unclassifiable/Attainment.
Camden County |  | Unclassifiable/Attainment.
Candler County |  | Unclassifiable/Attainment.
Carroll County |  | Unclassifiable/Attainment.
Catoosa County |  | Unclassifiable/Attainment.
Charlton County |  | Unclassifiable/Attainment.
Chatham County |  | Unclassifiable/Attainment.
Chattahoochee County |  | Unclassifiable/Attainment.
Chattooga County |  | Unclassifiable/Attainment.
Cherokee County |  | Unclassifiable/Attainment.
Clarke County |  | Unclassifiable/Attainment.
Clay County |  | Unclassifiable/Attainment.
Clayton County |  | Unclassifiable/Attainment.
Clinch County |  | Unclassifiable/Attainment.
Cobb County |  | Unclassifiable/Attainment.
Coffee County |  | Unclassifiable/Attainment.
Colquitt County |  | Unclassifiable/Attainment.
Columbia County |  | Unclassifiable/Attainment.
Cook County |  | Unclassifiable/Attainment.
Coweta County |  | Unclassifiable/Attainment.
Crawford County |  | Unclassifiable/Attainment.
Crisp County |  | Unclassifiable/Attainment.
Dade County |  | Unclassifiable/Attainment.
Dawson County |  | Unclassifiable/Attainment.
Decatur County |  | Unclassifiable/Attainment.
DeKalb County |  | Unclassifiable/Attainment.
Dodge County |  | Unclassifiable/Attainment.
Dooly County |  | Unclassifiable/Attainment.
Dougherty County |  | Unclassifiable/Attainment.
Douglass County |  | Unclassifiable/Attainment.
Early County |  | Unclassifiable/Attainment.
Echols County |  | Unclassifiable/Attainment.
Effingham County |  | Unclassifiable/Attainment.
Elbert County |  | Unclassifiable/Attainment.
Emanuel County |  | Unclassifiable/Attainment.
Evans County |  | Unclassifiable/Attainment.
Fannin County |  | Unclassifiable/Attainment.
Fayette County |  | Unclassifiable/Attainment.
Floyd County |  | Unclassifiable/Attainment.
Forsyth County |  | Unclassifiable/Attainment.
Franklin County |  | Unclassifiable/Attainment.
Fulton County |  | Unclassifiable/Attainment.
Gilmer County |  | Unclassifiable/Attainment.
Glascock County |  | Unclassifiable/Attainment.
Glynn County |  | Unclassifiable/Attainment.
Gordon County |  | Unclassifiable/Attainment.
Grady County |  | Unclassifiable/Attainment.
Greene County |  | Unclassifiable/Attainment.
Gwinnett County |  | Unclassifiable/Attainment.
Habersham County |  | Unclassifiable/Attainment.
Hall County |  | Unclassifiable/Attainment.
Hancock County |  | Unclassifiable/Attainment.
Haralson County |  | Unclassifiable/Attainment.
Harris County |  | Unclassifiable/Attainment.
Hart County |  | Unclassifiable/Attainment.
Heard County |  | Unclassifiable/Attainment.
Henry County |  | Unclassifiable/Attainment.
Houston County |  | Unclassifiable/Attainment.
Irwin County |  | Unclassifiable/Attainment.
Jackson County |  | Unclassifiable/Attainment.
Jasper County |  | Unclassifiable/Attainment.
Jeff Davis County |  | Unclassifiable/Attainment.
Jefferson County |  | Unclassifiable/Attainment.
Jenkins County |  | Unclassifiable/Attainment.
Johnson County |  | Unclassifiable/Attainment.
Jones County |  | Unclassifiable/Attainment.
Lamar County |  | Unclassifiable/Attainment.
Lanier County |  | Unclassifiable/Attainment.
Laurens County |  | Unclassifiable/Attainment.
Lee County |  | Unclassifiable/Attainment.
Liberty County |  | Unclassifiable/Attainment.
Lincoln County |  | Unclassifiable/Attainment.
Long County |  | Unclassifiable/Attainment.
Lowndes County |  | Unclassifiable/Attainment.
Lumpkin County |  | Unclassifiable/Attainment.
McDuffie County |  | Unclassifiable/Attainment.
McIntosh County |  | Unclassifiable/Attainment.
Macon County |  | Unclassifiable/Attainment.
Madison County |  | Unclassifiable/Attainment.
Marion County |  | Unclassifiable/Attainment.
Meriwether County |  | Unclassifiable/Attainment.
Miller County |  | Unclassifiable/Attainment.
Mitchell County |  | Unclassifiable/Attainment.
Monroe County |  | Unclassifiable/Attainment.
Montgomery County |  | Unclassifiable/Attainment.
Morgan County |  | Unclassifiable/Attainment.
Murray County |  | Unclassifiable/Attainment.
Muscogee County |  | Unclassifiable/Attainment.
Newton County |  | Unclassifiable/Attainment.
Oconee County |  | Unclassifiable/Attainment.
Oglethorpe County |  | Unclassifiable/Attainment.
Pauling County |  | Unclassifiable/Attainment.
Peach County |  | Unclassifiable/Attainment.
Pickens County |  | Unclassifiable/Attainment.
Pierce County |  | Unclassifiable/Attainment.
Pike County |  | Unclassifiable/Attainment.
Polk County |  | Unclassifiable/Attainment.
Pulaski County |  | Unclassifiable/Attainment.
Putnam County |  | Unclassifiable/Attainment.
Quitman County |  | Unclassifiable/Attainment.
Rabun County |  | Unclassifiable/Attainment.
Randolph County |  | Unclassifiable/Attainment.
Richmond County |  | Unclassifiable/Attainment.
Rockdale County |  | Unclassifiable/Attainment.
Schley County |  | Unclassifiable/Attainment.
Screven County |  | Unclassifiable/Attainment.
Seminole County |  | Unclassifiable/Attainment.
Spalding County |  | Unclassifiable/Attainment.
Stephens County |  | Unclassifiable/Attainment.
Stewart County |  | Unclassifiable/Attainment.
Sumter County |  | Unclassifiable/Attainment.
Talbot County |  | Unclassifiable/Attainment.
Taliaferro County |  | Unclassifiable/Attainment.
Tattnall County |  | Unclassifiable/Attainment.
Taylor County |  | Unclassifiable/Attainment.
Telfair County |  | Unclassifiable/Attainment.
Terrell County |  | Unclassifiable/Attainment.
Thomas County |  | Unclassifiable/Attainment.
Tift County |  | Unclassifiable/Attainment.
Toombs County |  | Unclassifiable/Attainment.
Towns County |  | Unclassifiable/Attainment.
Treutlen County |  | Unclassifiable/Attainment.
Troup County |  | Unclassifiable/Attainment.
Turner County |  | Unclassifiable/Attainment.
Twiggs County |  | Unclassifiable/Attainment.
Union County |  | Unclassifiable/Attainment.
Upson County |  | Unclassifiable/Attainment.
Walker County |  | Unclassifiable/Attainment.
Walton County |  | Unclassifiable/Attainment.
Ware County |  | Unclassifiable/Attainment.
Warren County |  | Unclassifiable/Attainment.
Washington County |  | Unclassifiable/Attainment.
Wayne County |  | Unclassifiable/Attainment.
Webster County |  | Unclassifiable/Attainment.
Wheeler County |  | Unclassifiable/Attainment.
White County |  | Unclassifiable/Attainment.
Whitfield County |  | Unclassifiable/Attainment.
Wilcox County |  | Unclassifiable/Attainment.
Wilkes County |  | Unclassifiable/Attainment.
Wilkinson County |  | Unclassifiable/Attainment.
Worth County |  | Unclassifiable/Attainment.
ᵃ Includes Indian Country located in each county or area, except as otherwise specified.
¹ This date is 90 days after October 31, 2011, unless otherwise noted.

13. Section 81.312 is amended as follows:

a. By revising the table heading “Hawaii—NO2” to read “Hawaii—NO2 (1971 Annual Standard).”

b. By adding a table entitled “Hawaii—NO2 (2010 1-Hour Standard)” in alphabetical order to read as follows:

§ 81.312 Hawaii.

* * * * *

Hawaii—NO2 (2010 1-Hour Standard)
Designated area | Designation ᵃ: Date ¹ | Designation ᵃ: Type
Hawaii County |  | Unclassifiable/Attainment.
Honolulu County |  | Unclassifiable/Attainment.
Kalawao County |  | Unclassifiable/Attainment.
Kauai County |  | Unclassifiable/Attainment.
Maui County |  | Unclassifiable/Attainment.
ᵃ Includes Indian Country located in each county or area, except as otherwise specified.
¹ This date is 90 days after October 31, 2011, unless otherwise noted.

14. Section 81.313 is amended as follows:

a. By revising the table heading “Idaho—NO2” to read “Idaho—NO2 (1971 Annual Standard).”

b. By adding a table entitled “Idaho—NO2 (2010 1-Hour Standard)” in alphabetical order to read as follows:

§ 81.314 Idaho.

* * * * *

Idaho—NO2 (2010 1-Hour Standard)
Designated area | Designation ᵃ: Date ¹ | Designation ᵃ: Type
AQCR 61 Eastern Idaho Intrastate:
Bannock County |  | Unclassifiable/Attainment.
Bear Lake County |  | Unclassifiable/Attainment.
Bingham County |  | Unclassifiable/Attainment.
Bonneville County |  | Unclassifiable/Attainment.
Butte County |  | Unclassifiable/Attainment.
Caribou County |  | Unclassifiable/Attainment.
Clark County |  | Unclassifiable/Attainment.
Franklin County |  | Unclassifiable/Attainment.
Fremont County |  | Unclassifiable/Attainment.
Jefferson County |  | Unclassifiable/Attainment.
Madison County |  | Unclassifiable/Attainment.
Oneida County |  | Unclassifiable/Attainment.
Power County |  | Unclassifiable/Attainment.
Teton County |  | Unclassifiable/Attainment.
AQCR 62 E Washington-N Idaho Interstate:
Benewah County |  | Unclassifiable/Attainment.
Kootenai County |  | Unclassifiable/Attainment.
Latah County |  | Unclassifiable/Attainment.
Nez Perce County |  | Unclassifiable/Attainment.
Shoshone County |  | Unclassifiable/Attainment.
AQCR 63 Idaho Interstate:
Adams County |  | Unclassifiable/Attainment.
Blaine County |  | Unclassifiable/Attainment.
Boise County |  | Unclassifiable/Attainment.
Bonner County |  | Unclassifiable/Attainment.
Boundary County |  | Unclassifiable/Attainment.
Camas County |  | Unclassifiable/Attainment.
Cassia County |  | Unclassifiable/Attainment.
Clearwater County |  | Unclassifiable/Attainment.
Custer County |  | Unclassifiable/Attainment.
Elmore County |  | Unclassifiable/Attainment.
Gem County |  | Unclassifiable/Attainment.
Gooding County |  | Unclassifiable/Attainment.
Idaho County |  | Unclassifiable/Attainment.
Jerome County |  | Unclassifiable/Attainment.
Lewis County |  | Unclassifiable/Attainment.
Lincoln County |  | Unclassifiable/Attainment.
Minidoka County |  | Unclassifiable/Attainment.
Owyhee County |  | Unclassifiable/Attainment.
Payette County |  | Unclassifiable/Attainment.
Twin Falls County |  | Unclassifiable/Attainment.
Valley County |  | Unclassifiable/Attainment.
Washington County |  | Unclassifiable/Attainment.
AQCR 64 Metropolitan Boise Interstate:
Ada County |  | Unclassifiable/Attainment.
Canyon County |  | Unclassifiable/Attainment.
ᵃ Includes Indian Country located in each county or area, except as otherwise specified.
¹ This date is 90 days after October 31, 2011, unless otherwise noted.

15. Section 81.314 is amended as follows:

a. By revising the table heading “Illinois—NO2” to read “Illinois—NO2 (1971 Annual Standard).”

b. By adding a table entitled “Illinois—NO2 (2010 1-Hour Standard)” in alphabetical order to read as follows:

§ 81.314 Illinois.

* * * * *

Illinois—NO2 (2010 1-Hour Standard)
Designated area | Designation ᵃ: Date ¹ | Designation ᵃ: Type
Adams County |  | Unclassifiable/Attainment.
Alexander County |  | Unclassifiable/Attainment.
Bond County |  | Unclassifiable/Attainment.
Boone County |  | Unclassifiable/Attainment.
Brown County |  | Unclassifiable/Attainment.
Bureau County |  | Unclassifiable/Attainment.
Calhoun County |  | Unclassifiable/Attainment.
Carroll County |  | Unclassifiable/Attainment.
Cass County |  | Unclassifiable/Attainment.
Champaign County |  | Unclassifiable/Attainment.
Christian County |  | Unclassifiable/Attainment.
Clark County |  | Unclassifiable/Attainment.
Clay County |  | Unclassifiable/Attainment.
Clinton County |  | Unclassifiable/Attainment.
Coles County |  | Unclassifiable/Attainment.
Cook County |  | Unclassifiable/Attainment.
Crawford County |  | Unclassifiable/Attainment.
Cumberland County |  | Unclassifiable/Attainment.
DeKalb County |  | Unclassifiable/Attainment.
De Witt County |  | Unclassifiable/Attainment.
Douglas County |  | Unclassifiable/Attainment.
DuPage County |  | Unclassifiable/Attainment.
Edgar County |  | Unclassifiable/Attainment.
Edwards County |  | Unclassifiable/Attainment.
Effingham County |  | Unclassifiable/Attainment.
Fayette County |  | Unclassifiable/Attainment.
Ford County |  | Unclassifiable/Attainment.
Franklin County |  | Unclassifiable/Attainment.
Fulton County |  | Unclassifiable/Attainment.
Gallatin County |  | Unclassifiable/Attainment.
Greene County |  | Unclassifiable/Attainment.
Grundy County |  | Unclassifiable/Attainment.
Hamilton County |  | Unclassifiable/Attainment.
Hancock County |  | Unclassifiable/Attainment.
Hardin County |  | Unclassifiable/Attainment.
Henderson County |  | Unclassifiable/Attainment.
Henry County |  | Unclassifiable/Attainment.
Iroquois County |  | Unclassifiable/Attainment.
Jackson County |  | Unclassifiable/Attainment.
Jasper County |  | Unclassifiable/Attainment.
Jefferson County |  | Unclassifiable/Attainment.
Jersey County |  | Unclassifiable/Attainment.
Jo Daviess County |  | Unclassifiable/Attainment.
Johnson County |  | Unclassifiable/Attainment.
Kane County |  | Unclassifiable/Attainment.
Kankakee County |  | Unclassifiable/Attainment.
Kendall County |  | Unclassifiable/Attainment.
Knox County |  | Unclassifiable/Attainment.
La Salle County |  | Unclassifiable/Attainment.
Lake County |  | Unclassifiable/Attainment.
Lawrence County |  | Unclassifiable/Attainment.
Lee County |  | Unclassifiable/Attainment.
Livingston County |  | Unclassifiable/Attainment.
Logan County |  | Unclassifiable/Attainment.
Madison County |  | Unclassifiable/Attainment.
McDonough County |  | Unclassifiable/Attainment.
McLean County |  | Unclassifiable/Attainment.
Macon County |  | Unclassifiable/Attainment.
Macoupin County |  | Unclassifiable/Attainment.
Marion County |  | Unclassifiable/Attainment.
Marshall County |  | Unclassifiable/Attainment.
Mason County |  | Unclassifiable/Attainment.
Massac County |  | Unclassifiable/Attainment.
McHenry County |  | Unclassifiable/Attainment.
Menard County |  | Unclassifiable/Attainment.
Mercer County |  | Unclassifiable/Attainment.
Monroe County |  | Unclassifiable/Attainment.
Montgomery County |  | Unclassifiable/Attainment.
Morgan County |  | Unclassifiable/Attainment.
Moultrie County |  | Unclassifiable/Attainment.
Ogle County |  | Unclassifiable/Attainment.
Peoria County |  | Unclassifiable/Attainment.
Perry County |  | Unclassifiable/Attainment.
Piatt County |  | Unclassifiable/Attainment.
Pike County |  | Unclassifiable/Attainment.
Pope County |  | Unclassifiable/Attainment.
Pulaski County |  | Unclassifiable/Attainment.
Putnam County |  | Unclassifiable/Attainment.
Randolph County |  | Unclassifiable/Attainment.
Richland County |  | Unclassifiable/Attainment.
Rock Island County |  | Unclassifiable/Attainment.
St. Clair County |  | Unclassifiable/Attainment.
Saline County |  | Unclassifiable/Attainment.
Sangamon County |  | Unclassifiable/Attainment.
Schuyler County |  | Unclassifiable/Attainment.
Scott County |  | Unclassifiable/Attainment.
Shelby County |  | Unclassifiable/Attainment.
Stark County |  | Unclassifiable/Attainment.
Stephenson County |  | Unclassifiable/Attainment.
Tazewell County |  | Unclassifiable/Attainment.
Union County |  | Unclassifiable/Attainment.
Vermilion County |  | Unclassifiable/Attainment.
Wabash County |  | Unclassifiable/Attainment.
Warren County |  | Unclassifiable/Attainment.
Washington County |  | Unclassifiable/Attainment.
Wayne County |  | Unclassifiable/Attainment.
White County |  | Unclassifiable/Attainment.
Whiteside County |  | Unclassifiable/Attainment.
Will County |  | Unclassifiable/Attainment.
Williamson County |  | Unclassifiable/Attainment.
Winnebago County |  | Unclassifiable/Attainment.
Woodford County |  | Unclassifiable/Attainment.
ᵃ Includes Indian Country located in each county or area, except as otherwise specified.
¹ This date is 90 days after October 31, 2011, unless otherwise noted.

16. Section 81.315 is amended as follows:

a. By revising the table heading “Indiana—NO2” to read “Indiana—NO2 (1971 Annual Standard).”

b. By adding a table entitled “Indiana—NO2 (2010 1-Hour Standard)” in alphabetical order to read as follows:

§ 81.315 Indiana.

Indiana—NO2 (2010 1-Hour Standard)
Designated area | Designation ᵃ: Date ¹ | Designation ᵃ: Type
Lake County |  | Unclassifiable/Attainment.
Marion County |  | Unclassifiable/Attainment.
St. Joseph County |  | Unclassifiable/Attainment.
Vanderburgh County |  | Unclassifiable/Attainment.
Rest of State |  | Unclassifiable/Attainment.
ᵃ Includes Indian Country located in each county or area, except as otherwise specified.
¹ This date is 90 days after October 31, 2011, unless otherwise noted.

17. Section 81.316 is amended as follows:

a. By revising the table heading “Iowa—NO2” to read “Iowa—NO2 (1971 Annual Standard).”

b. By adding a table entitled “Iowa—NO2 (2010 1-Hour Standard)” in alphabetical order to read as follows:

§ 81.316 Iowa.

* * * * *

Iowa—NO2 (2010 1-Hour Standard)
Designated area | Designation ᵃ: Date ¹ | Designation ᵃ: Type
Adair County |  | Unclassifiable/Attainment.
Adams County |  | Unclassifiable/Attainment.
Allamakee County |  | Unclassifiable/Attainment.
Appanoose County |  | Unclassifiable/Attainment.
Audubon County |  | Unclassifiable/Attainment.
Benton County |  | Unclassifiable/Attainment.
Black Hawk County |  | Unclassifiable/Attainment.
Boone County |  | Unclassifiable/Attainment.
Bremer County |  | Unclassifiable/Attainment.
Buchanan County |  | Unclassifiable/Attainment.
Buena Vista County |  | Unclassifiable/Attainment.
Butler County |  | Unclassifiable/Attainment.
Calhoun County |  | Unclassifiable/Attainment.
Carroll County |  | Unclassifiable/Attainment.
Cass County |  | Unclassifiable/Attainment.
Cedar County |  | Unclassifiable/Attainment.
Cerro Gordo County |  | Unclassifiable/Attainment.
Cherokee County |  | Unclassifiable/Attainment.
Chickasaw County |  | Unclassifiable/Attainment.
Clarke County |  | Unclassifiable/Attainment.
Clay County |  | Unclassifiable/Attainment.
Clayton County |  | Unclassifiable/Attainment.
Clinton County |  | Unclassifiable/Attainment.
Crawford County |  | Unclassifiable/Attainment.
Dallas County |  | Unclassifiable/Attainment.
Davis County |  | Unclassifiable/Attainment.
Decatur County |  | Unclassifiable/Attainment.
Delaware County |  | Unclassifiable/Attainment.
Des Moines County |  | Unclassifiable/Attainment.
Dickinson County |  | Unclassifiable/Attainment.
Dubuque County |  | Unclassifiable/Attainment.
Emmet County |  | Unclassifiable/Attainment.
Fayette County |  | Unclassifiable/Attainment.
Floyd County |  | Unclassifiable/Attainment.
Franklin County |  | Unclassifiable/Attainment.
Fremont County |  | Unclassifiable/Attainment.
Greene County |  | Unclassifiable/Attainment.
Grundy County |  | Unclassifiable/Attainment.
Guthrie County |  | Unclassifiable/Attainment.
Hamilton County |  | Unclassifiable/Attainment.
Hancock County |  | Unclassifiable/Attainment.
Hardin County |  | Unclassifiable/Attainment.
Harrison County |  | Unclassifiable/Attainment.
Henry County |  | Unclassifiable/Attainment.
Howard County |  | Unclassifiable/Attainment.
Humboldt County |  | Unclassifiable/Attainment.
Ida County |  | Unclassifiable/Attainment.
Iowa County |  | Unclassifiable/Attainment.
Jackson County |  | Unclassifiable/Attainment.
Jasper County |  | Unclassifiable/Attainment.
Jefferson County |  | Unclassifiable/Attainment.
Johnson County |  | Unclassifiable/Attainment.
Jones County |  | Unclassifiable/Attainment.
Keokuk County |  | Unclassifiable/Attainment.
Kossuth County |  | Unclassifiable/Attainment.
Lee County |  | Unclassifiable/Attainment.
Linn County |  | Unclassifiable/Attainment.
Louisa County |  | Unclassifiable/Attainment.
Lucas County |  | Unclassifiable/Attainment.
Lyon County |  | Unclassifiable/Attainment.
Madison County |  | Unclassifiable/Attainment.
Mahaska County |  | Unclassifiable/Attainment.
Marion County |  | Unclassifiable/Attainment.
Marshall County |  | Unclassifiable/Attainment.
Mills County |  | Unclassifiable/Attainment.
Mitchell County |  | Unclassifiable/Attainment.
Monona County |  | Unclassifiable/Attainment.
Monroe County |  | Unclassifiable/Attainment.
Montgomery County |  | Unclassifiable/Attainment.
Muscatine County |  | Unclassifiable/Attainment.
O'Brien County |  | Unclassifiable/Attainment.
Osceola County |  | Unclassifiable/Attainment.
Page County |  | Unclassifiable/Attainment.
Palo Alto County |  | Unclassifiable/Attainment.
Plymouth County |  | Unclassifiable/Attainment.
Pocahontas County |  | Unclassifiable/Attainment.
Polk County |  | Unclassifiable/Attainment.
Pottawattamie County |  | Unclassifiable/Attainment.
Poweshiek County |  | Unclassifiable/Attainment.
Ringgold County |  | Unclassifiable/Attainment.
Sac County |  | Unclassifiable/Attainment.
Scott County |  | Unclassifiable/Attainment.
Shelby County |  | Unclassifiable/Attainment.
Sioux County |  | Unclassifiable/Attainment.
Story County |  | Unclassifiable/Attainment.
Tama County |  | Unclassifiable/Attainment.
Taylor County |  | Unclassifiable/Attainment.
Union County |  | Unclassifiable/Attainment.
Van Buren County |  | Unclassifiable/Attainment.
Wapello County |  | Unclassifiable/Attainment.
Warren County |  | Unclassifiable/Attainment.
Washington County |  | Unclassifiable/Attainment.
Wayne County |  | Unclassifiable/Attainment.
Webster County |  | Unclassifiable/Attainment.
Winnebago County |  | Unclassifiable/Attainment.
Winneshiek County |  | Unclassifiable/Attainment.
Woodbury County |  | Unclassifiable/Attainment.
Worth County |  | Unclassifiable/Attainment.
Wright County |  | Unclassifiable/Attainment.
ᵃ Includes Indian Country located in each county or area, except as otherwise specified.
¹ This date is 90 days after October 31, 2011, unless otherwise noted.

18. Section 81.317 is amended as follows:

a. By revising the table heading “Kansas—NO2” to read “Kansas—NO2 (1971 Annual Standard).”

b. By adding a table entitled “Kansas—NO2 (2010 1-Hour Standard)” in alphabetical order to read as follows:

§ 81.317 Kansas.

* * * * *

Kansas—NO2 (2010 1-Hour Standard)
Designated area | Designation ᵃ: Date ¹ | Designation ᵃ: Type
Allen County |  | Unclassifiable/Attainment.
Anderson County |  | Unclassifiable/Attainment.
Atchison County |  | Unclassifiable/Attainment.
Barber County |  | Unclassifiable/Attainment.
Barton County |  | Unclassifiable/Attainment.
Bourbon County |  | Unclassifiable/Attainment.
Brown County |  | Unclassifiable/Attainment.
Butler County |  | Unclassifiable/Attainment.
Chase County |  | Unclassifiable/Attainment.
Chautauqua County |  | Unclassifiable/Attainment.
Cherokee County |  | Unclassifiable/Attainment.
Cheyenne County |  | Unclassifiable/Attainment.
Clark County |  | Unclassifiable/Attainment.
Clay County |  | Unclassifiable/Attainment.
Cloud County |  | Unclassifiable/Attainment.
Coffey County |  | Unclassifiable/Attainment.
Comanche County |  | Unclassifiable/Attainment.
Cowley County |  | Unclassifiable/Attainment.
Crawford County |  | Unclassifiable/Attainment.
Decatur County |  | Unclassifiable/Attainment.
Dickinson County |  | Unclassifiable/Attainment.
Doniphan County |  | Unclassifiable/Attainment.
Douglas County |  | Unclassifiable/Attainment.
Edwards County |  | Unclassifiable/Attainment.
Elk County |  | Unclassifiable/Attainment.
Ellis County |  | Unclassifiable/Attainment.
Ellsworth County |  | Unclassifiable/Attainment.
Finney County |  | Unclassifiable/Attainment.
Ford County |  | Unclassifiable/Attainment.
Franklin County |  | Unclassifiable/Attainment.
Geary County |  | Unclassifiable/Attainment.
Gove County |  | Unclassifiable/Attainment.
Graham County |  | Unclassifiable/Attainment.
Grant County |  | Unclassifiable/Attainment.
Gray County |  | Unclassifiable/Attainment.
Greeley County |  | Unclassifiable/Attainment.
Greenwood County |  | Unclassifiable/Attainment.
Hamilton County |  | Unclassifiable/Attainment.
Harper County |  | Unclassifiable/Attainment.
Harvey County |  | Unclassifiable/Attainment.
Haskell County |  | Unclassifiable/Attainment.
Hodgeman County |  | Unclassifiable/Attainment.
Jackson County |  | Unclassifiable/Attainment.
Jefferson County |  | Unclassifiable/Attainment.
Jewell County |  | Unclassifiable/Attainment.
Johnson County |  | Unclassifiable/Attainment.
Kearny County |  | Unclassifiable/Attainment.
Kingman County |  | Unclassifiable/Attainment.
Kiowa County |  | Unclassifiable/Attainment.
Labette County |  | Unclassifiable/Attainment.
Lane County |  | Unclassifiable/Attainment.
Leavenworth County |  | Unclassifiable/Attainment.
Lincoln County |  | Unclassifiable/Attainment.
Linn County |  | Unclassifiable/Attainment.
Logan County |  | Unclassifiable/Attainment.
Lyon County |  | Unclassifiable/Attainment.
McPherson County |  | Unclassifiable/Attainment.
Marion County |  | Unclassifiable/Attainment.
Marshall County |  | Unclassifiable/Attainment.
Meade County |  | Unclassifiable/Attainment.
Miami County |  | Unclassifiable/Attainment.
Mitchell County |  | Unclassifiable/Attainment.
Montgomery County |  | Unclassifiable/Attainment.
Morris County |  | Unclassifiable/Attainment.
Morton County |  | Unclassifiable/Attainment.
Nemaha County |  | Unclassifiable/Attainment.
Neosho County |  | Unclassifiable/Attainment.
Ness County |  | Unclassifiable/Attainment.
Norton County |  | Unclassifiable/Attainment.
Osage County |  | Unclassifiable/Attainment.
Osborne County |  | Unclassifiable/Attainment.
Ottawa County |  | Unclassifiable/Attainment.
Pawnee County |  | Unclassifiable/Attainment.
Phillips County |  | Unclassifiable/Attainment.
Pottawatomie County |  | Unclassifiable/Attainment.
Pratt County |  | Unclassifiable/Attainment.
Rawlins County |  | Unclassifiable/Attainment.
Reno County |  | Unclassifiable/Attainment.
Republic County |  | Unclassifiable/Attainment.
Rice County |  | Unclassifiable/Attainment.
Riley County |  | Unclassifiable/Attainment.
Rooks County |  | Unclassifiable/Attainment.
Rush County |  | Unclassifiable/Attainment.
Russell County |  | Unclassifiable/Attainment.
Saline County |  | Unclassifiable/Attainment.
Scott County |  | Unclassifiable/Attainment.
Sedgwick County |  | Unclassifiable/Attainment.
Seward County |  | Unclassifiable/Attainment.
Shawnee County |  | Unclassifiable/Attainment.
Sheridan County |  | Unclassifiable/Attainment.
Sherman County |  | Unclassifiable/Attainment.
Smith County |  | Unclassifiable/Attainment.
Stafford County |  | Unclassifiable/Attainment.
Stanton County |  | Unclassifiable/Attainment.
Stevens County |  | Unclassifiable/Attainment.
Sumner County |  | Unclassifiable/Attainment.
Thomas County |  | Unclassifiable/Attainment.
Trego County |  | Unclassifiable/Attainment.
Wabaunsee County |  | Unclassifiable/Attainment.
Wallace County |  | Unclassifiable/Attainment.
Washington County |  | Unclassifiable/Attainment.
Wichita County |  | Unclassifiable/Attainment.
Wilson County |  | Unclassifiable/Attainment.
Woodson County |  | Unclassifiable/Attainment.
Wyandotte County |  | Unclassifiable/Attainment.
ᵃ Includes Indian Country located in each county or area, except as otherwise specified.
¹ This date is 90 days after October 31, 2011, unless otherwise noted.

19. Section 81.318 is amended as follows:

a. By revising the table heading “Kentucky—NO2” to read “Kentucky—NO2 (1971 Annual Standard).”

b. By adding a table entitled “Kentucky—NO2 (2010 1-Hour Standard)” in alphabetical order to read as follows:

§ 81.318 Kentucky.

* * * * *

Kentucky—NO2 (2010 1-Hour Standard)
Designated area | Designation ᵃ: Date ¹ | Designation ᵃ: Type
Adair County |  | Unclassifiable/Attainment.
Allen County |  | Unclassifiable/Attainment.
Anderson County |  | Unclassifiable/Attainment.
Ballard County |  | Unclassifiable/Attainment.
Barren County |  | Unclassifiable/Attainment.
Bath County |  | Unclassifiable/Attainment.
Bell County |  | Unclassifiable/Attainment.
Boone County |  | Unclassifiable/Attainment.
Bourbon County |  | Unclassifiable/Attainment.
Boyd County |  | Unclassifiable/Attainment.
Boyle County |  | Unclassifiable/Attainment.
Bracken County |  | Unclassifiable/Attainment.
Breathitt County |  | Unclassifiable/Attainment.
Breckinridge County |  | Unclassifiable/Attainment.
Bullitt County |  | Unclassifiable/Attainment.
Butler County |  | Unclassifiable/Attainment.
Caldwell County |  | Unclassifiable/Attainment.
Calloway County |  | Unclassifiable/Attainment.
Campbell County |  | Unclassifiable/Attainment.
Carlisle County |  | Unclassifiable/Attainment.
Carroll County |  | Unclassifiable/Attainment.
Carter County |  | Unclassifiable/Attainment.
Casey County |  | Unclassifiable/Attainment.
Christian County |  | Unclassifiable/Attainment.
Clark County |  | Unclassifiable/Attainment.
Clay County |  | Unclassifiable/Attainment.
Clinton County |  | Unclassifiable/Attainment.
Crittenden County |  | Unclassifiable/Attainment.
Cumberland County |  | Unclassifiable/Attainment.
Daviess County |  | Unclassifiable/Attainment.
Edmonson County |  | Unclassifiable/Attainment.
Elliott County |  | Unclassifiable/Attainment.
Estill County |  | Unclassifiable/Attainment.
Fayette County |  | Unclassifiable/Attainment.
Fleming County |  | Unclassifiable/Attainment.
Floyd County |  | Unclassifiable/Attainment.
Franklin County |  | Unclassifiable/Attainment.
Fulton County |  | Unclassifiable/Attainment.
Gallatin County |  | Unclassifiable/Attainment.
Garrard County |  | Unclassifiable/Attainment.
Grant County |  | Unclassifiable/Attainment.
Graves County |  | Unclassifiable/Attainment.
Grayson County |  | Unclassifiable/Attainment.
Green County |  | Unclassifiable/Attainment.
Greenup County |  | Unclassifiable/Attainment.
Hancock County |  | Unclassifiable/Attainment.
Hardin County |  | Unclassifiable/Attainment.
Harlan County |  | Unclassifiable/Attainment.
Harrison County |  | Unclassifiable/Attainment.
Hart County |  | Unclassifiable/Attainment.
Henderson County |  | Unclassifiable/Attainment.
Henry County |  | Unclassifiable/Attainment.
Hickman County |  | Unclassifiable/Attainment.
Hopkins County |  | Unclassifiable/Attainment.
Jackson County |  | Unclassifiable/Attainment.
Jefferson County |  | Unclassifiable/Attainment.
Jessamine County |  | Unclassifiable/Attainment.
Johnson County |  | Unclassifiable/Attainment.
Kenton County |  | Unclassifiable/Attainment.
Knott County |  | Unclassifiable/Attainment.
Knox County |  | Unclassifiable/Attainment.
Larue County |  | Unclassifiable/Attainment.
Laurel County |  | Unclassifiable/Attainment.
Lawrence County |  | Unclassifiable/Attainment.
Lee County |  | Unclassifiable/Attainment.
Leslie County |  | Unclassifiable/Attainment.
Letcher County |  | Unclassifiable/Attainment.
Lewis County |  | Unclassifiable/Attainment.
Lincoln County |  | Unclassifiable/Attainment.
Livingston County |  | Unclassifiable/Attainment.
Logan County |  | Unclassifiable/Attainment.
Lyon County |  | Unclassifiable/Attainment.
McCracken County |  | Unclassifiable/Attainment.
McCreary County |  | Unclassifiable/Attainment.
McLean County |  | Unclassifiable/Attainment.
Madison County |  | Unclassifiable/Attainment.
Magoffin County |  | Unclassifiable/Attainment.
Marion County |  | Unclassifiable/Attainment.
Marshall County |  | Unclassifiable/Attainment.
Martin County |  | Unclassifiable/Attainment.
Mason County |  | Unclassifiable/Attainment.
Meade County |  | Unclassifiable/Attainment.
Menifee County |  | Unclassifiable/Attainment.
Mercer County |  | Unclassifiable/Attainment.
Metcalfe County |  | Unclassifiable/Attainment.
Monroe County |  | Unclassifiable/Attainment.
Montgomery County |  | Unclassifiable/Attainment.
Morgan County |  | Unclassifiable/Attainment.
Muhlenberg County |  | Unclassifiable/Attainment.
Nelson County |  | Unclassifiable/Attainment.
Nicholas County |  | Unclassifiable/Attainment.
Ohio County |  | Unclassifiable/Attainment.
Oldham County |  | Unclassifiable/Attainment.
Owen County |  | Unclassifiable/Attainment.
Owsley County |  | Unclassifiable/Attainment.
Pendleton County |  | Unclassifiable/Attainment.
Perry County |  | Unclassifiable/Attainment.
Pike County |  | Unclassifiable/Attainment.
Powell County |  | Unclassifiable/Attainment.
Pulaski County |  | Unclassifiable/Attainment.
Robertson County |  | Unclassifiable/Attainment.
Rockcastle County |  | Unclassifiable/Attainment.
Rowan County |  | Unclassifiable/Attainment.
Russell County |  | Unclassifiable/Attainment.
Scott County |  | Unclassifiable/Attainment.
Shelby County |  | Unclassifiable/Attainment.
Simpson County |  | Unclassifiable/Attainment.
Spencer County |  | Unclassifiable/Attainment.
Taylor County |  | Unclassifiable/Attainment.
Todd County |  | Unclassifiable/Attainment.
Trigg County |  | Unclassifiable/Attainment.
Trimble County |  | Unclassifiable/Attainment.
Union County |  | Unclassifiable/Attainment.
Warren County |  | Unclassifiable/Attainment.
Washington County |  | Unclassifiable/Attainment.
Wayne County |  | Unclassifiable/Attainment.
Webster County |  | Unclassifiable/Attainment.
Whitley County |  | Unclassifiable/Attainment.
Wolfe County |  | Unclassifiable/Attainment.
Woodford County |  | Unclassifiable/Attainment.
ᵃ Includes Indian Country located in each county or area, except as otherwise specified.
¹ This date is 90 days after October 31, 2011, unless otherwise noted.

20. Section 81.319 is amended as follows:

a. By revising the table heading “Louisiana—NO2” to read “Louisiana—NO2 (1971 Annual Standard).”

b. By adding a table entitled “Louisiana—NO2 (2010 1-Hour Standard)” in alphabetical order to read as follows:

§ 81.319 Louisiana.

* * * * *

Louisiana—NO2 (2010 1-Hour Standard)
Designated area | Designation ᵃ: Date ¹ | Designation ᵃ: Type
Acadia Parish |  | Unclassifiable/Attainment.
Allen Parish |  | Unclassifiable/Attainment.
Ascension Parish |  | Unclassifiable/Attainment.
Assumption Parish |  | Unclassifiable/Attainment.
Avoyelles Parish |  | Unclassifiable/Attainment.
Beauregard Parish |  | Unclassifiable/Attainment.
Bienville Parish |  | Unclassifiable/Attainment.
Bossier Parish |  | Unclassifiable/Attainment.
Caddo Parish |  | Unclassifiable/Attainment.
Calcasieu Parish |  | Unclassifiable/Attainment.
Caldwell Parish |  | Unclassifiable/Attainment.
Cameron Parish |  | Unclassifiable/Attainment.
Catahoula Parish |  | Unclassifiable/Attainment.
Claiborne Parish |  | Unclassifiable/Attainment.
Concordia Parish |  | Unclassifiable/Attainment.
De Soto Parish |  | Unclassifiable/Attainment.
East Baton Rouge Parish |  | Unclassifiable/Attainment.
East Carroll Parish |  | Unclassifiable/Attainment.
East Feliciana Parish |  | Unclassifiable/Attainment.
Evangeline Parish |  | Unclassifiable/Attainment.
Franklin Parish |  | Unclassifiable/Attainment.
Grant Parish |  | Unclassifiable/Attainment.
Iberia Parish |  | Unclassifiable/Attainment.
Iberville Parish |  | Unclassifiable/Attainment.
Jackson Parish |  | Unclassifiable/Attainment.
Jefferson Davis Parish |  | Unclassifiable/Attainment.
Jefferson Parish |  | Unclassifiable/Attainment.
La Salle Parish |  | Unclassifiable/Attainment.
Lafayette Parish |  | Unclassifiable/Attainment.
Lafourche Parish |  | Unclassifiable/Attainment.
Lincoln Parish |  | Unclassifiable/Attainment.
Livingston Parish |  | Unclassifiable/Attainment.
Madison Parish |  | Unclassifiable/Attainment.
Morehouse Parish |  | Unclassifiable/Attainment.
Natchitoches Parish |  | Unclassifiable/Attainment.
Orleans Parish |  | Unclassifiable/Attainment.
Ouachita Parish |  | Unclassifiable/Attainment.
Plaquemines Parish |  | Unclassifiable/Attainment.
Pointe Coupee Parish |  | Unclassifiable/Attainment.
Rapides Parish |  | Unclassifiable/Attainment.
Red River Parish |  | Unclassifiable/Attainment.
Richland Parish |  | Unclassifiable/Attainment.
Sabine Parish |  | Unclassifiable/Attainment.
St. Bernard Parish |  | Unclassifiable/Attainment.
St. Charles Parish |  | Unclassifiable/Attainment.
St. Helena Parish |  | Unclassifiable/Attainment.
St. James Parish |  | Unclassifiable/Attainment.
St. John the Baptist Parish |  | Unclassifiable/Attainment.
St. Landry Parish |  | Unclassifiable/Attainment.
St. Martin Parish |  | Unclassifiable/Attainment.
St. Tammany Parish |  | Unclassifiable/Attainment.
Tangipahoa Parish |  | Unclassifiable/Attainment.
Terrebonne Parish |  | Unclassifiable/Attainment.
Tensas Parish |  | Unclassifiable/Attainment.
Vermilion Parish |  | Unclassifiable/Attainment.
Vernon Parish |  | Unclassifiable/Attainment.
Union Parish |  | Unclassifiable/Attainment.
Washington Parish |  | Unclassifiable/Attainment.
Webster Parish |  | Unclassifiable/Attainment.
West Baton Rouge Parish |  | Unclassifiable/Attainment.
West Carroll Parish |  | Unclassifiable/Attainment.
West Feliciana Parish |  | Unclassifiable/Attainment.
Winn Parish |  | Unclassifiable/Attainment
ᵃ Includes Indian Country located in each county or area, except as otherwise specified.
¹ This date is 90 days after October 31, 2011, unless otherwise noted.

21. Section 81.320 is amended as follows:

a. By revising the table heading “Maine—NO2” to read “Maine—NO2 (1971 Annual Standard).”

b. By adding a table entitled “Maine—NO2 (2010 1-Hour Standard)” in alphabetical order to read as follows:

§ 81.320 Maine.

* * * * *

Maine—NO2 (2010 1-Hour Standard)
Designated area | Designation ᵃ: Date ¹ | Designation ᵃ: Type
State of Maine |  | Unclassifiable/Attainment.
ᵃ Includes Indian Country located in each county or area, except as otherwise specified.
¹ This date is 90 days after October 31, 2011, unless otherwise noted.

22. Section 81.321 is amended as follows:

a. By revising the table heading “Maryland—NO2” to read “Maryland—NO2 (1971 Annual Standard).”

b. By adding a table entitled “Maryland—NO2 (2010 1-Hour Standard)” in alphabetical order to read as follows:

§ 81.321 Maryland.

* * * * *

Maryland—NO2 (2010 1-Hour Standard)
Designated area | Designation ᵃ: Date ¹ | Designation ᵃ: Type
Allegany County |  | Unclassifiable/Attainment.
Anne Arundel County |  | Unclassifiable/Attainment.
Baltimore County |  | Unclassifiable/Attainment.
City of Baltimore |  | Unclassifiable/Attainment.
Calvert County |  | Unclassifiable/Attainment.
Caroline County |  | Unclassifiable/Attainment.
Carroll County |  | Unclassifiable/Attainment.
Cecil County |  | Unclassifiable/Attainment.
Charles County |  | Unclassifiable/Attainment.
Dorchester County |  | Unclassifiable/Attainment.
Frederick County |  | Unclassifiable/Attainment.
Garrett County |  | Unclassifiable/Attainment.
Harford County |  | Unclassifiable/Attainment.
Howard County |  | Unclassifiable/Attainment.
Kent County |  | Unclassifiable/Attainment.
Montgomery County |  | Unclassifiable/Attainment.
Prince George's County |  | Unclassifiable/Attainment.
Queene Anne's County |  | Unclassifiable/Attainment.
St. Mary's County |  | Unclassifiable/Attainment.
Somerset County |  | Unclassifiable/Attainment.
Talbot County |  | Unclassifiable/Attainment.
Washington County |  | Unclassifiable/Attainment.
Wicomico County |  | Unclassifiable/Attainment.
Worchester County |  | Unclassifiable/Attainment.
ᵃ Includes Indian Country located in each county or area, except as otherwise specified.
¹ This date is 90 days after October 31, 2011, unless otherwise noted.

23. Section 81.322 is amended as follows:

a. By revising the table heading “Massachusetts—NO2” to read “Massachusetts—NO2 (1971 Annual Standard).”

b. By adding a table entitled “Massachusetts—NO2 (2010 1-Hour Standard)” in alphabetical order to read as follows:

§ 81.322 Massachusetts.

* * * * *

Massachusetts—NO2 (2010 1-Hour Standard)
Designated area | Designation ᵃ: Date ¹ | Designation ᵃ: Type
State of Massachusetts |  | Unclassifiable/Attainment.
ᵃ Includes Indian Country located in each county or area, except as otherwise specified.
¹ This date is 90 days after October 31, 2011, unless otherwise noted.

24. Section 81.323 is amended as follows:

a. By revising the table heading “Michigan—NO2” to read “Michigan—NO2 (1971 Annual Standard).”

b. By adding a table entitled “Michigan—NO2 (2010 1-Hour Standard)” in alphabetical order to read as follows:

§ 81.323 Michigan.

* * * * *

Michigan—NO2 (2010 1-Hour Standard)
Designated area | Designation ᵃ: Date ¹ | Designation ᵃ: Type
Alcona County |  | Unclassifiable/Attainment.
Alger County |  | Unclassifiable/Attainment.
Allegan County |  | Unclassifiable/Attainment.
Alpena County |  | Unclassifiable/Attainment.
Antrim County |  | Unclassifiable/Attainment.
Arenac County |  | Unclassifiable/Attainment.
Baraga County |  | Unclassifiable/Attainment.
Barry County |  | Unclassifiable/Attainment.
Bay County |  | Unclassifiable/Attainment.
Benzie County |  | Unclassifiable/Attainment.
Berrien County |  | Unclassifiable/Attainment.
Branch County |  | Unclassifiable/Attainment.
Calhoun County |  | Unclassifiable/Attainment.
Cass County |  | Unclassifiable/Attainment.
Charlevoix County |  | Unclassifiable/Attainment.
Cheboygan County |  | Unclassifiable/Attainment.
Chippewa County |  | Unclassifiable/Attainment.
Clare County |  | Unclassifiable/Attainment.
Clinton County |  | Unclassifiable/Attainment.
Crawford County |  | Unclassifiable/Attainment.
Delta County |  | Unclassifiable/Attainment.
Dickinson County |  | Unclassifiable/Attainment.
Eaton County |  | Unclassifiable/Attainment.
Emmet County |  | Unclassifiable/Attainment.
Genesee County |  | Unclassifiable/Attainment.
Gladwin County |  | Unclassifiable/Attainment.
Gogebic County |  | Unclassifiable/Attainment.
Grand Traverse County |  | Unclassifiable/Attainment.
Gratiot County |  | Unclassifiable/Attainment.
Hillsdale County |  | Unclassifiable/Attainment.
Houghton County |  | Unclassifiable/Attainment.
Huron County |  | Unclassifiable/Attainment.
Ingham County |  | Unclassifiable/Attainment.
Ionia County |  | Unclassifiable/Attainment.
Iosco County |  | Unclassifiable/Attainment.
Iron County |  | Unclassifiable/Attainment.
Isabella County |  | Unclassifiable/Attainment.
Jackson County |  | Unclassifiable/Attainment.
Kalamazoo County |  | Unclassifiable/Attainment.
Kalkaska County |  | Unclassifiable/Attainment.
Kent County |  | Unclassifiable/Attainment.
Keweenaw County |  | Unclassifiable/Attainment.
Lake County |  | Unclassifiable/Attainment.
Lapeer County |  | Unclassifiable/Attainment.
Leelanau County |  | Unclassifiable/Attainment.
Lenawee County |  | Unclassifiable/Attainment.
Livingston County |  | Unclassifiable/Attainment.
Luce County |  | Unclassifiable/Attainment.
Mackinac County |  | Unclassifiable/Attainment.
Macomb County |  | Unclassifiable/Attainment.
Manistee County |  | Unclassifiable/Attainment.
Marquette County |  | Unclassifiable/Attainment.
Mason County |  | Unclassifiable/Attainment.
Mecosta County |  | Unclassifiable/Attainment.
Menominee County |  | Unclassifiable/Attainment.
Midland County |  | Unclassifiable/Attainment.
Missaukee County |  | Unclassifiable/Attainment.
Monroe County |  | Unclassifiable/Attainment.
Montcalm County |  | Unclassifiable/Attainment.
Montmorency County |  | Unclassifiable/Attainment.
Muskegon County |  | Unclassifiable/Attainment.
Newaygo County |  | Unclassifiable/Attainment.
Oakland County |  | Unclassifiable/Attainment.
Oceana County |  | Unclassifiable/Attainment.
Ogemaw County |  | Unclassifiable/Attainment.
Ontonagon County |  | Unclassifiable/Attainment.
Osceola County |  | Unclassifiable/Attainment.
Oscoda County |  | Unclassifiable/Attainment.
Otsego County |  | Unclassifiable/Attainment.
Ottawa County |  | Unclassifiable/Attainment.
Presque Isle County |  | Unclassifiable/Attainment.
Roscommon County |  | Unclassifiable/Attainment.
Saginaw County |  | Unclassifiable/Attainment.
St. Clair County |  | Unclassifiable/Attainment.
St. Joseph County |  | Unclassifiable/Attainment.
Sanilac County |  | Unclassifiable/Attainment.
Schoolcraft County |  | Unclassifiable/Attainment.
Shiawassee County |  | Unclassifiable/Attainment.
Tuscola County |  | Unclassifiable/Attainment.
Van Buren County |  | Unclassifiable/Attainment.
Washtenaw County |  | Unclassifiable/Attainment.
Wayne County |  | Unclassifiable/Attainment.
Wexford County |  | Unclassifiable/Attainment.
ᵃ Includes Indian Country located in each county or area, except as otherwise specified.
¹ This date is 90 days after October 31, 2011, unless otherwise noted.

25. Section 81.324 is amended as follows:

a. By revising the table heading “Minnesota—NO2” to read “Minnesota—NO2 (1971 Annual Standard).”

b. By adding a table entitled “Minnesota—NO2 (2010 1-Hour Standard)” in alphabetical order to read as follows:

§ 81.324 Minnesota.

* * * * *

Minnesota—NO2 (2010 1-Hour Standard)
Designated area | Designation ᵃ: Date ¹ | Designation ᵃ: Type
State of Minnesota |  | Unclassifiable/Attainment.
ᵃ Includes Indian Country located in each county or area, except as otherwise specified.
¹ This date is 90 days after October 31, 2011, unless otherwise noted.

26. Section 81.325 is amended as follows:

a. By revising the table heading “Mississippi—NO2” to read “Mississippi—NO2 (1971 Annual Standard).”

b. By adding a table entitled “Mississippi—NO2 (2010 1-Hour Standard)” in alphabetical order to read as follows:

§ 81.325 Mississippi.

* * * * *

Mississippi—NO2 (2010 1-Hour Standard)
Designated area | Designation ᵃ: Date ¹ | Designation ᵃ: Type
Adams County |  | Unclassifiable/Attainment.
Alcorn County |  | Unclassifiable/Attainment.
Amite County |  | Unclassifiable/Attainment.
Attala County |  | Unclassifiable/Attainment.
Benton County |  | Unclassifiable/Attainment.
Bolivar County |  | Unclassifiable/Attainment.
Calhoun County |  | Unclassifiable/Attainment.
Carroll County |  | Unclassifiable/Attainment.
Chickasaw County |  | Unclassifiable/Attainment.
Choctaw County |  | Unclassifiable/Attainment.
Claiborne County |  | Unclassifiable/Attainment.
Clarke County |  | Unclassifiable/Attainment.
Clay County |  | Unclassifiable/Attainment.
Coahoma County |  | Unclassifiable/Attainment.
Copiah County |  | Unclassifiable/Attainment.
Covington County |  | Unclassifiable/Attainment.
DeSoto County |  | Unclassifiable/Attainment.
Forrest County |  | Unclassifiable/Attainment.
Franklin County |  | Unclassifiable/Attainment.
George County |  | Unclassifiable/Attainment.
Greene County |  | Unclassifiable/Attainment.
Grenada County |  | Unclassifiable/Attainment.
Hancock County |  | Unclassifiable/Attainment.
Harrison County |  | Unclassifiable/Attainment.
Hinds County |  | Unclassifiable/Attainment.
Holmes County |  | Unclassifiable/Attainment.
Humphreys County |  | Unclassifiable/Attainment.
Issaquena County |  | Unclassifiable/Attainment.
Itawamba County |  | Unclassifiable/Attainment.
Jackson County |  | Unclassifiable/Attainment.
Jasper County |  | Unclassifiable/Attainment.
Jefferson County |  | Unclassifiable/Attainment.
Jefferson Davis County |  | Unclassifiable/Attainment.
Jones County |  | Unclassifiable/Attainment.
Kemper County |  | Unclassifiable/Attainment.
Lafayette County |  | Unclassifiable/Attainment.
Lamar County |  | Unclassifiable/Attainment.
Lauderdale County |  | Unclassifiable/Attainment.
Lawrence County |  | Unclassifiable/Attainment.
Leake County |  | Unclassifiable/Attainment.
Lee County |  | Unclassifiable/Attainment.
Leflore County |  | Unclassifiable/Attainment.
Lincoln County |  | Unclassifiable/Attainment.
Lowndes County |  | Unclassifiable/Attainment.
Madison County |  | Unclassifiable/Attainment.
Marion County |  | Unclassifiable/Attainment.
Marshall County |  | Unclassifiable/Attainment.
Monroe County |  | Unclassifiable/Attainment.
Montgomery County |  | Unclassifiable/Attainment.
Neshoba County |  | Unclassifiable/Attainment.
Newton County |  | Unclassifiable/Attainment.
Noxubee County |  | Unclassifiable/Attainment.
Oktibbeha County |  | Unclassifiable/Attainment.
Panola County |  | Unclassifiable/Attainment.
Pearl River County |  | Unclassifiable/Attainment.
Perry County |  | Unclassifiable/Attainment.
Pike County |  | Unclassifiable/Attainment.
Pontotoc County |  | Unclassifiable/Attainment.
Prentiss County |  | Unclassifiable/Attainment.
Quitman County |  | Unclassifiable/Attainment.
Rankin County |  | Unclassifiable/Attainment.
Scott County |  | Unclassifiable/Attainment.
Sharkey County |  | Unclassifiable/Attainment.
Simpson County |  | Unclassifiable/Attainment.
Smith County |  | Unclassifiable/Attainment.
Stone County |  | Unclassifiable/Attainment.
Sunflower County |  | Unclassifiable/Attainment.
Tallahatchie County |  | Unclassifiable/Attainment.
Tate County |  | Unclassifiable/Attainment.
Tippah County |  | Unclassifiable/Attainment.
Tishomingo County |  | Unclassifiable/Attainment.
Tunica County |  | Unclassifiable/Attainment.
Union County |  | Unclassifiable/Attainment.
Walthall County |  | Unclassifiable/Attainment.
Warren County |  | Unclassifiable/Attainment.
Washington County |  | Unclassifiable/Attainment.
Wayne County |  | Unclassifiable/Attainment.
Webster County |  | Unclassifiable/Attainment.
Wilkinson County |  | Unclassifiable/Attainment.
Winston County |  | Unclassifiable/Attainment.
Yalobusha County |  | Unclassifiable/Attainment.
Yazoo County |  | Unclassifiable/Attainment.
ᵃ Includes Indian Country located in each county or area, except as otherwise specified.
¹ This date is 90 days after October 31, 2011, unless otherwise noted.

27. Section 81.326 is amended as follows:

a. By revising the table heading “Missouri—NO2” to read “Missouri—NO2 (1971 Annual Standard).”

b. By adding a table entitled “Missouri—NO2 (2010 1-Hour Standard)” in alphabetical order to read as follows:

§ 81.326 Missouri.

* * * * *

Missouri—NO2 (2010 1-Hour Standard)
Designated area | Designation ᵃ: Date ¹ | Designation ᵃ: Type
Adair County |  | Unclassifiable/Attainment.
Andrew County |  | Unclassifiable/Attainment.
Atchison County |  | Unclassifiable/Attainment.
Audrain County |  | Unclassifiable/Attainment.
Barry County |  | Unclassifiable/Attainment.
Barton County |  | Unclassifiable/Attainment.
Bates County |  | Unclassifiable/Attainment.
Benton County |  | Unclassifiable/Attainment.
Bollinger County |  | Unclassifiable/Attainment.
Boone County |  | Unclassifiable/Attainment.
Buchanan County |  | Unclassifiable/Attainment.
Butler County |  | Unclassifiable/Attainment.
Caldwell County |  | Unclassifiable/Attainment.
Callaway County |  | Unclassifiable/Attainment.
Camden County |  | Unclassifiable/Attainment.
Cape Girardeau County |  | Unclassifiable/Attainment.
Carroll County |  | Unclassifiable/Attainment.
Carter County |  | Unclassifiable/Attainment.
Cass County |  | Unclassifiable/Attainment.
Cedar County |  | Unclassifiable/Attainment.
Chariton County |  | Unclassifiable/Attainment.
Christian County |  | Unclassifiable/Attainment.
Clark County |  | Unclassifiable/Attainment.
Clay County |  | Unclassifiable/Attainment.
Clinton County |  | Unclassifiable/Attainment.
Cole County |  | Unclassifiable/Attainment.
Cooper County |  | Unclassifiable/Attainment.
Crawford County |  | Unclassifiable/Attainment.
Dade County |  | Unclassifiable/Attainment.
Dallas County |  | Unclassifiable/Attainment.
Daviess County |  | Unclassifiable/Attainment.
DeKalb County |  | Unclassifiable/Attainment.
Dent County |  | Unclassifiable/Attainment.
Douglas County |  | Unclassifiable/Attainment.
Dunklin County |  | Unclassifiable/Attainment.
Franklin County |  | Unclassifiable/Attainment.
Gasconade County |  | Unclassifiable/Attainment.
Gentry County |  | Unclassifiable/Attainment.
Greene County |  | Unclassifiable/Attainment.
Grundy County |  | Unclassifiable/Attainment.
Harrison County |  | Unclassifiable/Attainment.
Henry County |  | Unclassifiable/Attainment.
Hickory County |  | Unclassifiable/Attainment.
Holt County |  | Unclassifiable/Attainment.
Howard County |  | Unclassifiable/Attainment.
Howell County |  | Unclassifiable/Attainment.
Iron County |  | Unclassifiable/Attainment.
Jackson County |  | Unclassifiable/Attainment.
Jasper County |  | Unclassifiable/Attainment.
Jefferson County |  | Unclassifiable/Attainment.
Johnson County |  | Unclassifiable/Attainment.
Knox County |  | Unclassifiable/Attainment.
Laclede County |  | Unclassifiable/Attainment.
Lafayette County |  | Unclassifiable/Attainment.
Lawrence County |  | Unclassifiable/Attainment.
Lewis County |  | Unclassifiable/Attainment.
Lincoln County |  | Unclassifiable/Attainment.
Linn County |  | Unclassifiable/Attainment.
Livingston County |  | Unclassifiable/Attainment.
McDonald County |  | Unclassifiable/Attainment.
Macon County |  | Unclassifiable/Attainment.
Madison County |  | Unclassifiable/Attainment.
Maries County |  | Unclassifiable/Attainment.
Marion County |  | Unclassifiable/Attainment.
Mercer County |  | Unclassifiable/Attainment.
Miller County |  | Unclassifiable/Attainment.
Mississippi County |  | Unclassifiable/Attainment.
Moniteau County |  | Unclassifiable/Attainment.
Monroe County |  | Unclassifiable/Attainment.
Montgomery County |  | Unclassifiable/Attainment.
Morgan County |  | Unclassifiable/Attainment.
New Madrid County |  | Unclassifiable/Attainment.
Newton County |  | Unclassifiable/Attainment.
Nodaway County |  | Unclassifiable/Attainment.
Oregon County |  | Unclassifiable/Attainment.
Osage County |  | Unclassifiable/Attainment.
Ozark County |  | Unclassifiable/Attainment.
Pemiscot County |  | Unclassifiable/Attainment.
Perry County |  | Unclassifiable/Attainment.
Pettis County |  | Unclassifiable/Attainment.
Phelps County |  | Unclassifiable/Attainment.
Pike County |  | Unclassifiable/Attainment.
Platte County |  | Unclassifiable/Attainment.
Polk County |  | Unclassifiable/Attainment.
Pulaski County |  | Unclassifiable/Attainment.
Putnam County |  | Unclassifiable/Attainment.
Ralls County |  | Unclassifiable/Attainment.
Randolph County |  | Unclassifiable/Attainment.
Ray County |  | Unclassifiable/Attainment.
Reynolds County |  | Unclassifiable/Attainment.
Ripley County |  | Unclassifiable/Attainment.
St. Charles County |  | Unclassifiable/Attainment.
St. Clair County |  | Unclassifiable/Attainment.
St. Genevieve County |  | Unclassifiable/Attainment.
St. Francois County |  | Unclassifiable/Attainment.
St. Louis County |  | Unclassifiable/Attainment.
St. Louis City |  | Unclassifiable/Attainment.
Saline County |  | Unclassifiable/Attainment.
Schuyler County |  | Unclassifiable/Attainment.
Scotland County |  | Unclassifiable/Attainment.
Scott County |  | Unclassifiable/Attainment.
Shannon County |  | Unclassifiable/Attainment.
Shelby County |  | Unclassifiable/Attainment.
Stoddard County |  | Unclassifiable/Attainment.
Stone County |  | Unclassifiable/Attainment.
Sullivan County |  | Unclassifiable/Attainment.
Taney County |  | Unclassifiable/Attainment.
Texas County |  | Unclassifiable/Attainment.
Vernon County |  | Unclassifiable/Attainment.
Warren County |  | Unclassifiable/Attainment.
Washington County |  | Unclassifiable/Attainment.
Wayne County |  | Unclassifiable/Attainment.
Webster County |  | Unclassifiable/Attainment.
Worth County |  | Unclassifiable/Attainment.
Wright County |  | Unclassifiable/Attainment.
ᵃ Includes Indian Country located in each county or area, except as otherwise specified.
¹ This date is 90 days after October 31, 2011, unless otherwise noted.

28. Section 81.327 is amended as follows:

a. By revising the table heading “Montana—NO2” to read “Montana—NO2 (1971 Annual Standard).”

b. By adding a table entitled “Montana—NO2 (2010 1-Hour Standard)” in alphabetical order to read as follows:

§ 81.327 Montana.

* * * * *

Montana—NO2 (2010 1-Hour Standard)
Designated area | Designation ᵃ: Date ¹ | Designation ᵃ: Type
Beaverhead County |  | Unclassifiable/Attainment.
Big Horn County |  | Unclassifiable/Attainment.
Blaine County |  | Unclassifiable/Attainment.
Broadwater County |  | Unclassifiable/Attainment.
Carbon County |  | Unclassifiable/Attainment.
Carter County |  | Unclassifiable/Attainment.
Cascade County |  | Unclassifiable/Attainment.
Chouteau County |  | Unclassifiable/Attainment.
Custer County |  | Unclassifiable/Attainment.
Daniels County |  | Unclassifiable/Attainment.
Dawson County |  | Unclassifiable/Attainment.
Deer Lodge County |  | Unclassifiable/Attainment.
Fallon County |  | Unclassifiable/Attainment.
Fergus County |  | Unclassifiable/Attainment.
Flathead County |  | Unclassifiable/Attainment.
Gallatin County |  | Unclassifiable/Attainment.
Garfield County |  | Unclassifiable/Attainment.
Glacier County |  | Unclassifiable/Attainment.
Golden Valley County |  | Unclassifiable/Attainment.
Granite County |  | Unclassifiable/Attainment.
Hill County |  | Unclassifiable/Attainment.
Jefferson County |  | Unclassifiable/Attainment.
Judith Basin County |  | Unclassifiable/Attainment.
Lake County |  | Unclassifiable/Attainment.
Lewis and Clark County |  | Unclassifiable/Attainment.
Liberty County |  | Unclassifiable/Attainment.
Lincoln County |  | Unclassifiable/Attainment.
McCone County |  | Unclassifiable/Attainment.
Madison County |  | Unclassifiable/Attainment.
Meagher County |  | Unclassifiable/Attainment.
Mineral County |  | Unclassifiable/Attainment.
Missoula County |  | Unclassifiable/Attainment.
Musselshell County |  | Unclassifiable/Attainment.
Park County |  | Unclassifiable/Attainment.
Petroleum County |  | Unclassifiable/Attainment.
Phillips County |  | Unclassifiable/Attainment.
Pondera County |  | Unclassifiable/Attainment.
Powder River County |  | Unclassifiable/Attainment.
Powell County |  | Unclassifiable/Attainment.
Prairie County |  | Unclassifiable/Attainment.
Ravalli County |  | Unclassifiable/Attainment.
Richland County |  | Unclassifiable/Attainment.
Roosevelt County |  | Unclassifiable/Attainment.
Rosebud County |  | Unclassifiable/Attainment.
Sanders County |  | Unclassifiable/Attainment.
Sheridan County |  | Unclassifiable/Attainment.
Silver Bow County |  | Unclassifiable/Attainment.
Stillwater County |  | Unclassifiable/Attainment.
Sweet Grass County |  | Unclassifiable/Attainment.
Teton County |  | Unclassifiable/Attainment.
Toole County |  | Unclassifiable/Attainment.
Treasure County |  | Unclassifiable/Attainment.
Valley County |  | Unclassifiable/Attainment.
Wheatland County |  | Unclassifiable/Attainment.
Wibaux County |  | Unclassifiable/Attainment.
Yellowstone County |  | Unclassifiable/Attainment.
ᵃ Includes Indian Country located in each county or area, except as otherwise specified.
¹ This date is 90 days after October 31, 2011, unless otherwise noted.

29. Section 81.328 is amended as follows:

a. By revising the table heading “Nebraska—NO2” to read “Nebraska—NO2 (1971 Annual Standard).”

b. By adding a table entitled “Nebraska—NO2 (2010 1-Hour Standard)” in alphabetical order to read as follows:

§ 81.328 Nebraska.

* * * * *

Nebraska—NO2 (2010 1-Hour Standard)
Designated area | Designation ᵃ: Date ¹ | Designation ᵃ: Type
Adams County |  | Unclassifiable/Attainment.
Antelope County |  | Unclassifiable/Attainment.
Arthur County |  | Unclassifiable/Attainment.
Banner County |  | Unclassifiable/Attainment.
Blaine County |  | Unclassifiable/Attainment.
Boone County |  | Unclassifiable/Attainment.
Box Butte County |  | Unclassifiable/Attainment.
Boyd County |  | Unclassifiable/Attainment.
Brown County |  | Unclassifiable/Attainment.
Buffalo County |  | Unclassifiable/Attainment.
Burt County |  | Unclassifiable/Attainment.
Butler County |  | Unclassifiable/Attainment.
Cass County |  | Unclassifiable/Attainment.
Cedar County |  | Unclassifiable/Attainment.
Chase County |  | Unclassifiable/Attainment.
Cherry County |  | Unclassifiable/Attainment.
Cheyenne County |  | Unclassifiable/Attainment.
Clay County |  | Unclassifiable/Attainment.
Colfax County |  | Unclassifiable/Attainment.
Cuming County |  | Unclassifiable/Attainment.
Custer County |  | Unclassifiable/Attainment.
Dakota County |  | Unclassifiable/Attainment.
Dawes County |  | Unclassifiable/Attainment.
Dawson County |  | Unclassifiable/Attainment.
Deuel County |  | Unclassifiable/Attainment.
Dixon County |  | Unclassifiable/Attainment.
Dodge County |  | Unclassifiable/Attainment.
Douglas County |  | Unclassifiable/Attainment.
Dundy County |  | Unclassifiable/Attainment.
Fillmore County |  | Unclassifiable/Attainment.
Franklin County |  | Unclassifiable/Attainment.
Frontier County |  | Unclassifiable/Attainment.
Furnas County |  | Unclassifiable/Attainment.
Gage County |  | Unclassifiable/Attainment.
Garden County |  | Unclassifiable/Attainment.
Garfield County |  | Unclassifiable/Attainment.
Gosper County |  | Unclassifiable/Attainment.
Grant County |  | Unclassifiable/Attainment.
Greeley County |  | Unclassifiable/Attainment.
Hall County |  | Unclassifiable/Attainment.
Hamilton County |  | Unclassifiable/Attainment.
Harlan County |  | Unclassifiable/Attainment.
Hayes County |  | Unclassifiable/Attainment.
Hitchcock County |  | Unclassifiable/Attainment.
Holt County |  | Unclassifiable/Attainment.
Hooker County |  | Unclassifiable/Attainment.
Howard County |  | Unclassifiable/Attainment.
Jefferson County |  | Unclassifiable/Attainment.
Johnson County |  | Unclassifiable/Attainment.
Kearney County |  | Unclassifiable/Attainment.
Keith County |  | Unclassifiable/Attainment.
Keya Paha County |  | Unclassifiable/Attainment.
Kimball County |  | Unclassifiable/Attainment.
Knox County |  | Unclassifiable/Attainment.
Lancaster County |  | Unclassifiable/Attainment.
Lincoln County |  | Unclassifiable/Attainment.
Logan County |  | Unclassifiable/Attainment.
Loup County |  | Unclassifiable/Attainment.
McPherson County |  | Unclassifiable/Attainment.
Madison County |  | Unclassifiable/Attainment.
Merrick County |  | Unclassifiable/Attainment.
Morrill County |  | Unclassifiable/Attainment.
Nance County |  | Unclassifiable/Attainment.
Nemaha County |  | Unclassifiable/Attainment.
Nuckolls County |  | Unclassifiable/Attainment.
Otoe County |  | Unclassifiable/Attainment.
Pawnee County |  | Unclassifiable/Attainment.
Perkins County |  | Unclassifiable/Attainment.
Phelps County |  | Unclassifiable/Attainment.
Pierce County |  | Unclassifiable/Attainment.
Platte County |  | Unclassifiable/Attainment.
Polk County |  | Unclassifiable/Attainment.
Red Willow County |  | Unclassifiable/Attainment.
Richardson County |  | Unclassifiable/Attainment.
Rock County |  | Unclassifiable/Attainment.
Saline County |  | Unclassifiable/Attainment.
Sarpy County |  | Unclassifiable/Attainment.
Saunders County |  | Unclassifiable/Attainment.
Scotts Bluff County |  | Unclassifiable/Attainment.
Seward County |  | Unclassifiable/Attainment.
Sheridan County |  | Unclassifiable/Attainment.
Sherman County |  | Unclassifiable/Attainment.
Sioux County |  | Unclassifiable/Attainment.
Stanton County |  | Unclassifiable/Attainment.
Thayer County |  | Unclassifiable/Attainment.
Thomas County |  | Unclassifiable/Attainment.
Thurston County |  | Unclassifiable/Attainment.
Valley County |  | Unclassifiable/Attainment.
Washington County |  | Unclassifiable/Attainment.
Wayne County |  | Unclassifiable/Attainment.
Webster County |  | Unclassifiable/Attainment.
Wheeler County |  | Unclassifiable/Attainment.
York County |  | Unclassifiable/Attainment.
ᵃ Includes Indian Country located in each county or area, except as otherwise specified.
¹ This date is 90 days after October 31, 2011, unless otherwise noted.

30. Section 81.329 is amended as follows:

a. By revising the table heading “Nevada—NO2” to read “Nevada—NO2 (1971 Annual Standard).”

b. By adding a table entitled “Nevada—NO2 (2010 1-Hour Standard)” in alphabetical order to read as follows:

§ 81.329 Nevada.

* * * * *

Nevada—NO2 (2010 1-Hour Standard)
Designated area | Designation ᵃ: Date ¹ | Designation ᵃ: Type
State of Nevada ² |  | Unclassifiable/Attainment.
ᵃ Includes Indian Country located in each county or area, except as otherwise specified.
¹ This date is 90 days after October 31, 2011, unless otherwise noted.
² Statewide refers to hydrographic areas as shown on the State of Nevada Division of Water Resources' map titled “Water Resources and Inter-basin Flows” (September 1971), as revised to include a division of Carson Desert (area 101) into two areas, a smaller area 101 and area 101A, and a division of Boulder Flat (area 61) into an Upper Unit 61 and a Lower Unit 61. See also 67 FR 12474 (March 19, 2002).

31. Section 81.330 is amended as follows:

a. By revising the table heading “New Hampshire—NO2” to read “New Hampshire—NO2 (1971 Annual Standard).”

b. By adding a table entitled “New Hampshire—NO2 (2010 1-Hour Standard)” in alphabetical order to read as follows:

§ 81.330 New Hampshire.

* * * * *

New Hampshire—NO2 (2010 1-Hour Standard)
Designated area | Designation ᵃ: Date ¹ | Designation ᵃ: Type
State of New Hampshire |  | Unclassifiable/Attainment.
ᵃ Includes Indian Country located in each county or area, except as otherwise specified.
¹ This date is 90 days after October 31, 2011, unless otherwise noted.

32. Section 81.331 is amended as follows:

a. By revising the table heading “New Jersey—NO2” to read “New Jersey—NO2 (1971 Annual Standard).”

b. By adding a table entitled “New Jersey—NO2 (2010 1-Hour Standard)” in alphabetical order to read as follows:

§ 81.331 New Jersey.

* * * * *

New Jersey—NO2 (2010 1-Hour Standard)
Designated area | Designation ᵃ: Date ¹ | Designation ᵃ: Type
State of New Jersey |  | Unclassifiable/Attainment.
ᵃ Includes Indian Country located in each county or area, except as otherwise specified.
¹ This date is 90 days after October 31, 2011, unless otherwise noted.

33. Section 81.332 is amended as follows:

a. By revising the table heading “New Mexico—NO2” to read “New Mexico—NO2 (1971 Annual Standard).”

b. By adding a table entitled “New Mexico—NO2 (2010 1-Hour Standard)” in alphabetical order to read as follows:

§ 81.332 New Mexico.

* * * * *

New Mexico—NO2 (2010 1-Hour Standard)
Designated area | Designation ᵃ: Date ¹ | Designation ᵃ: Type
Bernalillo County |  | Unclassifiable/Attainment.
Catron County |  | Unclassifiable/Attainment.
Chaves County |  | Unclassifiable/Attainment.
Cibola County |  | Unclassifiable/Attainment.
Colfax County |  | Unclassifiable/Attainment.
Curry County |  | Unclassifiable/Attainment.
De Baca County |  | Unclassifiable/Attainment.
Doña Ana County |  | Unclassifiable/Attainment.
Eddy County |  | Unclassifiable/Attainment.
Grant County |  | Unclassifiable/Attainment.
Guadalupe County |  | Unclassifiable/Attainment.
Harding County |  | Unclassifiable/Attainment.
Hidalgo County |  | Unclassifiable/Attainment.
Lea County |  | Unclassifiable/Attainment.
Lincoln County |  | Unclassifiable/Attainment.
Los Alamos County |  | Unclassifiable/Attainment.
Luna County |  | Unclassifiable/Attainment.
McKinley County |  | Unclassifiable/Attainment.
Mora County |  | Unclassifiable/Attainment.
Otero County |  | Unclassifiable/Attainment.
Quay County |  | Unclassifiable/Attainment.
Río Arriba County |  | Unclassifiable/Attainment.
Roosevelt County |  | Unclassifiable/Attainment.
Sandoval County |  | Unclassifiable/Attainment.
San Juan County |  | Unclassifiable/Attainment.
San Miguel County |  | Unclassifiable/Attainment.
Santa Fe County |  | Unclassifiable/Attainment.
Sierra County |  | Unclassifiable/Attainment.
Socorro County |  | Unclassifiable/Attainment.
Taos County |  | Unclassifiable/Attainment.
Torrance County |  | Unclassifiable/Attainment.
Union County |  | Unclassifiable/Attainment.
Valencia County |  | Unclassifiable/Attainment.
ᵃ Includes Indian Country located in each county or area, except as otherwise specified.
¹ This date is 90 days after October 31, 2011, unless otherwise noted.

34. Section 81.333 is amended as follows:

a. By revising the table heading “New York—NO2” to read “New York—NO2 (1971 Annual Standard).”

b. By adding a table entitled “New York—NO2 (2010 1-Hour Standard)” in alphabetical order to read as follows:

§ 81.333 New York.

* * * * *

New York—NO2 (2010 1-Hour Standard)
Designated area | Designation ᵃ: Date ¹ | Designation ᵃ: Type
Albany-Schenectady-Troy, NY:
Albany County |  | Unclassifiable/Attainment.
Rensselaer County |  | Unclassifiable/Attainment.
Saratoga County |  | Unclassifiable/Attainment.
Schenectady County |  | Unclassifiable/Attainment.
Schoharie County |  | Unclassifiable/Attainment.
Buffalo-Niagara Falls, NY:
Erie County |  | Unclassifiable/Attainment.
Niagara County |  | Unclassifiable/Attainment.
New York-Northern New Jersey-Long Island, NY:
Bronx County |  | Unclassifiable/Attainment.
Kings County |  | Unclassifiable/Attainment.
Nassau County |  | Unclassifiable/Attainment.
New York County |  | Unclassifiable/Attainment.
Putnam County |  | Unclassifiable/Attainment.
Queens County |  | Unclassifiable/Attainment.
Richmond County |  | Unclassifiable/Attainment.
Rockland County |  | Unclassifiable/Attainment.
Suffolk County |  | Unclassifiable/Attainment.
Westchester County |  | Unclassifiable/Attainment.
Poughkeepsie-Newburgh-Middletown, NY:
Dutchess County |  | Unclassifiable/Attainment.
Orange County |  | Unclassifiable/Attainment.
Rochester, NY:
Livingston County |  | Unclassifiable/Attainment.
Monroe County |  | Unclassifiable/Attainment.
Ontario County |  | Unclassifiable/Attainment.
Orleans County |  | Unclassifiable/Attainment.
Wayne County |  | Unclassifiable/Attainment.
Syracuse, NY:
Madison County |  | Unclassifiable/Attainment.
Onondaga County |  | Unclassifiable/Attainment.
Oswego County |  | Unclassifiable/Attainment.
Rest of State |  | Unclassifiable/Attainment.
ᵃ Includes Indian Country located in each county or area, except as otherwise specified.
¹ This date is 90 days after October 31, 2011, unless otherwise noted.

35. Section 81.334 is amended as follows:

a. By revising the table heading “North Carolina—NO2” to read “North Carolina—NO2 (1971 Annual Standard).”

b. By adding a table entitled “North Carolina—NO2 (2010 1-Hour Standard)” in alphabetical order to read as follows:

§ 81.334 North Carolina.

* * * * *

North Carolina—NO2 (2010 1-Hour Standard)
Designated area | Designation ᵃ: Date ¹ | Designation ᵃ: Type
Buncombe County (part) |  | Unclassifiable/Attainment.
Asheville Township, Avery Creek Township, Limestone Township, Lower Hominy Township, Reems Creek Township, Swannanoa Township |  |
Buncombe County (remainder of county) |  | Unclassifiable/Attainment.
Each Individual Township:
Caswell County (part) |  | Unclassifiable/Attainment.
Dan River Township, Yanceyville Township
Caswell County (rest of county) |  | Unclassifiable/Attainment.
Each Individual Township
Forsyth County (part) |  | Unclassifiable/Attainment.
Abbotts Creek Township, Broadbay Township, Kernersville Township, Middle Fork Township, Old Town Township, South Fork Township, Winston Township
Forsyth County (rest of county) |  | Unclassifiable/Attainment.
Each Individual Township
Guilford County (part) |  | Unclassifiable/Attainment.
Bruce Township, Center Grove Township, Deep River Township, Fentress Township, Friendship Township, Gilmer Township, High Point Township, Jamestown Township, Jefferson Township, Monroe Township, Morehead Township, Sumner Township
Guilford County (rest of county) |  | Unclassifiable/Attainment.
Each Individual Township
Mecklenburg County (part) |  | Unclassifiable/Attainment.
Township 1 Charlotte, Township 2 Berryhill, Township 5 Providence, Township 7 Crab Orchard, Township 12 Paw Creek
Mecklenburg County (rest of county) |  | Unclassifiable/Attainment.
Each Individual Township
New Hanover County (part) |  | Unclassifiable/Attainment.
Harnett Township, Masonboro Township, Wilmington Township
New Hanover County (rest of county) |  | Unclassifiable/Attainment.
Each Individual Township
Wake County (part) |  | Unclassifiable/Attainment.
Cary Township, Meredith Township
Wake County (rest of county) |  | Unclassifiable/Attainment.
Each Individual Township
Rest of State:
Each Individual Township |  | Unclassifiable/Attainment.
ᵃ Includes Indian Country located in each county or area, except as otherwise specified.
¹ This date is 90 days after October 31, 2011, unless otherwise noted.

36. Section 81.335 is amended as follows:

a. By revising the table heading “North Dakota—NO2” to read “North Dakota—NO2 (1971 Annual Standard).”

b. By adding a table entitled “North Dakota—NO2 (2010 1-Hour Standard)” in alphabetical order to read as follows:

§ 81.335 North Dakota.

* * * * *

North Dakota—NO2 (2010 1-Hour Standard)
Designated area | Designation ᵃ: Date ¹ | Designation ᵃ: Type
State of North Dakota |  | Unclassifiable/Attainment.
ᵃ Includes Indian Country located in each county or area, except as otherwise specified.
¹ This date is 90 days after October 31, 2011, unless otherwise noted.

37. Section 81.336 is amended as follows:

a. By revising the table heading “Ohio—NO2” to read “Ohio—NO2 (1971 Annual Standard).”

b. By adding a table entitled “Ohio—NO2 (2010 1-Hour Standard)” in alphabetical order to read as follows:

§ 81.336 Ohio.

* * * * *

Ohio—NO2 (2010 1-Hour Standard)
Designated area | Designation ᵃ: Date ¹ | Designation ᵃ: Type
Adams County |  | Unclassifiable/Attainment.
Allen County |  | Unclassifiable/Attainment.
Ashland County |  | Unclassifiable/Attainment.
Ashtabula County |  | Unclassifiable/Attainment.
Athens County |  | Unclassifiable/Attainment.
Auglaize County |  | Unclassifiable/Attainment.
Belmont County |  | Unclassifiable/Attainment.
Brown County |  | Unclassifiable/Attainment.
Butler County |  | Unclassifiable/Attainment.
Carroll County |  | Unclassifiable/Attainment.
Champaign County |  | Unclassifiable/Attainment.
Clark County |  | Unclassifiable/Attainment.
Clermont County |  | Unclassifiable/Attainment.
Clinton County |  | Unclassifiable/Attainment.
Columbiana County |  | Unclassifiable/Attainment.
Coshocton County |  | Unclassifiable/Attainment.
Crawford County |  | Unclassifiable/Attainment.
Cuyahoga County |  | Unclassifiable/Attainment.
Darke County |  | Unclassifiable/Attainment.
Defiance County |  | Unclassifiable/Attainment.
Delaware County |  | Unclassifiable/Attainment.
Erie County |  | Unclassifiable/Attainment.
Fairfield County |  | Unclassifiable/Attainment.
Fayette County |  | Unclassifiable/Attainment.
Franklin County |  | Unclassifiable/Attainment.
Fulton County |  | Unclassifiable/Attainment.
Gallia County |  | Unclassifiable/Attainment.
Geauga County |  | Unclassifiable/Attainment.
Greene County |  | Unclassifiable/Attainment.
Guernsey County |  | Unclassifiable/Attainment.
Hamilton County |  | Unclassifiable/Attainment.
Hancock County |  | Unclassifiable/Attainment.
Hardin County |  | Unclassifiable/Attainment.
Harrison County |  | Unclassifiable/Attainment.
Henry County |  | Unclassifiable/Attainment.
Highland County |  | Unclassifiable/Attainment.
Hocking County |  | Unclassifiable/Attainment.
Holmes County |  | Unclassifiable/Attainment.
Huron County |  | Unclassifiable/Attainment.
Jackson County |  | Unclassifiable/Attainment.
Jefferson County |  | Unclassifiable/Attainment.
Knox County |  | Unclassifiable/Attainment.
Lake County |  | Unclassifiable/Attainment.
Lawrence County |  | Unclassifiable/Attainment.
Licking County |  | Unclassifiable/Attainment.
Logan County |  | Unclassifiable/Attainment.
Lorain County |  | Unclassifiable/Attainment.
Lucas County |  | Unclassifiable/Attainment.
Madison County |  | Unclassifiable/Attainment.
Mahoning County |  | Unclassifiable/Attainment.
Marion County |  | Unclassifiable/Attainment.
Medina County |  | Unclassifiable/Attainment.
Meigs County |  | Unclassifiable/Attainment.
Mercer County |  | Unclassifiable/Attainment.
Miami County |  | Unclassifiable/Attainment.
Monroe County |  | Unclassifiable/Attainment.
Montgomery County |  | Unclassifiable/Attainment.
Morgan County |  | Unclassifiable/Attainment.
Morrow County |  | Unclassifiable/Attainment.
Muskingum County |  | Unclassifiable/Attainment.
Noble County |  | Unclassifiable/Attainment.
Ottawa County |  | Unclassifiable/Attainment.
Paulding County |  | Unclassifiable/Attainment.
Perry County |  | Unclassifiable/Attainment.
Pickaway County |  | Unclassifiable/Attainment.
Pike County |  | Unclassifiable/Attainment.
Portage County |  | Unclassifiable/Attainment.
Preble County |  | Unclassifiable/Attainment.
Putnam County |  | Unclassifiable/Attainment.
Richland County |  | Unclassifiable/Attainment.
Ross County |  | Unclassifiable/Attainment.
Sandusky County |  | Unclassifiable/Attainment.
Scioto County |  | Unclassifiable/Attainment.
Seneca County |  | Unclassifiable/Attainment.
Shelby County |  | Unclassifiable/Attainment.
Stark County |  | Unclassifiable/Attainment.
Summit County |  | Unclassifiable/Attainment.
Trumbull County |  | Unclassifiable/Attainment.
Tuscarawas County |  | Unclassifiable/Attainment.
Union County |  | Unclassifiable/Attainment.
Van Wert County |  | Unclassifiable/Attainment.
Vinton County |  | Unclassifiable/Attainment.
Warren County |  | Unclassifiable/Attainment.
Washington County |  | Unclassifiable/Attainment.
Wayne County |  | Unclassifiable/Attainment.
Williams County |  | Unclassifiable/Attainment.
Wood County |  | Unclassifiable/Attainment.
Wyandot County |  | Unclassifiable/Attainment.
ᵃ Includes Indian Country located in each county or area, except as otherwise specified.
¹ This date is 90 days after October 31, 2011, unless otherwise noted.

38. Section 81.337 is amended as follows:

a. By revising the table heading “Oklahoma—NO2” to read “Oklahoma—NO2 (1971 Annual Standard).”

b. By adding a table entitled “Oklahoma—NO2 (2010 1-Hour Standard)” in alphabetical order to read as follows:

§ 81.337 Oklahoma.

* * * * *

Oklahoma—NO2 (2010 1-Hour Standard)
Designated area | Designation ᵃ: Date ¹ | Designation ᵃ: Type
Adair County |  | Unclassifiable/Attainment.
Alfalfa County |  | Unclassifiable/Attainment.
Atoka County |  | Unclassifiable/Attainment.
Beaver County |  | Unclassifiable/Attainment.
Beckham County |  | Unclassifiable/Attainment.
Blaine County |  | Unclassifiable/Attainment.
Bryan County |  | Unclassifiable/Attainment.
Caddo County |  | Unclassifiable/Attainment.
Canadian County |  | Unclassifiable/Attainment.
Carter County |  | Unclassifiable/Attainment.
Cherokee County |  | Unclassifiable/Attainment.
Choctaw County |  | Unclassifiable/Attainment.
Cimarron County |  | Unclassifiable/Attainment.
Cleveland County |  | Unclassifiable/Attainment.
Coal County |  | Unclassifiable/Attainment.
Comanche County |  | Unclassifiable/Attainment.
Cotton County |  | Unclassifiable/Attainment.
Craig County |  | Unclassifiable/Attainment.
Creek County |  | Unclassifiable/Attainment.
Custer County |  | Unclassifiable/Attainment.
Delaware County |  | Unclassifiable/Attainment.
Dewey County |  | Unclassifiable/Attainment.
Ellis County |  | Unclassifiable/Attainment.
Garfield County |  | Unclassifiable/Attainment.
Garvin County |  | Unclassifiable/Attainment.
Grady County |  | Unclassifiable/Attainment.
Grant County |  | Unclassifiable/Attainment.
Greer County |  | Unclassifiable/Attainment.
Harmon County |  | Unclassifiable/Attainment.
Harper County |  | Unclassifiable/Attainment.
Haskell County |  | Unclassifiable/Attainment.
Hughes County |  | Unclassifiable/Attainment.
Jackson County |  | Unclassifiable/Attainment.
Jefferson County |  | Unclassifiable/Attainment.
Johnston County |  | Unclassifiable/Attainment.
Kay County |  | Unclassifiable/Attainment.
Kingfisher County |  | Unclassifiable/Attainment.
Kiowa County |  | Unclassifiable/Attainment.
Latimer County |  | Unclassifiable/Attainment.
Le Flore County |  | Unclassifiable/Attainment.
Lincoln County |  | Unclassifiable/Attainment.
Logan County |  | Unclassifiable/Attainment.
Love County |  | Unclassifiable/Attainment.
Major County |  | Unclassifiable/Attainment.
Marshall County |  | Unclassifiable/Attainment.
Mayes County |  | Unclassifiable/Attainment.
McClain County |  | Unclassifiable/Attainment.
McCurtain County |  | Unclassifiable/Attainment.
McIntosh County |  | Unclassifiable/Attainment.
Murray County |  | Unclassifiable/Attainment.
Muskogee County |  | Unclassifiable/Attainment.
Noble County |  | Unclassifiable/Attainment.
Nowata County |  | Unclassifiable/Attainment.
Okfuskee County |  | Unclassifiable/Attainment.
Oklahoma County |  | Unclassifiable/Attainment.
Okmulgee County |  | Unclassifiable/Attainment.
Osage County |  | Unclassifiable/Attainment.
Ottawa County |  | Unclassifiable/Attainment.
Pawnee County |  | Unclassifiable/Attainment.
Payne County |  | Unclassifiable/Attainment.
Pittsburg County |  | Unclassifiable/Attainment.
Pontotoc County |  | Unclassifiable/Attainment.
Pottawatomie County |  | Unclassifiable/Attainment.
Pushmataha County |  | Unclassifiable/Attainment.
Roger Mills County |  | Unclassifiable/Attainment.
Rogers County |  | Unclassifiable/Attainment.
Seminole County |  | Unclassifiable/Attainment.
Sequoyah County |  | Unclassifiable/Attainment.
Stephens County |  | Unclassifiable/Attainment.
Texas County |  | Unclassifiable/Attainment.
Tillman County |  | Unclassifiable/Attainment.
Tulsa County |  | Unclassifiable/Attainment.
Wagoner County |  | Unclassifiable/Attainment.
Washington County |  | Unclassifiable/Attainment.
Washita County |  | Unclassifiable/Attainment.
Woods County |  | Unclassifiable/Attainment.
Woodward County |  | Unclassifiable/Attainment.
ᵃ Includes Indian Country located in each county or area, except as otherwise specified.
¹ This date is 90 days after October 31, 2011, unless otherwise noted.

39. Section 81.338 is amended as follows:

a. By revising the table heading “Oregon—NO2” to read “Oregon—NO2 (1971 Annual Standard).”

b. By adding a table entitled “Oregon—NO2 (2010 1-Hour Standard)” in alphabetical order to read as follows:

§ 81.338 Oregon.

* * * * *

Oregon—NO2 (2010 1-Hour Standard)
Designated area | Designation ᵃ: Date ¹ | Designation ᵃ: Type
Baker County |  | Unclassifiable/Attainment.
Benton County |  | Unclassifiable/Attainment.
Clackamas County |  | Unclassifiable/Attainment.
Clatsop County |  | Unclassifiable/Attainment.
Columbia County |  | Unclassifiable/Attainment.
Coos County |  | Unclassifiable/Attainment.
Crook County |  | Unclassifiable/Attainment.
Curry County |  | Unclassifiable/Attainment.
Deschutes County |  | Unclassifiable/Attainment.
Douglas County |  | Unclassifiable/Attainment.
Gilliam County |  | Unclassifiable/Attainment.
Grant County |  | Unclassifiable/Attainment.
Harney County |  | Unclassifiable/Attainment.
Hood River County |  | Unclassifiable/Attainment.
Jackson County |  | Unclassifiable/Attainment.
Jefferson County |  | Unclassifiable/Attainment.
Josephine County |  | Unclassifiable/Attainment.
Klamath County |  | Unclassifiable/Attainment.
Lake County |  | Unclassifiable/Attainment.
Lane County |  | Unclassifiable/Attainment.
Lincoln County |  | Unclassifiable/Attainment.
Linn County |  | Unclassifiable/Attainment.
Malheur County |  | Unclassifiable/Attainment.
Marion County |  | Unclassifiable/Attainment.
Morrow County |  | Unclassifiable/Attainment.
Multnomah County |  | Unclassifiable/Attainment.
Polk County |  | Unclassifiable/Attainment.
Sherman County |  | Unclassifiable/Attainment.
Tillamook County |  | Unclassifiable/Attainment.
Umatilla County |  | Unclassifiable/Attainment.
Union County |  | Unclassifiable/Attainment.
Wallowa County |  | Unclassifiable/Attainment.
Wasco County |  | Unclassifiable/Attainment.
Washington County | 0 | Unclassifiable/Attainment.
Wheeler County |  | Unclassifiable/Attainment.
Yamhill County |  | Unclassifiable/Attainment.
ᵃ Includes Indian Country located in each county or area, except as otherwise specified.
¹ This date is 90 days after October 31, 2011, unless otherwise noted.

40. Section 81.339 is amended as follows:

a. By revising the table heading “Pennsylvania—NO2” to read “Pennsylvania—NO2 (1971 Annual Standard).”

b. By adding a table entitled “Pennsylvania—NO2 (2010 1-Hour Standard)” in alphabetical order to read as follows:

§ 81.339 Pennsylvania.

* * * * *

Pennsylvania—NO2 (2010 1-Hour Standard)
Designated area | Designation ᵃ: Date ¹ | Designation ᵃ: Type
Adams County |  | Unclassifiable/Attainment.
Allegheny County |  | Unclassifiable/Attainment.
Armstrong County |  | Unclassifiable/Attainment.
Beaver County |  | Unclassifiable/Attainment.
Bedford County |  | Unclassifiable/Attainment.
Berks County |  | Unclassifiable/Attainment.
Blair County |  | Unclassifiable/Attainment.
Bradford County |  | Unclassifiable/Attainment.
Bucks County |  | Unclassifiable/Attainment.
Butler County |  | Unclassifiable/Attainment.
Cambria County |  | Unclassifiable/Attainment.
Cameron County |  | Unclassifiable/Attainment.
Carbon County |  | Unclassifiable/Attainment.
Centre County |  | Unclassifiable/Attainment.
Chester County |  | Unclassifiable/Attainment.
Clarion County |  | Unclassifiable/Attainment.
Clearfield County |  | Unclassifiable/Attainment.
Clinton County |  | Unclassifiable/Attainment.
Columbia County |  | Unclassifiable/Attainment.
Crawford County |  | Unclassifiable/Attainment.
Cumberland County |  | Unclassifiable/Attainment.
Dauphin County |  | Unclassifiable/Attainment.
Delaware County |  | Unclassifiable/Attainment.
Elk County |  | Unclassifiable/Attainment.
Erie County |  | Unclassifiable/Attainment.
Fayette County |  | Unclassifiable/Attainment.
Forest County |  | Unclassifiable/Attainment.
Franklin County |  | Unclassifiable/Attainment.
Fulton County |  | Unclassifiable/Attainment.
Greene County |  | Unclassifiable/Attainment.
Huntingdon County |  | Unclassifiable/Attainment.
Indiana County |  | Unclassifiable/Attainment.
Jefferson County |  | Unclassifiable/Attainment.
Juniata County |  | Unclassifiable/Attainment.
Lackawanna County |  | Unclassifiable/Attainment.
Lancaster County |  | Unclassifiable/Attainment.
Lawrence County |  | Unclassifiable/Attainment.
Lebanon County |  | Unclassifiable/Attainment.
Lehigh County |  | Unclassifiable/Attainment.
Luzerne County |  | Unclassifiable/Attainment.
Lycoming County |  | Unclassifiable/Attainment.
McKean County |  | Unclassifiable/Attainment.
Mercer County |  | Unclassifiable/Attainment.
Mifflin County |  | Unclassifiable/Attainment.
Monroe County |  | Unclassifiable/Attainment.
Montgomery County |  | Unclassifiable/Attainment.
Montour County |  | Unclassifiable/Attainment.
Northampton County |  | Unclassifiable/Attainment.
Northumberland County |  | Unclassifiable/Attainment.
Perry County |  | Unclassifiable/Attainment.
Philadelphia County |  | Unclassifiable/Attainment.
Pike County |  | Unclassifiable/Attainment.
Potter County |  | Unclassifiable/Attainment.
Schuylkill County |  | Unclassifiable/Attainment.
Snyder County |  | Unclassifiable/Attainment.
Somerset County |  | Unclassifiable/Attainment.
Sullivan County |  | Unclassifiable/Attainment.
Susquehanna County |  | Unclassifiable/Attainment.
Tioga County |  | Unclassifiable/Attainment.
Union County |  | Unclassifiable/Attainment.
Venango County |  | Unclassifiable/Attainment.
Warren County |  | Unclassifiable/Attainment.
Washington County |  | Unclassifiable/Attainment.
Wayne County |  | Unclassifiable/Attainment.
Westmoreland County |  | Unclassifiable/Attainment.
Wyoming County |  | Unclassifiable/Attainment.
York County |  | Unclassifiable/Attainment.
ᵃ Includes Indian Country located in each county or area, except as otherwise specified.
¹ This date is 90 days after October 31, 2011, unless otherwise noted.

41. Section 81.340 is amended as follows:

a. By revising the table heading “Rhode Island—NO2” to read “Rhode Island—NO2 (1971 Annual Standard).”

b. By adding a table entitled “Rhode Island—NO2 (2010 1-Hour Standard)” in alphabetical order to read as follows:

§ 81.340 Rhode Island.

* * * * *

Rhode Island—NO2 (2010 1-Hour Standard)
Designated area | Designation ᵃ: Date ¹ | Designation ᵃ: Type
State of Rhode Island |  | Unclassifiable/Attainment.
ᵃ Includes Indian Country located in each county or area, except as otherwise specified.
¹ This date is 90 days after October 31, 2011, unless otherwise noted.

42. Section 81.341 is amended as follows:

a. By revising the table heading “South Carolina—NO2” to read “South Carolina—NO2 (1971 Annual Standard).”

b. By adding a table entitled “South Carolina—NO2 (2010 1-Hour Standard)” in alphabetical order to read as follows:

§ 81.341 South Carolina.

* * * * *

South Carolina—NO2 (2010 1-Hour Standard)
Designated area | Designation ᵃ: Date ¹ | Designation ᵃ: Type
Abbeville County |  | Unclassifiable/Attainment.
Aiken County |  | Unclassifiable/Attainment.
Allendale County |  | Unclassifiable/Attainment.
Anderson County |  | Unclassifiable/Attainment.
Bamberg County |  | Unclassifiable/Attainment.
Barnwell County |  | Unclassifiable/Attainment.
Beaufort County |  | Unclassifiable/Attainment.
Berkeley County |  | Unclassifiable/Attainment.
Calhoun County |  | Unclassifiable/Attainment.
Charleston County |  | Unclassifiable/Attainment.
Cherokee County |  | Unclassifiable/Attainment.
Chester County |  | Unclassifiable/Attainment.
Chesterfield County |  | Unclassifiable/Attainment.
Clarendon County |  | Unclassifiable/Attainment.
Colleton County |  | Unclassifiable/Attainment.
Darlington County |  | Unclassifiable/Attainment.
Dillon County |  | Unclassifiable/Attainment.
Dorchester County |  | Unclassifiable/Attainment.
Edgefield County |  | Unclassifiable/Attainment.
Fairfield County |  | Unclassifiable/Attainment.
Florence County |  | Unclassifiable/Attainment.
Georgetown County |  | Unclassifiable/Attainment.
Greenwood County |  | Unclassifiable/Attainment.
Greenville County |  | Unclassifiable/Attainment.
Hampton County |  | Unclassifiable/Attainment.
Horry County |  | Unclassifiable/Attainment.
Jasper County |  | Unclassifiable/Attainment.
Kershaw County |  | Unclassifiable/Attainment.
Lancaster County |  | Unclassifiable/Attainment.
Laurens County |  | Unclassifiable/Attainment.
Lee County |  | Unclassifiable/Attainment.
Lexington County |  | Unclassifiable/Attainment.
McCormick County |  | Unclassifiable/Attainment.
Marion County |  | Unclassifiable/Attainment.
Marlboro County |  | Unclassifiable/Attainment.
Newberry County |  | Unclassifiable/Attainment.
Oconee County |  | Unclassifiable/Attainment.
Orangeburg County |  | Unclassifiable/Attainment.
Pickens County |  | Unclassifiable/Attainment.
Richland County |  | Unclassifiable/Attainment.
Saluda County |  | Unclassifiable/Attainment.
Spartanburg County |  | Unclassifiable/Attainment.
Sumter County |  | Unclassifiable/Attainment.
Union County |  | Unclassifiable/Attainment.
Williamsburg County |  | Unclassifiable/Attainment.
York County |  | Unclassifiable/Attainment.
ᵃ Includes Indian Country located in each county or area, except as otherwise specified.
¹ This date is 90 days after October 31, 2011, unless otherwise noted.

43. Section 81.342 is amended as follows:

a. By revising the table heading “South Dakota—NO2” to read “South Dakota—NO2 (1971 Annual Standard).”

b. By adding a table entitled “South Dakota—NO2 (2010 1-Hour Standard)” in alphabetical order to read as follows:

§ 81.342 South Dakota.

* * * * *

South Dakota—NO2 (2010 1-Hour Standard)
Designated area | Designation ᵃ: Date ¹ | Designation ᵃ: Type
Aurora County |  | Unclassifiable/Attainment.
Beadle County |  | Unclassifiable/Attainment.
Bennett County |  | Unclassifiable/Attainment.
Bon Homme County |  | Unclassifiable/Attainment.
Brookings County |  | Unclassifiable/Attainment.
Brown County |  | Unclassifiable/Attainment.
Brule County |  | Unclassifiable/Attainment.
Buffalo County |  | Unclassifiable/Attainment.
Butte County |  | Unclassifiable/Attainment.
Campbell County |  | Unclassifiable/Attainment.
Charles Mix County |  | Unclassifiable/Attainment.
Clark County |  | Unclassifiable/Attainment.
Clay County |  | Unclassifiable/Attainment.
Codington County |  | Unclassifiable/Attainment.
Corson County |  | Unclassifiable/Attainment.
Custer County |  | Unclassifiable/Attainment.
Davison County |  | Unclassifiable/Attainment.
Day County |  | Unclassifiable/Attainment.
Deuel County |  | Unclassifiable/Attainment.
Dewey County |  | Unclassifiable/Attainment.
Douglas County |  | Unclassifiable/Attainment.
Edmunds County |  | Unclassifiable/Attainment.
Fall River County |  | Unclassifiable/Attainment.
Faulk County |  | Unclassifiable/Attainment.
Grant County |  | Unclassifiable/Attainment.
Gregory County |  | Unclassifiable/Attainment.
Haakon County |  | Unclassifiable/Attainment.
Hamlin County |  | Unclassifiable/Attainment.
Hand County |  | Unclassifiable/Attainment.
Hanson County |  | Unclassifiable/Attainment.
Harding County |  | Unclassifiable/Attainment.
Hughes County |  | Unclassifiable/Attainment.
Hutchinson County |  | Unclassifiable/Attainment.
Hyde County |  | Unclassifiable/Attainment.
Jackson County |  | Unclassifiable/Attainment.
Jerauld County |  | Unclassifiable/Attainment.
Jones County |  | Unclassifiable/Attainment.
Kingsbury County |  | Unclassifiable/Attainment.
Lake County |  | Unclassifiable/Attainment.
Lawrence County |  | Unclassifiable/Attainment.
Lincoln County |  | Unclassifiable/Attainment.
Lyman County |  | Unclassifiable/Attainment.
McCook County |  | Unclassifiable/Attainment.
McPherson County |  | Unclassifiable/Attainment.
Marshall County |  | Unclassifiable/Attainment.
Meade County |  | Unclassifiable/Attainment.
Mellette County |  | Unclassifiable/Attainment.
Miner County |  | Unclassifiable/Attainment.
Minnehaha County |  | Unclassifiable/Attainment.
Moody County |  | Unclassifiable/Attainment.
Pennington County |  | Unclassifiable/Attainment.
Perkins County |  | Unclassifiable/Attainment.
Potter County |  | Unclassifiable/Attainment.
Roberts County |  | Unclassifiable/Attainment.
Sanborn County |  | Unclassifiable/Attainment.
Shannon County |  | Unclassifiable/Attainment.
Spink County |  | Unclassifiable/Attainment.
Stanley County |  | Unclassifiable/Attainment.
Sully County |  | Unclassifiable/Attainment.
Todd County |  | Unclassifiable/Attainment.
Tripp County |  | Unclassifiable/Attainment.
Turner County |  | Unclassifiable/Attainment.
Union County |  | Unclassifiable/Attainment.
Walworth County |  | Unclassifiable/Attainment.
Yankton County |  | Unclassifiable/Attainment.
Ziebach County |  | Unclassifiable/Attainment.
ᵃ Includes Indian Country located in each county or area, except as otherwise specified.
¹ This date is 90 days after October 31, 2011, unless otherwise noted.

44. Section 81.343 is amended as follows:

a. By revising the table heading “Tennessee—NO2” to read “Tennessee—NO2 (1971 Annual Standard).”

b. By adding a table entitled “Tennessee—NO2 (2010 1-Hour Standard)” in alphabetical order to read as follows:

§ 81.343 Tennessee.

* * * * *

Tennessee—NO2 (2010 1-Hour Standard)
Designated area | Designation ᵃ: Date ¹ | Designation ᵃ: Type
Bradley County |  | Unclassifiable/Attainment.
Davidson County |  | Unclassifiable/Attainment.
McMinn County |  | Unclassifiable/Attainment.
Sullivan County |  | Unclassifiable/Attainment.
Rest of State |  | Unclassifiable/Attainment.
ᵃ Includes Indian Country located in each county or area, except as otherwise specified.
¹ This date is 90 days after October 31, 2011, unless otherwise noted.

45. Section 81.344 is amended as follows:

a. By revising the table heading “Texas—NO2” to read “Texas—NO2 (1971 Annual Standard).”

b. By adding a table entitled “Texas—NO2 (2010 1-Hour Standard)” in alphabetical order to read as follows:

§ 81.344 Texas.

* * * * *

Texas—NO2 (2010 1-Hour Standard)
Designated area | Designation ᵃ: Date ¹ | Designation ᵃ: Type
Anderson County |  | Unclassifiable/Attainment.
Andrews County |  | Unclassifiable/Attainment.
Angelina County |  | Unclassifiable/Attainment.
Aransas County |  | Unclassifiable/Attainment.
Archer County |  | Unclassifiable/Attainment.
Armstrong County |  | Unclassifiable/Attainment.
Atascosa County |  | Unclassifiable/Attainment.
Austin County |  | Unclassifiable/Attainment.
Bailey County |  | Unclassifiable/Attainment.
Bandera County |  | Unclassifiable/Attainment.
Bastrop County |  | Unclassifiable/Attainment.
Baylor County |  | Unclassifiable/Attainment.
Bee County |  | Unclassifiable/Attainment.
Bell County |  | Unclassifiable/Attainment.
Bexar County |  | Unclassifiable/Attainment.
Blanco County |  | Unclassifiable/Attainment.
Borden County |  | Unclassifiable/Attainment.
Bosque County |  | Unclassifiable/Attainment.
Bowie County |  | Unclassifiable/Attainment.
Brazoria County |  | Unclassifiable/Attainment.
Brazos County |  | Unclassifiable/Attainment.
Brewster County |  | Unclassifiable/Attainment.
Briscoe County |  | Unclassifiable/Attainment.
Brooks County |  | Unclassifiable/Attainment.
Brown County |  | Unclassifiable/Attainment.
Burleson County |  | Unclassifiable/Attainment.
Burnet County |  | Unclassifiable/Attainment.
Caldwell County |  | Unclassifiable/Attainment.
Calhoun County |  | Unclassifiable/Attainment.
Callahan County |  | Unclassifiable/Attainment.
Cameron County |  | Unclassifiable/Attainment.
Camp County |  | Unclassifiable/Attainment.
Carson County |  | Unclassifiable/Attainment.
Cass County |  | Unclassifiable/Attainment.
Castro County |  | Unclassifiable/Attainment.
Cherokee County |  | Unclassifiable/Attainment.
Childress County |  | Unclassifiable/Attainment.
Chambers County |  | Unclassifiable/Attainment.
Clay County |  | Unclassifiable/Attainment.
Cochran County |  | Unclassifiable/Attainment.
Coke County |  | Unclassifiable/Attainment.
Coleman County |  | Unclassifiable/Attainment.
Collin County |  | Unclassifiable/Attainment.
Collingsworth County |  | Unclassifiable/Attainment.
Colorado County |  | Unclassifiable/Attainment.
Comal County |  | Unclassifiable/Attainment.
Comanche County |  | Unclassifiable/Attainment.
Concho County |  | Unclassifiable/Attainment.
Cooke County |  | Unclassifiable/Attainment.
Coryell County |  | Unclassifiable/Attainment.
Cottle County |  | Unclassifiable/Attainment.
Crane County |  | Unclassifiable/Attainment.
Crockett County |  | Unclassifiable/Attainment.
Crosby County |  | Unclassifiable/Attainment.
Culberson County |  | Unclassifiable/Attainment.
Dallam County |  | Unclassifiable/Attainment.
Dallas County |  | Unclassifiable/Attainment.
Dawson County |  | Unclassifiable/Attainment.
Deaf Smith County |  | Unclassifiable/Attainment.
Delta County |  | Unclassifiable/Attainment.
Denton County |  | Unclassifiable/Attainment.
DeWitt County |  | Unclassifiable/Attainment.
Dickens County |  | Unclassifiable/Attainment.
Dimmit County |  | Unclassifiable/Attainment.
Donley County |  | Unclassifiable/Attainment.
Duval County |  | Unclassifiable/Attainment.
Eastland County |  | Unclassifiable/Attainment.
Ector County |  | Unclassifiable/Attainment.
Edwards County |  | Unclassifiable/Attainment.
El Paso County |  | Unclassifiable/Attainment.
Ellis County |  | Unclassifiable/Attainment.
Erath County |  | Unclassifiable/Attainment.
Falls County |  | Unclassifiable/Attainment.
Fannin County |  | Unclassifiable/Attainment.
Fayette County |  | Unclassifiable/Attainment.
Fisher County |  | Unclassifiable/Attainment.
Floyd County |  | Unclassifiable/Attainment.
Foard County |  | Unclassifiable/Attainment.
Fort Bend County |  | Unclassifiable/Attainment.
Franklin County |  | Unclassifiable/Attainment.
Freestone County |  | Unclassifiable/Attainment.
Frio County |  | Unclassifiable/Attainment.
Gaines County |  | Unclassifiable/Attainment.
Galveston County |  | Unclassifiable/Attainment.
Garza County |  | Unclassifiable/Attainment.
Gillespie County |  | Unclassifiable/Attainment.
Glasscock County |  | Unclassifiable/Attainment.
Goliad County |  | Unclassifiable/Attainment.
Gonzales County |  | Unclassifiable/Attainment.
Gray County |  | Unclassifiable/Attainment.
Grayson County |  | Unclassifiable/Attainment.
Gregg County |  | Unclassifiable/Attainment.
Grimes County |  | Unclassifiable/Attainment.
Guadalupe County |  | Unclassifiable/Attainment.
Hale County |  | Unclassifiable/Attainment.
Hall County |  | Unclassifiable/Attainment.
Hamilton County |  | Unclassifiable/Attainment.
Hansford County |  | Unclassifiable/Attainment.
Hardeman County |  | Unclassifiable/Attainment.
Hardin County |  | Unclassifiable/Attainment.
Harris County |  | Unclassifiable/Attainment.
Harrison County |  | Unclassifiable/Attainment.
Hartley County |  | Unclassifiable/Attainment.
Haskell County |  | Unclassifiable/Attainment.
Hays County |  | Unclassifiable/Attainment.
Hemphill County |  | Unclassifiable/Attainment.
Henderson County |  | Unclassifiable/Attainment.
Hidalgo County |  | Unclassifiable/Attainment.
Hill County |  | Unclassifiable/Attainment.
Hockley County |  | Unclassifiable/Attainment.
Hood County |  | Unclassifiable/Attainment.
Hopkins County |  | Unclassifiable/Attainment.
Houston County |  | Unclassifiable/Attainment.
Howard County |  | Unclassifiable/Attainment.
Hudspeth County |  | Unclassifiable/Attainment.
Hunt County |  | Unclassifiable/Attainment.
Hutchinson County |  | Unclassifiable/Attainment.
Irion County |  | Unclassifiable/Attainment.
Jack County |  | Unclassifiable/Attainment.
Jackson County |  | Unclassifiable/Attainment.
Jasper County |  | Unclassifiable/Attainment.
Jeff Davis County |  | Unclassifiable/Attainment.
Jefferson County |  | Unclassifiable/Attainment.
Jim Hogg County |  | Unclassifiable/Attainment.
Jim Wells County |  | Unclassifiable/Attainment.
Johnson County |  | Unclassifiable/Attainment.
Jones County |  | Unclassifiable/Attainment.
Karnes County |  | Unclassifiable/Attainment.
Kaufman County |  | Unclassifiable/Attainment.
Kendall County |  | Unclassifiable/Attainment.
Kenedy County |  | Unclassifiable/Attainment.
Kent County |  | Unclassifiable/Attainment.
Kerr County |  | Unclassifiable/Attainment.
Kimble County |  | Unclassifiable/Attainment.
King County |  | Unclassifiable/Attainment.
Kinney County |  | Unclassifiable/Attainment.
Kleberg County |  | Unclassifiable/Attainment.
Knox County |  | Unclassifiable/Attainment.
La Salle County |  | Unclassifiable/Attainment.
Lamar County |  | Unclassifiable/Attainment.
Lamb County |  | Unclassifiable/Attainment.
Lampasas County |  | Unclassifiable/Attainment.
Lavaca County |  | Unclassifiable/Attainment.
Lee County |  | Unclassifiable/Attainment.
Leon County |  | Unclassifiable/Attainment.
Liberty County |  | Unclassifiable/Attainment.
Limestone County |  | Unclassifiable/Attainment.
Lipscomb County |  | Unclassifiable/Attainment.
Live Oak County |  | Unclassifiable/Attainment.
Llano County |  | Unclassifiable/Attainment.
Loving County |  | Unclassifiable/Attainment.
Lubbock County |  | Unclassifiable/Attainment.
Lynn County |  | Unclassifiable/Attainment.
McCulloch County |  | Unclassifiable/Attainment.
McLennan County |  | Unclassifiable/Attainment.
McMullen County |  | Unclassifiable/Attainment.
Madison County |  | Unclassifiable/Attainment.
Marion County |  | Unclassifiable/Attainment.
Martin County |  | Unclassifiable/Attainment.
Mason County |  | Unclassifiable/Attainment.
Matagorda County |  | Unclassifiable/Attainment.
Maverick County |  | Unclassifiable/Attainment.
Medina County |  | Unclassifiable/Attainment.
Menard County |  | Unclassifiable/Attainment.
Midland County |  | Unclassifiable/Attainment.
Milam County |  | Unclassifiable/Attainment.
Mills County |  | Unclassifiable/Attainment.
Mitchell County |  | Unclassifiable/Attainment.
Montague County |  | Unclassifiable/Attainment.
Montgomery County |  | Unclassifiable/Attainment.
Moore County |  | Unclassifiable/Attainment.
Morris County |  | Unclassifiable/Attainment.
Motley County |  | Unclassifiable/Attainment.
Nacogdoches County |  | Unclassifiable/Attainment.
Navarro County |  | Unclassifiable/Attainment.
Newton County |  | Unclassifiable/Attainment.
Nolan County |  | Unclassifiable/Attainment.
Nueces County |  | Unclassifiable/Attainment.
Ochiltree County |  | Unclassifiable/Attainment.
Oldham County |  | Unclassifiable/Attainment.
Orange County |  | Unclassifiable/Attainment.
Palo Pinto County |  | Unclassifiable/Attainment.
Panola County |  | Unclassifiable/Attainment.
Parker County |  | Unclassifiable/Attainment.
Parmer County |  | Unclassifiable/Attainment.
Pecos County |  | Unclassifiable/Attainment.
Polk County |  | Unclassifiable/Attainment.
Potter County |  | Unclassifiable/Attainment.
Presidio County |  | Unclassifiable/Attainment.
Rains County |  | Unclassifiable/Attainment.
Randall County |  | Unclassifiable/Attainment.
Reagan County |  | Unclassifiable/Attainment.
Real County |  | Unclassifiable/Attainment.
Red River County |  | Unclassifiable/Attainment.
Reeves County |  | Unclassifiable/Attainment.
Refugio County |  | Unclassifiable/Attainment.
Roberts County |  | Unclassifiable/Attainment.
Robertson County |  | Unclassifiable/Attainment.
Rockwall County |  | Unclassifiable/Attainment.
Runnels County |  | Unclassifiable/Attainment.
Rusk County |  | Unclassifiable/Attainment.
Sabine County |  | Unclassifiable/Attainment.
San Augustine County |  | Unclassifiable/Attainment.
San Jacinto County |  | Unclassifiable/Attainment.
San Patricio County |  | Unclassifiable/Attainment.
San Saba County |  | Unclassifiable/Attainment.
Schleicher County |  | Unclassifiable/Attainment.
Scurry County |  | Unclassifiable/Attainment.
Shackelford County |  | Unclassifiable/Attainment.
Shelby County |  | Unclassifiable/Attainment.
Sherman County |  | Unclassifiable/Attainment.
Smith County |  | Unclassifiable/Attainment.
Somervell County |  | Unclassifiable/Attainment.
Starr County |  | Unclassifiable/Attainment.
Stephens County |  | Unclassifiable/Attainment.
Sterling County |  | Unclassifiable/Attainment.
Stonewall County |  | Unclassifiable/Attainment.
Sutton County |  | Unclassifiable/Attainment.
Swisher County |  | Unclassifiable/Attainment.
Tarrant County |  | Unclassifiable/Attainment.
Taylor County |  | Unclassifiable/Attainment.
Terrell County |  | Unclassifiable/Attainment.
Terry County |  | Unclassifiable/Attainment.
Throckmorton County |  | Unclassifiable/Attainment.
Titus County |  | Unclassifiable/Attainment.
Tom Green County |  | Unclassifiable/Attainment.
Travis County |  | Unclassifiable/Attainment.
Trinity County |  | Unclassifiable/Attainment.
Tyler County |  | Unclassifiable/Attainment.
Upshur County |  | Unclassifiable/Attainment.
Upton County |  | Unclassifiable/Attainment.
Uvalde County |  | Unclassifiable/Attainment.
Val Verde County |  | Unclassifiable/Attainment.
Van Zandt County |  | Unclassifiable/Attainment.
Victoria County |  | Unclassifiable/Attainment.
Walker County |  | Unclassifiable/Attainment.
Waller County |  | Unclassifiable/Attainment.
Ward County |  | Unclassifiable/Attainment.
Washington County |  | Unclassifiable/Attainment.
Webb County |  | Unclassifiable/Attainment.
Wharton County |  | Unclassifiable/Attainment.
Wheeler County |  | Unclassifiable/Attainment.
Wichita County |  | Unclassifiable/Attainment.
Wilbarger County |  | Unclassifiable/Attainment.
Willacy County |  | Unclassifiable/Attainment.
Williamson County |  | Unclassifiable/Attainment.
Wilson County |  | Unclassifiable/Attainment.
Winkler County |  | Unclassifiable/Attainment.
Wise County |  | Unclassifiable/Attainment.
Wood County |  | Unclassifiable/Attainment.
Yoakum County |  | Unclassifiable/Attainment.
Young County |  | Unclassifiable/Attainment.
Zapata County |  | Unclassifiable/Attainment.
Zavala County |  | Unclassifiable/Attainment.
ᵃ Includes Indian Country located in each county or area, except as otherwise specified.
¹ This date is 90 days after October 31, 2011, unless otherwise noted.

46. Section 81.345 is amended as follows:

a. By revising the table heading “Utah—NO2” to read “Utah—NO2 (1971 Annual Standard).”

b. By adding a table entitled “Utah—NO2 (2010 1-Hour Standard)” in alphabetical order to read as follows:

§ 81.345 Utah.

* * * * *

Utah—NO2 (2010 1-Hour Standard)
Designated area | Designation ᵃ: Date ¹ | Designation ᵃ: Type
Cache County |  | Unclassifiable/Attainment.
Davis County |  | Unclassifiable/Attainment.
Salt Lake County |  | Unclassifiable/Attainment.
Utah County |  | Unclassifiable/Attainment.
Weber County |  | Unclassifiable/Attainment.
Rest of State |  | Unclassifiable/Attainment.
ᵃ Includes Indian Country located in each county or area, except as otherwise specified.
¹ This date is 90 days after October 31, 2011, unless otherwise noted.

47. Section 81.346 is amended as follows:

a. By revising the table heading “Vermont—NO2” to read “Vermont—NO2 (1971 Annual Standard).”

b. By adding a table entitled “Vermont—NO2 (2010 1-Hour Standard)” in alphabetical order to read as follows:

§ 81.346 Vermont.

* * * * *

Vermont—NO2 (2010 1-Hour Standard)
Designated area | Designation ᵃ: Date ¹ | Designation ᵃ: Type
State of Vermont |  | Unclassifiable/Attainment.
ᵃ Includes Indian Country located in each county or area, except as otherwise specified.
¹ This date is 90 days after October 31, 2011, unless otherwise noted.

48. Section 81.347 is amended as follows:

a. By revising the table heading “Virginia—NO2” to read “Virginia—NO2 (1971 Annual Standard).”

b. By adding a table entitled “Virginia—NO2 (2010 1-Hour Standard)” in alphabetical order to read as follows:

§ 81.347 Virginia.

* * * * *

Virginia—NO2 (2010 1-Hour Standard)
Designated area | Designation ᵃ: Date ¹ | Designation ᵃ: Type
State of Virginia |  | Unclassifiable/Attainment.
ᵃ Includes Indian Country located in each county or area, except as otherwise specified.
¹ This date is 90 days after October 31, 2011, unless otherwise noted.

49. Section 81.348 is amended as follows:

a. By revising the table heading “Washington—NO2” to read “Washington—NO2 (1971 Annual Standard).”

b. By adding a table entitled “Washington—NO2 (2010 1-Hour Standard)” in alphabetical order to read as follows:

§ 81.348 Washington.

* * * * *

Washington—NO2 (2010 1-Hour Standard)
Designated area | Designation ᵃ: Date ¹ | Designation ᵃ: Type
State of Washington |  | Unclassifiable/Attainment.
ᵃ Includes Indian Country located in each county or area, except as otherwise specified.
¹ This date is 90 days after October 31, 2011, unless otherwise noted.

50. Section 81.349 is amended as follows:

a. By revising the table heading “West Virginia—NO2” to read “West Virginia—NO2 (1971 Annual Standard).”

b. By adding a table entitled “West Virginia—NO2 (2010 1-Hour Standard)” in alphabetical order to read as follows:

§ 81.349 West Virginia.

* * * * *

West Virginia—NO2 (2010 1-Hour Standard)
Designated area | Designation ᵃ: Date ¹ | Designation ᵃ: Type
State of West Virginia |  | Unclassifiable/Attainment.
ᵃ Includes Indian Country located in each county or area, except as otherwise specified.
¹ This date is 90 days after October 31, 2011, unless otherwise noted.

51. Section 81.350 is amended as follows:

a. By revising the table heading “Wisconsin—NO2” to read “Wisconsin—NO2 (1971 Annual Standard).”

b. By adding a table entitled “Wisconsin—NO2 (2010 1-Hour Standard)” in alphabetical order to read as follows:

§ 81.350 Wisconsin.

* * * * *

Wisconsin—NO2 (2010 1-Hour Standard)
Designated area | Designation ᵃ: Date ¹ | Designation ᵃ: Type
Adams County |  | Unclassifiable/Attainment.
Ashland County |  | Unclassifiable/Attainment.
Barron County |  | Unclassifiable/Attainment.
Bayfield County |  | Unclassifiable/Attainment.
Brown County |  | Unclassifiable/Attainment.
Buffalo County |  | Unclassifiable/Attainment.
Burnett County |  | Unclassifiable/Attainment.
Calumet County |  | Unclassifiable/Attainment.
Chippewa County |  | Unclassifiable/Attainment.
Clark County |  | Unclassifiable/Attainment.
Columbia County |  | Unclassifiable/Attainment.
Crawford County |  | Unclassifiable/Attainment.
Dane County |  | Unclassifiable/Attainment.
Dodge County |  | Unclassifiable/Attainment.
Door County |  | Unclassifiable/Attainment.
Douglas County |  | Unclassifiable/Attainment.
Dunn County |  | Unclassifiable/Attainment.
Eau Claire County |  | Unclassifiable/Attainment.
Florence County |  | Unclassifiable/Attainment.
Fond du Lac County |  | Unclassifiable/Attainment.
Forest County |  | Unclassifiable/Attainment.
Grant County |  | Unclassifiable/Attainment.
Green County |  | Unclassifiable/Attainment.
Green Lake County |  | Unclassifiable/Attainment.
Iowa County |  | Unclassifiable/Attainment.
Iron County |  | Unclassifiable/Attainment.
Jackson County |  | Unclassifiable/Attainment.
Jefferson County |  | Unclassifiable/Attainment.
Juneau County |  | Unclassifiable/Attainment.
Kenosha County |  | Unclassifiable/Attainment.
Kewaunee County |  | Unclassifiable/Attainment.
La Crosse County |  | Unclassifiable/Attainment.
Lafayette County |  | Unclassifiable/Attainment.
Langlade County |  | Unclassifiable/Attainment.
Lincoln County |  | Unclassifiable/Attainment.
Manitowoc County |  | Unclassifiable/Attainment.
Marathon County |  | Unclassifiable/Attainment.
Marinette County |  | Unclassifiable/Attainment.
Marquette County |  | Unclassifiable/Attainment.
Menominee County |  | Unclassifiable/Attainment.
Milwaukee County |  | Unclassifiable/Attainment.
Monroe County |  | Unclassifiable/Attainment.
Oconto County |  | Unclassifiable/Attainment.
Oneida County |  | Unclassifiable/Attainment.
Outagamie County |  | Unclassifiable/Attainment.
Ozaukee County |  | Unclassifiable/Attainment.
Pepin County |  | Unclassifiable/Attainment.
Pierce County |  | Unclassifiable/Attainment.
Polk County |  | Unclassifiable/Attainment.
Portage County |  | Unclassifiable/Attainment.
Price County |  | Unclassifiable/Attainment.
Racine County |  | Unclassifiable/Attainment.
Richland County |  | Unclassifiable/Attainment.
Rock County |  | Unclassifiable/Attainment.
Rusk County |  | Unclassifiable/Attainment.
St. Croix County |  | Unclassifiable/Attainment.
Sauk County |  | Unclassifiable/Attainment.
Sawyer County |  | Unclassifiable/Attainment.
Shawano County |  | Unclassifiable/Attainment.
Sheboygan County |  | Unclassifiable/Attainment.
Taylor County |  | Unclassifiable/Attainment.
Trempealeau County |  | Unclassifiable/Attainment.
Vernon County |  | Unclassifiable/Attainment.
Vilas County |  | Unclassifiable/Attainment.
Walworth County |  | Unclassifiable/Attainment.
Washburn County |  | Unclassifiable/Attainment.
Washington County |  | Unclassifiable/Attainment.
Waukesha County |  | Unclassifiable/Attainment.
Waupaca County |  | Unclassifiable/Attainment.
Waushara County |  | Unclassifiable/Attainment.
Winnebago County |  | Unclassifiable/Attainment.
Wood County |  | Unclassifiable/Attainment.
ᵃ Includes Indian Country located in each county or area, except as otherwise specified.
¹ This date is 90 days after October 31, 2011, unless otherwise noted.

52. Section 81.351 is amended as follows:

a. By revising the table heading “Wyoming—NO2” to read “Wyoming—NO2 (1971 Annual Standard).”

b. By adding a table entitled “Wyoming—NO2 (2010 1-Hour Standard)” in alphabetical order to read as follows:

§ 81.351 Wyoming.

* * * * *

Wyoming—NO2 (2010 1-Hour Standard)
Designated area | Designation ᵃ: Date ¹ | Designation ᵃ: Type
Albany County |  | Unclassifiable/Attainment.
Big Horn County |  | Unclassifiable/Attainment.
Campbell County |  | Unclassifiable/Attainment.
Carbon County |  | Unclassifiable/Attainment.
Converse County |  | Unclassifiable/Attainment.
Crook County |  | Unclassifiable/Attainment.
Fremont County |  | Unclassifiable/Attainment.
Goshen County |  | Unclassifiable/Attainment.
Hot Springs County |  | Unclassifiable/Attainment.
Johnson County |  | Unclassifiable/Attainment.
Laramie County |  | Unclassifiable/Attainment.
Lincoln County |  | Unclassifiable/Attainment.
Natrona County |  | Unclassifiable/Attainment.
Niobrara County |  | Unclassifiable/Attainment.
Park County |  | Unclassifiable/Attainment.
Platte County |  | Unclassifiable/Attainment.
Sheridan County |  | Unclassifiable/Attainment.
Sublette County |  | Unclassifiable/Attainment.
Sweetwater County |  | Unclassifiable/Attainment.
Teton County |  | Unclassifiable/Attainment.
Uinta County |  | Unclassifiable/Attainment.
Washakie County |  | Unclassifiable/Attainment.
Weston County |  | Unclassifiable/Attainment.
ᵃ Includes Indian Country located in each county or area, except as otherwise specified.
¹ This date is 90 days after October 31, 2011, unless otherwise noted.

53. Section 81.352 is amended as follows:

a. By revising the table heading “American Samoa—NO2” to read “American Samoa—NO2 (1971 Annual Standard).”

b. By adding a table entitled “American Samoa—NO2 (2010 1-Hour Standard)” in alphabetical order to read as follows:

§ 81.352 American Samoa.

* * * * *

American Samoa—NO2 (2010 1-Hour Standard)
Designated area | Designation ᵃ: Date ¹ | Designation ᵃ: Type
State of American Samoa |  | Unclassifiable/Attainment.
ᵃ Includes Indian Country located in each county or area, except as otherwise specified.
¹ This date is 90 days after October 31, 2011, unless otherwise noted.

54. Section 81.353 is amended as follows:

a. By revising the table heading “Guam—NO2” to read “Guam—NO2 (1971 Annual Standard).”

b. By adding a table entitled “Guam—NO2 (2010 1-Hour Standard)” in alphabetical order to read as follows:

§ 81.353 Guam.

* * * * *

Guam—NO2 (2010 1-Hour Standard)
Designated area | Designation ᵃ: Date ¹ | Designation ᵃ: Type
State of Guam |  | Unclassifiable/Attainment.
ᵃ Includes Indian Country located in each county or area, except as otherwise specified.
¹ This date is 90 days after October 31, 2011, unless otherwise noted.

55. Section 81.354 is amended as follows:

a. By revising the table heading “Northern Mariana Islands—NO2” to read “Northern Mariana Islands—NO2 (1971 Annual Standard).”

b. By adding a table entitled “Northern Mariana Islands—NO2 (2010 1-Hour Standard)” in alphabetical order to read as follows:

§ 81.354 Northern Mariana Islands.

* * * * *

Northern Mariana Islands—NO2 (2010 1-Hour Standard)
Designated area | Designation ᵃ: Date ¹ | Designation ᵃ: Type
Northern Mariana Islands |  | Unclassifiable/Attainment.
ᵃ Includes Indian Country located in each county or area, except as otherwise specified.
¹ This date is 90 days after October 31, 2011, unless otherwise noted.

56. Section 81.355 is amended as follows:

a. By revising the table heading “Puerto Rico—NO2” to read “Puerto Rico—NO2 (1971 Annual Standard).”

b. By adding a table entitled “Puerto Rico—NO2 (2010 1-Hour Standard)” in alphabetical order to read as follows:

§ 81.355 Puerto Rico.

* * * * *

Puerto Rico—NO2 (2010 1-Hour Standard)
Designated area | Designation ᵃ: Date ¹ | Designation ᵃ: Type
Adjuntas Municipio |  | Unclassifiable/Attainment.
Aguada Municipio |  | Unclassifiable/Attainment.
Aguadilla Municipio |  | Unclassifiable/Attainment.
Aguas Buenas Municipio |  | Unclassifiable/Attainment.
Aibonito Municipio |  | Unclassifiable/Attainment.
Añasco Municipio |  | Unclassifiable/Attainment.
Arecibo Municipio |  | Unclassifiable/Attainment.
Arroyo Municipio |  | Unclassifiable/Attainment.
Barceloneta Municipio |  | Unclassifiable/Attainment.
Barranquitas Municipio |  | Unclassifiable/Attainment.
Bayamón County |  | Unclassifiable/Attainment.
Cabo Rojo Municipio |  | Unclassifiable/Attainment.
Caguas Municipio |  | Unclassifiable/Attainment.
Camuy Municipio |  | Unclassifiable/Attainment.
Canóvanas Municipio |  | Unclassifiable/Attainment.
Carolina Municipio |  | Unclassifiable/Attainment.
Cataño County |  | Unclassifiable/Attainment.
Cayey Municipio |  | Unclassifiable/Attainment.
Ceiba Municipio |  | Unclassifiable/Attainment.
Ciales Municipio |  | Unclassifiable/Attainment.
Cidra Municipio |  | Unclassifiable/Attainment.
Coamo Municipio |  | Unclassifiable/Attainment.
Comerío Municipio |  | Unclassifiable/Attainment.
Corozal Municipio |  | Unclassifiable/Attainment.
Culebra Municipio |  | Unclassifiable/Attainment.
Dorado Municipio |  | Unclassifiable/Attainment.
Fajardo Municipio |  | Unclassifiable/Attainment.
Florida Municipio |  | Unclassifiable/Attainment.
Guánica Municipio |  | Unclassifiable/Attainment.
Guayama Municipio |  | Unclassifiable/Attainment.
Guayanilla Municipio |  | Unclassifiable/Attainment.
Guaynabo County |  | Unclassifiable/Attainment.
Gurabo Municipio |  | Unclassifiable/Attainment.
Hatillo Municipio |  | Unclassifiable/Attainment.
Hormigueros Municipio |  | Unclassifiable/Attainment.
Humacao Municipio |  | Unclassifiable/Attainment.
Isabela Municipio |  | Unclassifiable/Attainment.
Jayuya Municipio |  | Unclassifiable/Attainment.
Juana Díaz Municipio |  | Unclassifiable/Attainment.
Juncos Municipio |  | Unclassifiable/Attainment.
Lajas Municipio |  | Unclassifiable/Attainment.
Lares Municipio |  | Unclassifiable/Attainment.
Las Marías Municipio |  | Unclassifiable/Attainment.
Las Piedras Municipio |  | Unclassifiable/Attainment.
Loíza Municipio |  | Unclassifiable/Attainment.
Luquillo Municipio |  | Unclassifiable/Attainment.
Manatí Municipio |  | Unclassifiable/Attainment.
Maricao Municipio |  | Unclassifiable/Attainment.
Maunabo Municipio |  | Unclassifiable/Attainment.
Mayagnez Municipio |  | Unclassifiable/Attainment.
Moca Municipio |  | Unclassifiable/Attainment.
Morovis Municipio |  | Unclassifiable/Attainment.
Naguabo Municipio |  | Unclassifiable/Attainment.
Naranjito Municipio |  | Unclassifiable/Attainment.
Orocovis Municipio |  | Unclassifiable/Attainment.
Patillas Municipio |  | Unclassifiable/Attainment.
Peñuelas Municipio |  | Unclassifiable/Attainment.
Ponce Municipio |  | Unclassifiable/Attainment.
Quebradillas Municipio |  | Unclassifiable/Attainment.
Rincón Municipio |  | Unclassifiable/Attainment.
Río Grande Municipio |  | Unclassifiable/Attainment.
Sabana Grande Municipio |  | Unclassifiable/Attainment.
Salinas Municipio |  | Unclassifiable/Attainment.
San Germán Municipio |  | Unclassifiable/Attainment.
San Juan Municipio |  | Unclassifiable/Attainment.
San Lorenzo Municipio |  | Unclassifiable/Attainment.
San Sebastián Municipio |  | Unclassifiable/Attainment.
Santa Isabel Municipio |  | Unclassifiable/Attainment.
Toa Alta Municipio |  | Unclassifiable/Attainment.
Toa Baja County |  | Unclassifiable/Attainment.
Trujillo Alto Municipio |  | Unclassifiable/Attainment.
Utuado Municipio |  | Unclassifiable/Attainment.
Vega Alta Municipio |  | Unclassifiable/Attainment.
Vega Baja Municipio |  | Unclassifiable/Attainment.
Vieques Municipio |  | Unclassifiable/Attainment.
Villalba Municipio |  | Unclassifiable/Attainment.
Yabucoa Municipio |  | Unclassifiable/Attainment.
Yauco Municipio |  | Unclassifiable/Attainment.
ᵃ Includes Indian Country located in each county or area, except as otherwise specified.
¹ This date is 90 days after October 31, 2011, unless otherwise noted.

57. Section 81.356 is amended as follows:

a. By revising the table heading “Virgin Islands—NO2” to read “Virgin Islands—NO2 (1971 Annual Standard).”

b. By adding a table entitled “Virgin Islands—NO2 (2010 1-Hour Standard)” in alphabetical order to read as follows:

§ 81.356 Virgin Islands.

* * * * *

Virgin Islands—NO2 (2010 1-Hour Standard)
Designated area | Designation ᵃ: Date ¹ | Designation ᵃ: Type
State of Virgin Islands |  | Unclassifiable/Attainment.
ᵃ Includes Indian Country located in each county or area, except as otherwise specified.
¹ This date is 90 days after October 31, 2011, unless otherwise noted.

[FR Doc. 2012-3150 Filed 2-16-12; 8:45 am]

BILLING CODE 6560-50-P